ENVIRONMENTAL PROTECTION AGENCY

40 CFR Part 81

[OAR-2003-0061; FRL-7856-1]

RIN-2060-AM04

Air Quality Designations and Classifications for the Fine Particles (PM2.5) National Ambient Air Quality Standards

AGENCY: Environmental Protection Agency (EPA).

ACTION: Final rule.

SUMMARY: This rule sets forth the initial air quality designations and classifications for all areas in the United States, including Indian country, for the fine particles (PM2.5) National Ambient Air Quality Standards (NAAQS). The EPA is issuing this rule so that citizens will know whether the air quality where they live and work is healthful or unhealthful. Health studies have shown significant associations between exposure to PM2.5 and premature death from heart or lung disease. Fine particles can also aggravate heart and lung diseases and have been linked to effects such as cardiovascular symptoms, cardiac arrhythmias, heart attacks, respiratory symptoms, asthma attacks, and bronchitis. These effects can result in increased hospital emissions, emergency room visits, absences from school or work, and restricted activity days.

Individuals that may be particularly sensitive to PM2.5 exposure include people with heart or lung disease, older adults, and children. This rule establishes the boundaries for areas designated as nonattainment, unclassifiable, or attainment/unclassifiable. This rule does not establish or address State and Tribal obligations for planning and control requirements that apply to nonattainment areas for the PM2.5 standards. The EPA will publish a separate rule which will set forth the planning and control requirements that apply to nonattainment areas for the PM2.5 standards.

DATES: The effective date of this rule is April 5, 2005.

ADDRESSES: The EPA has established a docket for this action under Docket ID NO. OAR-2003-0061. All documents in the docket are listed in the EDOCKET index at http://www.epa.gov/edocket. Although listed in the index, some information is not publicly available i.e., Confidential Business Information (CBI) or other information whose disclosure is restricted by statute. Certain other material, such as copyrighted material, is not placed on the Internet and will be publicly available only in hard copy form. Publicly available docket materials are available either electronically in the EDOCKET or in hard copy at the Docket, EPA/DC, EPA West, Room B102, 1301 Constitution Ave., NW., Washington, DC. The Public Reading Room is open from 8:30 a.m. to 4:30 p.m. Monday through Friday, excluding legal holidays. The telephone number for the Public Reading Room is (202) 566-1744, and the telephone number for the Office of Air and Radiation Docket and Information Center is (202) 566-1742. In addition, we have placed a copy of the rule and a variety of materials regarding designations on EPA's designation Web site at: http://www.epa.gov/oar/oaqps/particles/designations/index.htm and on the Tribal Web site at: http://www/epa.gov/air/tribal.

FOR FURTHER INFORMATION CONTACT: Designations: Mr. Rich Damberg, Office of Air Quality Planning and Standards, U.S. Environmental Protection Agency, Mail Code C504-02, Research Triangle Park, NC 27711, phone number (919) 541-5592 or by e-mail at: damberg.rich@epa.gov.

Designations and Part 81 Code of Federal Regulations: Dr. Larry D. Wallace, Office of Air Quality Planning and Standards, U.S. Environmental Protection Agency, Mail Code C504-02, Research Triangle Park, NC 27711, phone number (919) 541-0906 or by e-mail at: wallace.larry@epa.gov. Technical Issues Related to Designations: Mr. Thomas Rosendahl, Office of Air Quality Planning and Standards, U.S. Environmental Protection Agency, Mail Code C504-02, Research Triangle Park, NC 27711, phone number (919) 541-5314 or by e-mail at: rosendahl.tom@epa.gov.

PM2.5 Air Quality Data Issues: Mr. Mark Schmidt, Office of Air Quality Planning and Standards, U.S. Environmental Protection Agency, Mail Code C304-01, Research Triangle Park, NC 27711, phone number (919) 541-5314 or by e-mail at: schmidt.mark@epa.gov.

Regional Office Contacts:

Region I—Alison Simcox (617) 918-1684,

Region II—Kenneth Fradkin (212) 637-3702,

Region III—Denny Lohman (215) 814-2191,

Region IV—Steve Scofield (404) 562-9034,

Region V—John Summerhays (312) 886-6067,

Region VI—Joe Kordzi (214) 665-7186,

Region VII—Amy Algoe-Eakin (913) 551-7942,

Region VIII—Libby Faulk (303) 312-6083,

Region IX—Eleanor Kaplan (415) 744-1286,

Region X—Keith Rose (206) 553-1949.

SUPPLEMENTARY INFORMATION: The public may inspect the rule and the technical support information at the following locations:

Regional offices | States
Dave Conroy, Acting Branch Chief, Air Programs Branch, EPA New England, I Congress Street, Suite 1100, Boston, MA 02114-2023, (617) 918-1661 | Connecticut, Maine, Massachusetts, New Hampshire, Rhode Island, and Vermont.
Raymond Werner, Chief, Air Programs Branch, EPA Region II, 290 Broadway, 25th Floor, New York, NY 10007-1866, (212) 637-4249 | New Jersey, New York, Puerto Rico, and Virgin Islands.
Makeba Morris, Branch Chief, Air Quality Planning Branch, EPA Region III, 1650 Arch Street, Philadelphia, PA 19103-2187, (215) 814-2187 | Delaware, District of Columbia, Maryland, Pennsylvania, Virginia, and West Virginia.
Richard A. Schutt, Chief, Regulatory Development Section, EPA Region IV, Sam Nun Atlanta Federal Center, 61 Forsyth, Street, SW, 12th Floor, Atlanta, GA 30303, (404) 562-9033 | Alabama, Florida, Georgia, Kentucky, Mississippi, North Carolina, South Carolina, and Tennessee.
Jay Bortzer, Chief, Air Programs Branch, EPA Region V, 77 West Jackson Street, Chicago, IL 60604, (312) 886-4447 | Illinois, Indiana, Michigan, Minnesota, Ohio, and Wisconsin.
Donna Ascenzi, Acting Associate Director, Air Programs, EPA Region VI, 1445 Ross Avenue, Dallas, TX 75202, (214) 665-2725 | Arkansas, Louisiana, New Mexico, Oklahoma, and Texas.
Joshua A. Tapp, Chief, Air Programs Branch, EPA Region VII, 901 North 5th Street, Kansas City, Kansas 66101-2907, (913) 551-7606 | Iowa, Kansas, Missouri, and Nebraska.
Richard R. Long, Director, Air and Radiation Program, EPA Region VIII, 999 18th, Suite 300, Denver, CO 80202, (303) 312-6005 | Colorado, Montana, North Dakota, South Dakota, Utah, and Wyoming.
Steven Barhite, Air Planning Office, EPA Region IX, 75 Hawthorne Street, San Francisco, CA 94105, (415) 972-3980 | Arizona, California, Guam, Hawaii, and Nevada.
Mahbubul Islam, Manager, State and Tribal Air Programs, EPA Region X, Office of Air, Waste, and Toxics, Mail Code OAQ-107, 1200 Sixth Avenue, Seattle, WA 98101, (206) 553-6985 | Alaska, Idaho, Oregon, and Washington.

Table of Contents

The following is an outline of the Preamble.

I. Preamble Glossary of Terms and Acronyms

II. What is the Purpose of this Document?

III. What are Fine Particles?

IV. What are the Health Concerns Addressed by the PM2.5 Standard?

V. What is the Chronology of Events Leading Up to This Rule?

VI. What are the Clean Air Act (CAA) Requirements for Air Quality Designations and What Action has EPA Taken to Meet These Requirements?

VII. What Guidance Did EPA Issue and How Did EPA Apply the Statutory Requirements and Applicable Guidance To Determine Boundaries for the PM2.5 NAAQS?

VIII. Has EPA Used 2004 Air Quality Data?

IX. How Do Designations Affect Indian Country?

X. Where Can I Find Information Forming the Basis for This Rule and Exchanges Between EPA, States, and Tribes Related to This Rule?

XI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health and Safety Risks

H. Executive Order 13211: Actions That Significantly Affect Energy Supply, Distribution, or Use

I. National Technology Transfer Advancement Act (NTTAA)

J. Congressional Review Act

K. Judicial Review

I. Preamble Glossary of Terms and Acronyms

The following are abbreviations of terms used in the preamble.

CAA Clean Air Act

CFR Code of Federal Regulations

CMAQ Congestion Mitigation Air Quality

CMSA Consolidated Metropolitan Statistical Area

D.C. District of Columbia

EPA Environmental Protection Agency

FR Federal Register

MPO Metropolitan Planning Organizations

MSA Metropolitan Statistical Area

NAAQS National Ambient Air Quality Standard

NOX Nitrogen Oxides

NOA Notice of Availability

NPR Notice of Proposed Rulemaking

NSR New Source Review

OMB Office of Management and Budget

RTC Response to Comment

SIP State Implementation Plan

TAR Tribal Authority Rule

TEA-21 Transportation Equity Act for the 21st Century

TPY Tons Per Year

TSD Technical Support Document

U.S. United States

VOC Volatile Organic Compounds

II. What Is the Purpose of This Document?

The purpose of this document is to announce and promulgate designations and boundaries for areas of the country with respect to the PM2.5 NAAQS in accordance with the requirements of the CAA. The list of areas in each State, the boundaries of each area, and the designation of each area, appear in the table at the end of this final rule. This rule was signed by the EPA Administrator, Mike Leavitt, on December 17, 2004. Several steps were taken to announce that this rule is available. We posted the notice on several EPA Web sites and provided a copy of the rule to States and Tribes.

III. What Are Fine Particles?

Fine particles in the atmosphere are made up of a complex mixture of components. Common constituents include: sulfate (SO4); nitrate (NO3); ammonium (NH4); elemental carbon; a great variety of organic compounds; water; and inorganic material (including metals, dust, sea salt, and other trace elements), which often is categorized as “crustal” material. Airborne particles with a nominal aerodynamic diameter of 2.5 micrometers or less (a micrometer is one-millionth of a meter; 2.5 micrometers is less than about one-thirtieth the thickness of a human hair) are considered to be “fine particles,” and are also known as PM2.5. “Primary” particles are emitted directly into the air as a solid or liquid particle (e.g., elemental carbon and organic particles from diesel engines or burning activities). “Secondary” particles (e.g., sulfate and nitrate) form in the atmosphere as a result of various chemical transformations of gaseous precursors such as sulfur dioxide (SO2) and oxides of nitrogen (NOX).

IV. What Are the Health Concerns Addressed by the PM2.5 Standard?

Epidemiological studies have shown a significant association between elevated PM2.5 levels and a number of serious health effects, including premature mortality, aggravation of respiratory and cardiovascular disease (as indicated by increased hospital admissions, emergency room visits, absences from school or work, and restricted activity days), lung disease, decreased lung function, asthma attacks, and certain cardiovascular problems such as heart attacks and cardiac arrhythmia. Individuals particularly sensitive to PM2.5 exposure include older adults, people with heart and lung disease, and children.

More information on the health effects of PM2.5 can be found at the following Web site: http://www.epa.gov/ttn/naaqs/pm/pm25_index.html.

V. What Is the Chronology of Events Leading Up to This Rule?

This section summarizes the relevant activities leading up to today's action, including promulgation of the PM2.5 NAAQS and litigation challenging that standard. The CAA establishes a process for air quality management through the establishment and implementation of the NAAQS. After the promulgation of a new or revised NAAQS, EPA is required to designate areas, pursuant to section 107(d)(1) of the CAA, as attainment, nonattainment, or unclassifiable.

On July 18, 1997, EPA revised the NAAQS for particulate matter to add new standards for PM2.5, using PM2.5 as the indicator for the pollutant. The EPA established health-based (primary) annual and 24-hour standards for PM2.5 (62 FR 38652). The annual standard is a level of 15 micrograms per cubic meter, based on a 3-year average of annual mean PM2.5 concentrations. The 24-hour standard is a level 65 micrograms per cubic meter, based on a 3-year average of the 98th percentile of 24-hour concentrations. The EPA established the standards based on significant evidence and numerous health studies demonstrating that serious health effects are associated with exposures to particulate matter.

The PM2.5 NAAQS were challenged by numerous litigants and in May 1999, the U.S. Court of Appeals for the D.C. Circuit issued a decision remanding, but not vacating, the standards. American Trucking Assoc. v. EPA, 175 F.3d 1027, 1047-48, on rehearing 195 F.3d 4 (D.C. Cir., 1999). The EPA sought review of two aspects of that decision in the U.S. Supreme Court. The Supreme Court upheld the PM2.5 standards. EPA v. American Trucking Assoc., 531 U.S. 457 (2001). In March 2002, the D.C. Circuit rejected all remaining challenges to the PM2.5 standards, American Trucking Assoc. v. EPA, 283 F.3d 355 (D.C. Cir., 2002). Since final resolution of the litigation over the PM2.5 NAAQS, EPA has been acting to implement the standards.

The process for designating areas following promulgation of a new or revised NAAQS is contained in section 107(d)(1) of the CAA. In June 1998, Congress adopted the Transportation Equity Act for the 21st Century (TEA-21). Section 6102(c)(1)(d) of TEA-21 amended section 107 of the CAA by extending the time period for EPA to initiate the designations process for the PM2.5 NAAQS until 3 calendar years of air quality data, measured at Federal Reference Method monitors, were gathered. The EPA and State air quality agencies initiated the monitoring process for the PM2.5 NAAQS in 1999, and deployed all air quality monitors by January 2001. The EPA is designating areas across the country for the PM2.5 NAAQS based upon air quality monitoring data from these monitors for calendar years 2001-2003.

VI. What Are the Clean Air Act (CAA) Requirements for Air Quality Designations and What Action has EPA Taken to Meet These Requirements?

This section summarizes the provisions of section 107(d)(1) of the CAA which governs the process that States and EPA must follow in order to recommend and promulgate designations. Following the promulgation of a new or revised standard, each State Governor or Tribal leader has an opportunity to recommend air quality designations, including the appropriate boundaries for areas, to EPA. By no later than 120 days prior to promulgating designations, EPA is required to notify States or Tribes of any intended modifications to their boundaries that EPA deems necessary. States and Tribes then have an opportunity to provide a demonstration as to why the proposed modification indicated by EPA is inappropriate. Whether or not a State or Tribe provides a recommendation, EPA must promulgate the designation that it deems appropriate.

In April 2003, EPA requested that States and Tribes submit their designation recommendations and supporting documentation to EPA by February 15, 2004. After receiving recommendations from the States and Tribes and carefully reviewing and evaluating each recommendation, EPA on June 28 and 29, 2004, provided a response to each State and Tribe indicating whether or not EPA intended to make modifications to the initial recommendations, and explaining EPA's reasons for making any such modifications. The EPA provided an opportunity for States and Tribes to respond to any proposed modifications to their initial boundary recommendations until September 1, 2004. In response to our June 28 and 29, 2004 letters, EPA received letters from many States and Tribes suggesting changes to EPA's modifications and providing additional information. The EPA evaluated each supplemental letter, and all of the timely technical support information provided, before arriving at the final designation decisions reflected in today's action. Some of the designations reflect our modifications to the State and Tribal recommendations. We have placed these State and Tribal letters, and our responses to the issues contained in them, in the EPA docket for this action.

Tribal designation activities are covered under the authority of section 301(d) of the CAA. This provision of the CAA authorizes EPA to treat eligible Indian Tribes in the same manner as States. Pursuant to section 301(d)(2), we promulgated regulations, known as the Tribal Authority Rule (TAR), on February 12, 1999. 63 FR 7254, codified at 40 CFR 49 (1999). This rule specifies those provisions of the CAA for which it is appropriate to treat Tribes as States. Under the TAR, Tribes may choose to develop and implement their own CAA programs, but are not required to do so. The TAR also establishes procedures and criteria by which Tribes may request from EPA a determination of eligibility for such treatment. The designations process contained in section 107(d) of the CAA is included among those provisions determined to be appropriate by EPA for treatment of Tribes in the same manner as States. As authorized by the TAR, Tribes may request an opportunity to submit designation recommendations to us. In cases where Tribes do not make their own recommendations, EPA, in consultation with the Tribes, will promulgate the designation that EPA deems appropriate on their behalf. All Tribes were invited to submit recommendations concerning designations for PM2.5.

The EPA worked with the Tribes that requested an opportunity to submit designation recommendations. Eligible Tribes were provided an opportunity to submit their own recommendations and supporting documentation. The EPA reviewed the recommendations made by Tribes and, in consultation with the Tribes, made modifications as deemed necessary and appropriate. Under the TAR, Tribes generally are not subject to the same submission schedules imposed by the CAA on States.

VII. What Guidance Did EPA Issue and How Did EPA Apply the Statutory Requirements and Applicable Guidance To Determine Boundaries for the PM2.5 NAAQS?

Section 107(d)(1)(A)(I) of the CAA defines a nonattainment area as an area that is violating an ambient standard or is contributing to air quality in a nearby area that is violating the standard. If an area meets either prong of this definition, then EPA is obligated to designate the area as nonattainment. Section 107(d)(1)(A)(iii) provides that any area which EPA cannot designate on the basis of available information as meeting or not meeting the standards should be designated unclassifiable.

In April 2003, EPA issued designation guidance concerning how to determine the boundaries for PM2.5 nonattainment areas.¹ The guidance provided that EPA would use the 3 most recent calendar years of monitoring data for PM2.5 to determine each county's designation. For today's PM2.5 designations, we are basing our decision on air quality monitoring data from calendar years 2001-2003. When evaluating individual areas, we started with the premise that data recorded by a PM2.5 monitor in most cases represents air quality throughout the area in which it is located. In addition, we considered the county boundary as the basic jurisdictional boundary for determining the extent of the area reflected by the PM2.5 monitor. As a result, if a PM2.5 monitor was violating the standard based on the 2001-2003 data, at a minimum we designated the entire county where that monitor is located as nonattainment. We made exceptions to this approach in a few very large western counties where a significant geographic feature such as a mountain range divided a county, resulting in different air quality in different parts of the county. In such cases, we considered designations of partial counties to be appropriate. After identifying the counties with violating monitors, we then proceeded to identify nearby counties that were potentially contributing to the violation(s) at the monitors.

¹ See “Designations for the Fine Particle National Ambient Air Quality Standards.” memorandum to Regional Administrators, Regions I-X, from Jeffrey R. Holmstead, Assistant Administrator, OAR, dated April 1, 2003.

In assessing whether nearby areas contributed to a violation, EPA started with the Consolidated Metropolitan Statistical Area (CMSA) and the Metropolitan Statistical Area (MSA) as the presumptive boundaries for PM2.5 nonattainment areas. A metropolitan area, as defined by the Office of Management and Budget (OMB) in 1999, consisted of a single MSA in some cases, or a CMSA in other cases. These metropolitan areas provide boundaries for the geographic extent of urban areas. We suggested the use of metropolitan area boundaries as the presumptive boundaries for urban nonattainment areas for air quality purposes, based upon evidence that violations of the PM2.5 air quality standards generally include a significant urban-scale contribution as well as a regional contribution. The actual size of each nonattainment area may be larger or smaller than the presumptive boundaries, depending upon the application of the nine factors contained in the April 2003 designations guidance for PM2.5.

In June 2003, OMB released a new list of metropolitan area descriptions. Because we had already issued the April 2003 designations guidance which recommended use of the 1999 OMB metropolitan definitions as a starting point, and because States and Tribes were already actively using this guidance in their planning efforts, we decided that it would be disruptive to recommend the use of the 2003 OMB definitions as the presumptive boundaries. Instead, we issued a second guidance memorandum in February 2004, which indicated that we would continue to consider the 1999 MSA boundaries as the presumptive boundaries, but that States should nevertheless take into consideration the 2003 OMB revised MSA boundaries. We particularly urged consideration of the 2003 MSA boundaries for those counties that OMB added to an existing metropolitan area due to growth, or because of a high degree of social and economic integration with the primary urban area.²

² See “Additional Guidiance on Defining Area Boundaries for PM-2.5 Designations,” memorandum to Air Division Directors. Regions I-X, from Lydia N. Wegman, Director, AQSSD, dated February 13, 2004.

The April 2003 guidance memorandum described nine factors that EPA would take into consideration in determining appropriate nonattainment area boundaries, whether larger or smaller than the presumptive boundaries: (1) Emissions and air quality in adjacent areas (including adjacent CMSAs and MSAs), (2) air quality in potentially included versus excluded areas, (3) population density and degree of urbanization including commercial development in included versus excluded areas, (4) traffic and commuting patterns, (5) expected growth (including extent, pattern and rate of growth), (6) meteorology (weather/transport patterns), (7) geography/topography (e.g., mountain ranges or other air basin boundaries), (8) jurisdictional boundaries (e.g., counties, air districts, Reservations, etc.), and (9) level of existing controls on emission sources.

In assessing emissions under the first factor, we developed a “weighted emissions score” that valued the effect of direct emissions of PM2.5 and its precursors that contribute to “urban excess” PM2.5 concentrations at monitor sites. The “urban excess” concentrations for each PM2.5 component (direct or precursor emissions) are calculated from two PM2.5 speciation monitors by subtracting the regional concentration from the urban concentration for each component. The methodology we used to calculate urban excess concentration and the weighted emission score is explained in more detail in the technical support document (TSD).

We used this metric to compare the relative emissions contribution of different counties in and around each metropolitan area. Using this approach, we were able to take into consideration, in a single metric, the county-level emissions of carbonaceous particles, inorganic particles, SO2, and NOX (all of which contribute to PM2.5 formation) in the vicinity of each violating monitor. By comparing weighted emissions scores across counties in a metropolitan area, EPA was able to identify those counties having the highest estimated emissions contribution to the local nonattainment problem. In addition, by examining the data from the urban speciation monitors, we could draw some conclusions concerning the likely sources of emissions contributing to the violation. Knowing the likely sources of the emissions, we could better evaluate which of the nearby counties had emissions likely to be contributing to the ambient concentrations at the violating monitor.

Evaluation of the weighted emissions score and speciation data was an important element in our nine factor analysis, and we believe that it provided a reasonable tool for evaluating the relative contribution of nearby areas to violations at a monitor, given the variety of precursors and sources that participate in the formation of PM2.5. Further discussion of the weighted emissions score, and area-specific explanations of its application, appear in the TSD.

In some cases, considering the factors and additional information provided by the State, we determined that only part of a nearby county (e.g., the part of the county that contained the significant sources of contributing emissions) should be considered as contributing to the violation at the monitor, and therefore included only a portion of that adjacent county in the nonattainment area. In other cases, we determined that the emissions from an identifiable large power plant in a county were contributing to the violations in a nearby area. In these cases, we concluded that it was appropriate to designate only the portion of the county where the source is located, even if that portion is not contiguous with the remainder of the nonattainment area. We adopted this approach where we determined, following the nine factor analysis, that it would be inappropriate to include other portions of a county, merely because those portions lay between the large stationary source and the remainder of the designated nonattainment area. We selected the boundaries for these noncontiguous portions of nonattainment areas by relying on legally recognized governmental boundaries (e.g., townships, tax districts, or census blocks) in which the source is located.

We believe that the individual facts and circumstances of each area must be considered in determining whether to include a county as contributing to a particular nonattainment problem. Thus, our guidance does not establish bright lines or cut-points for how a particular factor is applied. For example, the guidance does not identify a set amount of a pollutant, or a specific level of commuting between counties, that would automatically require a county to be included in a nonattainment area as a contributing county. We analyzed the information provided by each State or Tribe in its recommendation letter, subsequently submitted information, and any other pertinent information available to EPA, in order to determine whether a county should be designated nonattainment. We evaluated each State's or Tribe's designation recommendation in light of the nine factors, bringing to bear our best technical and policy judgement. If the result of the evaluation showed that a county, whether inside or outside of the CMSA or MSA contributes to the violation in a nearby area with a violating monitor, we designated the area as nonattainment.

In a small number of areas, EPA concluded that there was insufficient information to designate a given area as either nonattainment or attainment/unclassifiable. In these instances, we have designated the area as unclassifiable. In each instance, these areas had violating monitors for the years 2000-2002, but incomplete data or other data issues for the years 2001-2003. Further explanation of the unclassifiable designations may be found in the TSD for this action.

The EPA did not rely on planned or potential regional PM2.5 reduction strategies in making decisions regarding nonattainment designations, even if those strategies predict that an area may attain the standard in the future. We recognize that some areas with a violating monitor may be projected to come into attainment in the future without additional local emission controls because of State and/or national programs that will reduce transported emissions. However, the CAA requires EPA to make nonattainment designations based on current data. While we cannot consider projected future attainment in determining current designations, we intend to expedite the redesignation of areas to attainment once they monitor clean air quality. We also intend to apply our policy which streamlines the planning process for nonattainment areas that are meeting the NAAQS but are not yet redesignated to attainment.³

³ See “Clean Data Policy for the Fine Particle National Ambient Air Quality Standards” memorandum to Air Division Directors, Regions I-X from Steve Page, Director, Office of Air Quality Planning and Standards, December 14, 2004.

Today's designation action is a final rule which establishes designations for all areas of the country for the PM2.5 NAAQS. In this action, we have added regulatory text to provide for the amendment of 40 CFR part 81 to identify the designation of areas across the country for the PM2.5 standard.

VIII. Has EPA Used 2004 Air Quality Data?

The final PM2.5 designations announced in today's action are based upon air quality data for calendar years 2001 through 2003. Over the course of the designations process, a number of States have provided comments to EPA suggesting that the agency should delay designations in order to permit consideration of additional air quality data from 2004 as a part of the designation decision. As discussed above, EPA must by law make the designations by December 31, 2004. This statutory deadline and the practical difficulties of obtaining complete,⁴ quality assured, certified data for calendar year 2004 by December 31, 2004, have precluded EPA from using 2004 data for today's action. Under normal circumstances, we would not expect such data to be available for some time following the end of the calendar year, and under the applicable regulations States would not be required to have submitted such data until April 1, 2005, and would not be required to have certified such data until July 1, 2005. However, because we are promulgating the designations so near the end of calendar year 2004, and because complete, quality assured, certified 2004 data may become available for some areas quickly, we are interested in providing a process by which we could utilize 2004 data where possible in the designation process.

⁴ Fine particle monitoring data is to be determined as “complete” according to data handling regulations for the PM2.5 standards in 40 CFR Part 50, Appendix N (62 FR 138, July 18, 1997).

We have provided that the final PM2.5 designations announced in today's action will be effective on the date 90 days following the date of publication. If any State submits complete, quality assured, certified 2004 data to EPA by February 22, 2005, that suggest that a change of designation status is appropriate for any area within that State, and we agree that a change of designation status is appropriate, then we will withdraw the designation announced in today's action for such area and issue another designation that reflects the inclusion of 2004 data. We emphasize that we will conduct this process only for those States that submit the necessary complete, quality assured, certified data by the deadline and in those instances where we can complete the analysis and effect the change of designation status before the original effective date established by today's final action.

If inclusion of 2004 data causes an area to change from nonattainment to attainment, EPA will change the designation if every county in the area is neither monitoring a violation of the standards nor contributing to a violation of the standards in another nearby area. If inclusion of 2004 data results in nonattainment in an area that was designated attainment, we will evaluate the reasons for the violation in the area and determine the appropriate course of action, which could include redesignation of the area to nonattainment. Also, EPA commits to evaluate 2004 data for unclassifiable areas when it receives complete, quality assured, certified data from the State, which is due no later than July 2005. At that time, EPA will determine whether a change of designation for an unclassifiable area is appropriate.

IX. How Do Designations Affect Indian Country?

All counties, partial counties or Air Quality Control Regions listed in the table at the end of this document are designated as indicated, and include Indian Country geographically located within such areas, except as otherwise indicated in the table.

As mentioned earlier in this document, EPA's guidance for determining nonattainment area boundaries presumes that the CMSA or MSA monitor forms the presumptive boundary of the nonattainment areas but that the size of the area can be larger or smaller depending on contribution to the violation from nearby areas and other air quality-related technical factors. In general, and consistent with relevant air quality information, EPA intends to include Indian country encompassed within the presumptive CMSA or MSA boundaries as within the boundaries of the area for designation purposes, in order to protect public health and welfare. The EPA anticipates that in most cases, relevant air quality information will indicate that areas of Indian country located within CMSAs or MSAs should have the same designation as the surrounding area. However, based on the nine factors outlined in our guidance, there may be instances where a different designation is appropriate.

A State recommendation for a designation of an area that surrounds Indian country does not indicate the designation for Indian country. However, the conditions that support a State's designation recommendation, such as air quality data at the location of the sources, may indicate the likelihood that similar conditions exists for the Indian country located in that area. States generally have neither the responsibility nor the authority for planning and regulatory activities under the CAA in Indian country.

X. Where Can I Find Information Forming the Basis for This Rule and Exchanges Between EPA, States, and Tribes Related to This Rule?

Information providing the basis for today's action and related decisions are provided in the TSD. The TSD, applicable EPA guidance memoranda, copies of correspondence regarding this process between EPA and the States, Tribes, and other parties, and EPA's responses to comments, are available for review at the EPA Docket Center listed above in the addresses section of this document and on our designation Web site at http://www.epa.gov/oar/oaqps/particles/designations/index.htm. State specific information is available at the EPA Regional Offices.

XI. Statutory and Executive Order Reviews

Upon promulgation of a new or revised NAAQS, the CAA requires EPA to designate areas as attaining or not attaining the NAAQS. The CAA then specifies requirements for areas based on whether such areas are attaining or not attaining the NAAQS. In this final rule, EPA assigns designations to areas as required.

A. Executive Order 12866: Regulatory Planning and Review

Under Executive Order 12866 (58 FR 51735, October 4, 1993), EPA must determine whether the regulatory action is “significant” and, therefore, subject to OMB review and the requirements of the Executive Order. The order defines “significant regulatory action” as one that is likely to result in a rule that may: (1) Have an annual effect on the economy of $100 million or more or adversely affect in a material way the economy, a sector of the economy, productivity, competition, jobs, the environment, public health or safety, or State, local, or Tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

Pursuant to the terms of Executive Order 12866, it has been determined that this rule is not a “significant regulatory action” because none of the above factors apply. As such, this final rule was not formally submitted to OMB for review.

B. Paperwork Reduction Act

This action does not impose an information collection burden under the provisions of the Paperwork Reduction Act, 44 U.S.C. 3501 et seq. This rule responds to the requirement to promulgate air quality designations after promulgation of a NAAQS. This requirement is prescribed in the CAA section 107 of title 1. The present final rule does not establish any new information collection apart from that required by law. Burden means that total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An Agency may not conduct or sponsor, and a person is not required to respond to a collection of information unless it displays a currently valid OMB control number. The OMB control numbers for EPA's regulations in the CFR are listed in 40 CFR part 9.

C. Regulatory Flexibility Act

The Regulatory Flexibility Act (RFA) generally requires an agency to prepare a regulatory flexibility analysis of any rule subject to notice and comment rulemaking requirements under the Administrative Procedures Act or any other statute unless the agency certifies that the rule will not have a significant economic impact on a substantial number of small entities. Small entities include small businesses, small organizations, and small governmental jurisdictions.

For the purpose of assessing the impacts of today's final rule on small entities, small entity is defined as: (1) A small business that is a small industry entity as defined in the United States Small Business Administration (SBA) size standards (See 13 CFR part 121); (2) a small governmental jurisdiction that is a government of a city, county, town, school district or special district with a population of less than 50,000; and (3) a small organization that is any not-for-profit enterprise which is independently owned and operated and is not dominate in its field.

The rule designating nonattainment areas for the PM2.5 NAAQS is not subject to RFA because it was not subject to notice and comment rulemaking requirements. See CAA section 107(d)(2)(B).

After considering the economic impacts of today's final rule on small entities, I certify that this rule will not have a significant economic impact on a substantial number of small entities.

D. Unfunded Mandates Reform Act

Title II of the Unfunded Mandates Reform Act of 1995 (UMRA), Public Law 104-4, establishes requirements for Federal Agencies to assess the effects of their regulatory actions on State, local and Tribal governments and the private sector. Under section 202 of the UMRA, EPA generally must prepare a written statement, including a cost-benefit analysis, for proposed and final rules with “Federal mandate” that may result in expenditures to State, local, and Tribal governments, in the aggregate, or to the private sector, of $100 million or more in any 1 year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation of why that alternative was not adopted. Before EPA establishes any regulatory requirements that may significantly or uniquely affect small governments, including Tribal governments, it must have developed under section 203 of the UMRA a small government agency plan. The plan must provide for notifying potentially affected small governments to have meaningful and timely input in the development of EPA regulatory proposals with significant Federal intergovernmental mandates, and informing, educating, and advising small government on compliance with regulatory requirements.

Today's final action does not include a Federal mandate within the meaning of UMRA that may result in expenditures of $100 million or more in any 1 year by either State, local, or Tribal governments in the aggregate or to the private sector, and therefore, is not subject to the requirements of sections 202 and 205 of the UMRA. It does not create any additional requirements beyond those of the PM2.5 NAAQS (62 FR 38652; July 18, 1997), therefore, no UMRA analysis is needed. This rule establishes the application of the PM2.5 standard and the designation for each area of the country for the PM2.5 NAAQS. The CAA requires States to develop plans, including control measures, based on their designations and classifications.

One mandate that may apply as a consequence of this action to all designated nonattainment areas is the requirement under CAA section 176(c) and associated regulations to demonstrate conformity of Federal actions to State Implementation Plans (SIPs). These rules apply to Federal agencies and Metropolitan Planning Organizations (MPOs) making conformity determinations. The EPA concludes that such conformity determinations will not cost $100 million or more in the aggregate.

The EPA believes that any new controls imposed as a result of this action will not cost in the aggregate $100 million or more annually. Thus, this Federal action will not impose mandates that will require expenditures of $100 million or more in the aggregate in any 1 year.

Nonetheless, EPA carried out consultation with government entities affected by this rule, including States, Tribal governments, and local air pollution control agencies.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, or the relationship between the national government and the States, or on the distribution of power and responsibilities among the various levels of government.”

This final rule does not have federalism implications. It will not have substantial direct effects on the States, on the relationship between the national government and the States, or on the distribution of power and responsibilities among the various levels of government, as specified in Executive Order 13132. The CAA establishes the scheme whereby States take the lead in developing plans to meet the NAAQS. This rule will not modify the relationship of the States and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by Tribal officials in the development of regulatory policies that have Tribal implications.” This final rule does not have “Tribal implications” as specified in Executive Order 13175. This rule concerns the designation and classification of areas as attainment and nonattainment for the PM2.5 air quality standard. The CAA provides for States to develop plans to regulate emissions of air pollutants within their jurisdictions. The TAR provides Tribes the opportunity to develop and implement CAA programs such as programs to attain and maintain the PM2.5 NAAQS, but it leaves to the discretion of the Tribe the decision of whether to develop these programs and which programs, or appropriate elements of a program, the Tribe will adopt.

This final rule does not have Tribal implications as defined by Executive Order 13175. It does not have a substantial direct effect on one or more Indian Tribes, since no Tribe has implemented a CAA program to attain the PM2.5 NAAQS at this time. Furthermore, this rule does not affect the relationship or distribution of power and responsibilities between the Federal government and Indian Tribes. The CAA and the TAR establish the relationship of the Federal government and Tribes in developing plans to attain the NAAQS, and this rule does nothing to modify that relationship. Because this rule does not have Tribal implications, Executive Order 13175 does not apply.

Although Executive Order 13175 does not apply to this rule, EPA did outreach to Tribal leaders and environmental staff regarding the designations process. The EPA supports a national “Tribal Designations and Implementation Work Group” which provides an open forum for all Tribes to voice concerns to EPA about the designations and implementation process for the NAAQS, including the PM2.5 NAAQS. These discussions informed EPA about key Tribal concerns regarding designations as the rule was under development and gave Tribes the opportunity to express concerns about designations to EPA. Furthermore, EPA sent individualized letters to all federally recognized Tribes about EPA's intention to designate areas for the PM2.5 standard and gave Tribal leaders the opportunity for consultation.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health and safety risk that EPA has reason to believe may have a disproportionate effect on children. If the regulatory action meets both criteria, EPA must evaluate the environmental health or safety effects of the planned rule on children, and explain why the planned regulation is preferable to other potentially effective and reasonably feasible alternatives considered by the EPA.

The final rule is not subject to Executive Order 13045 because it is not economically significant as defined in Executive Order 12866, and because EPA does not have reason to believe that the environmental health risks or safety risks addressed by this rule present a disproportionate risk or safety risk to children. Nonetheless, we have evaluated the environmental health or safety effects of the PM2.5 NAAQS on children. The results of this risk assessment are contained in the NAAQS for PM2.5, Final Rule (July 18, 1997, 62 FR 38652).

H. Executive Order 13211: Actions That Significantly Affect Energy Supply, Distribution, or Use

This rule is not subject to Executive Order 13211, “Actions That Significantly Affect Energy Supply, Distribution, or Use,” (66 FR 28355, May 22, 2001) because it is not a significant regulatory action under Executive Order 12866.

Information on the methodology and data regarding the assessment of potential energy impacts is found in Chapter 6 of U.S. EPA 2002, Cost, Emission Reduction, Energy, and the Implementation Framework for the PM2.5 NAAQS, prepared by the Innovative Strategies and Economics Group, Office of Air Quality Planning and Standards, Research Triangle Park, NC, April 24, 2003.

I. National Technology Transfer Advancement Act (NTTAA)

Section 12(d) of the NTTAA of 1995, Public Law No. 104-113, section 12(d) (15 U.S.C. 272 note) directs EPA to use voluntary consensus standards (VCS) in its regulatory activities unless to do so would be inconsistent with applicable law or otherwise impracticable. Voluntary consensus standards are technical standards (e.g., materials specifications, test methods, sampling procedures, and business practices) that are developed or adopted by VCS bodies. The NTTAA directs EPA to provide Congress, through OMB, explanations when the Agency decides not to use available and applicable VCS.

This action does not involve technical standards. Therefore, EPA did not consider the use of any VCS.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective April 5, 2005.

K. Judicial Review

Section 307 (b) (1) of the CAA indicates which Federal Courts of Appeal have venue for petitions of review of final actions by EPA. This section provides, in part, that petitions for review must be filed in the Court of Appeals for the District of Columbia Circuit (i) when the agency action consists of “nationally applicable regulations promulgated, or final actions taken, by the Administrator,” or (ii) when such action is locally or regionally applicable, if “such action is based on a determination of nationwide scope or effect and if in taking such action the Administrator finds and publishes that such action is based on such a determination.”

This rule designating areas for the PM2.5 NAAQS is “nationally applicable” within the meaning of section 307(b)(1). This rule establishes designations for all areas of the United States for the PM2.5 NAAQS. At the core of this rulemaking is EPA's interpretation of the definition of nonattainment under section 107(d)(1) of the CAA. In determining which areas should be designated nonattainment (or conversely, should be designated attainment/unclassifiable), EPA used a set of nine technical factors that it applied consistently across the United States.

For the same reasons, the Administrator also is determining that the final designations are of nationwide scope and effect for the purposes of section 307(b)(1). This is particularly appropriate because in the report on the 1977 Amendments that revised section 307(b)(1) of the CAA, Congress noted that the Administrator's determination that an action is of “ nationwide scope or effect” would be appropriate for any action that has “scope or effect beyond a single judicial circuit.” H.R. Rep. No. 95-294 at 323, 324, reprinted in 1977 U.S.C.C.A.N. 1402-03. Here, the scope and effect of this rulemaking extends to numerous judicial circuits since the designations apply to all areas of the country. In these circumstances, section 307(b)(1) and its legislative history calls for the Administrator to find the rule to be of “nationwide scope or effect” and for venue to be in the D.C. Circuit.

Thus, any petitions for review of final designations must be filed in the Court of Appeals for the District of Columbia Circuit within 60 days from the date final action is published in the Federal Register.

List of Subjects in 40 CFR Part 81

Environmental protection, Air pollution control, National parks, Wilderness areas.

Dated: December 17, 2004.
Michael O. Leavitt,
EPA Administrator.

For the reasons set forth in the preamble, 40 CFR Part 81, Subpart C is amended as follows:

PART 81—DESIGNATIONS OF AREAS FOR AIR QUALITY PLANNING PURPOSES

1. The authority citation for part 81 continues to read as follows:

Authority: 42 U.S.C. 7401, et seq.

Subpart C—Section 107 Attainment Status Designations

2. Section 81.300 is amended by revising paragraph (a) to read as follows:

§ 81.300 Scope.

(a) Attainment status designations as approved or designated by the Environmental Protection Agency (EPA) pursuant to section 107 of the CAA are listed in this subpart. Area designations are subject to revision whenever sufficient data becomes available to warrant a redesignation. Both the State and EPA can initiate changes to these designations, but any State redesignation must be submitted to EPA for concurrence. The EPA has replaced the national ambient air quality standards for particulate matter measured as total suspended particulate with standards measured as particulate matter with an aerodynamic diameter less than or equal to a nominal 10 micrometers (PM-10). Accordingly, area designations for PM-10 are included in the lists in subpart C of this part. However, the TSP area designations will also remain in effect until the Administrator determines that the designations are no longer necessary for implementing the maximum allowable increases in concentrations of particulate matter pursuant to section 163(b) of the CAA, as explained in paragraph (b) of this section. The EPA has also added national ambient air quality standards for fine particulate matter measured as particulate matter with an aerodynamic diameter less than or equal to a nominal 2.5 micrometers (PM2.5). Accordingly, area designations for PM2.5 are included in the lists in subpart C of this part.

* * * * *

2a. In § 81.301, the table entitled “Alabama—PM2.5” is added to the end of the section to read as follows:

§ 81.301 Alabama.

* * * * *

Alabama.—PM2.5
Designated area | Designation ᵃ: Date ¹ | Designation ᵃ: Type
Birmingham, AL:
Jefferson County |  | Nonattainment.
Shelby County |  | Nonattainment.
Walker County (part) |  | Nonattainment.
The area described by U.S. Census 2000 block group identifiers 01-127-0214-5, 01-127-0215-4, and 01-127-0216-2
Chattanooga, TN-GA:
Jackson County (part) |  | Nonattainment.
The area described by U.S. Census 2000 block block group identifier 01-071-9503-1
Columbus, GA-AL:
Russell County |  | Nonattainment.
DeKalb County, AL:
DeKalb County |  | Unclassifiable
Gadsden, AL:
Etowah County |  | Unclassifiable
Rest of State:
Autauga County |  | Unclassifiable/Attainment.
Baldwin County |  | Unclassifiable/Attainment.
Barbour County |  | Unclassifiable/Attainment.
Bibb County |  | Unclassifiable/Attainment.
Blount County |  | Unclassifiable/Attainment.
Bullock County |  | Unclassifiable/Attainment.
Butler County |  | Unclassifiable/Attainment.
Calhoun County |  | Unclassifiable/Attainment.
Chambers County |  | Unclassifiable/Attainment.
Cherokee County |  | Unclassifiable/Attainment.
Chilton County |  | Unclassifiable/Attainment.
Choctaw County |  | Unclassifiable/Attainment.
Clarke County |  | Unclassifiable/Attainment.
Clay County |  | Unclassifiable/Attainment.
Cleburne County |  | Unclassifiable/Attainment.
Coffee County |  | Unclassifiable/Attainment.
Colbert County |  | Unclassifiable/Attainment.
Conecuh County |  | Unclassifiable/Attainment.
Coosa County |  | Unclassifiable/Attainment.
Covington County |  | Unclassifiable/Attainment.
Crenshaw County |  | Unclassifiable/Attainment.
Cullman County |  | Unclassifiable/Attainment.
Dale County |  | Unclassifiable/Attainment.
Dallas County |  | Unclassifiable/Attainment.
Elmore County |  | Unclassifiable/Attainment.
Escambia County |  | Unclassifiable/Attainment.
Fayette County |  | Unclassifiable/Attainment.
Franklin County |  | Unclassifiable/Attainment.
Geneva County |  | Unclassifiable/Attainment.
Greene County |  | Unclassifiable/Attainment.
Hale County |  | Unclassifiable/Attainment.
Henry County |  | Unclassifiable/Attainment.
Houston County |  | Unclassifiable/Attainment.
Jackson County (remainder) |  | Unclassifiable/Attainment.
Lamar County |  | Unclassifiable/Attainment.
Lauderdale County |  | Unclassifiable/Attainment.
Lawrence County |  | Unclassifiable/Attainment.
Lee County |  | Unclassifiable/Attainment.
Limestone County |  | Unclassifiable/Attainment.
Lowndes County |  | Unclassifiable/Attainment.
Macon County |  | Unclassifiable/Attainment.
Madison County |  | Unclassifiable/Attainment.
Marengo County |  | Unclassifiable/Attainment.
Marion County |  | Unclassifiable/Attainment.
Marshall County |  | Unclassifiable/Attainment.
Mobile County |  | Unclassifiable/Attainment.
Monroe County |  | Unclassifiable/Attainment.
Montgomery County |  | Unclassifiable/Attainment.
Morgan County |  | Unclassifiable/Attainment.
Perry County |  | Unclassifiable/Attainment.
Pickens County |  | Unclassifiable/Attainment.
Pike County |  | Unclassifiable/Attainment.
Randolph County |  | Unclassifiable/Attainment.
St. Clair County |  | Unclassifiable/Attainment.
Sumter County |  | Unclassifiable/Attainment.
Talladega County |  | Unclassifiable/Attainment.
Tallapoosa County |  | Unclassifiable/Attainment.
Tuscaloosa County |  | Unclassifiable/Attainment.
Walker County (remainder) |  | Unclassifiable/Attainment.
Washington County |  | Unclassifiable/Attainment.
Wilcox County |  | Unclassifiable/Attainment.
Winston County |  | Unclassifiable/Attainment.
ᵃ Includes Indian Country located in each county or area, except as otherwise specified.
¹ This date is 90 days after January 5, 2005, unless otherwise noted.

3. In § 81.302, the table entitled “Alaska—PM2.5” is added to the end of the section to read as follows:

§ 81.302 Alaska.

* * * * *

Alaska.—PM2.5
Designated area | Designation ᵃ: Date ¹ | Designation ᵃ: Type
AQCR 08 Cook Inlet Intrastate:
Anchorage Borough |  | Unclassifiable/Attainment.
Kenai Peninsula Borough |  | Unclassifiable/Attainment.
Matanuska-Susitna Borough |  | Unclassifiable/Attainment.
AQCR 09 Northern Alaska Intrastate:
Denali Borough |  | Unclassifiable/Attainment.
Fairbanks North Star Borough |  | Unclassifiable/Attainment.
Nome Census Area |  | Unclassifiable/Attainment.
North Slope Borough |  | Unclassifiable/Attainment.
Northwest Arctic Borough |  | Unclassifiable/Attainment.
Southeast Fairbanks Census Area |  | Unclassifiable/Attainment.
Yukon-Koyukuk Census Area |  | Unclassifiable/Attainment.
AQCR 10 South Central Alaska Intrastate:
Aleutians East Borough |  | Unclassifiable/Attainment.
Aleutians West Census Area |  | Unclassifiable/Attainment.
Bethel Census Area |  | Unclassifiable/Attainment.
Bristol Bay Borough |  | Unclassifiable/Attainment.
Dillingham Census Area |  | Unclassifiable/Attainment.
Kodiak Island Borough |  | Unclassifiable/Attainment.
Lake and Peninsula Borough |  | Unclassifiable/Attainment.
Valdez-Cordova Census Area |  | Unclassifiable/Attainment.
Wade Hampton Census Area |  | Unclassifiable/Attainment.
AQCR 11 Southeastern Alaska Intrastate:
Haines Borough |  | Unclassifiable/Attainment.
Juneau Borough |  | Unclassifiable/Attainment.
Ketchikan Gateway Borough |  | Unclassifiable/Attainment.
Prince of Wales-Outer Ketchikan Census |  | Unclassifiable/Attainment.
Sitka Borough |  | Unclassifiable/Attainment.
Skagway-Hoonah-Angoon Census Area |  | Unclassifiable/Attainment.
Wrangell-Petersburg Census Area |  | Unclassifiable/Attainment.
Yakutat Borough |  | Unclassifiable/Attainment.
ᵃ Includes Indian Country located in each county or area, except as otherwise specified.
¹ This date is 90 days after January 5, 2005, unless otherwise noted.

4. In § 81.303, the table entitled “Arizona—PM2.5” is added to the end of the section to read as follows:

§ 81.303 Arizona.

* * * * *

Arizona.—PM2.5
Designated area | Designation ᵃ: Date ¹ | Designation ᵃ: Type
Statewide:
Apache County |  | Unclassifiable/Attainment.
Cochise County |  | Unclassifiable/Attainment.
Coconino County |  | Unclassifiable/Attainment.
Gila County |  | Unclassifiable/Attainment.
Graham County |  | Unclassifiable/Attainment.
Greenlee County |  | Unclassifiable/Attainment.
La Paz County |  | Unclassifiable/Attainment.
Maricopa County |  | Unclassifiable/Attainment.
Mohave County |  | Unclassifiable/Attainment.
Navajo County |  | Unclassifiable/Attainment.
Pima County |  | Unclassifiable/Attainment.
Pinal County |  | Unclassifiable/Attainment.
Santa Cruz County |  | Unclassifiable/Attainment.
Yavapai County |  | Unclassifiable/Attainment.
Yuma County |  | Unclassifiable/Attainment.
ᵃ Includes Indian Country located in each county or area, except as otherwise specified.
¹ This date is 90 days after January 5, 2005, unless otherwise noted.

5. In § 81.304, the table entitled “Arizona.—PM2.5” is added to the end of the section to read as follows:

§ 81.304 Arkansas.

* * * * *

Arkansas.—PM2.5
Designated area | Designation ᵃ: Date ¹ | Designation ᵃ: Type
AQCR 016 Central Arkansas Intrastate:
Chicot County |  | Unclassifiable/Attainment.
Clark County |  | Unclassifiable/Attainment.
Cleveland County |  | Unclassifiable/Attainment.
Conway County |  | Unclassifiable/Attainment.
Dallas County |  | Unclassifiable/Attainment.
Desha County |  | Unclassifiable/Attainment.
Drew County |  | Unclassifiable/Attainment.
Faulkner County |  | Unclassifiable/Attainment.
Garland County |  | Unclassifiable/Attainment.
Grant County |  | Unclassifiable/Attainment.
Hot Spring County |  | Unclassifiable/Attainment.
Jefferson County |  | Unclassifiable/Attainment.
Lincoln County |  | Unclassifiable/Attainment.
Lonoke County |  | Unclassifiable/Attainment.
Perry County |  | Unclassifiable/Attainment.
Pope County |  | Unclassifiable/Attainment.
Pulaski County |  | Unclassifiable/Attainment.
Saline County |  | Unclassifiable/Attainment.
Yell County |  | Unclassifiable/Attainment.
AQCR 017 Metropolitan Fort Smith Interstate:
Benton County |  | Unclassifiable/Attainment.
Crawford County |  | Unclassifiable/Attainment.
Sebastian County |  | Unclassifiable/Attainment.
Washington County |  | Unclassifiable/Attainment.
AQCR 019 Monroe-El Dorado Interstate:
Ashley County |  | Unclassifiable/Attainment.
Bradley County |  | Unclassifiable/Attainment.
Calhoun County |  | Unclassifiable/Attainment.
Nevada County |  | Unclassifiable/Attainment.
Ouachita County |  | Unclassifiable/Attainment.
Union County |  | Unclassifiable/Attainment.
AQCR 020 Northeast Arkansas Intrastate:
Arkansas County |  | Unclassifiable/Attainment.
Clay County |  | Unclassifiable/Attainment.
Craighead County |  | Unclassifiable/Attainment.
Cross County |  | Unclassifiable/Attainment.
Greene County |  | Unclassifiable/Attainment.
Independence County |  | Unclassifiable/Attainment.
Jackson County |  | Unclassifiable/Attainment.
Lawrence County |  | Unclassifiable/Attainment.
Lee County |  | Unclassifiable/Attainment.
Mississippi County |  | Unclassifiable/Attainment.
Monroe County |  | Unclassifiable/Attainment.
Phillips County |  | Unclassifiable/Attainment.
Poinsett County |  | Unclassifiable/Attainment.
Prairie County |  | Unclassifiable/Attainment.
Randolph County |  | Unclassifiable/Attainment.
St. Francis County |  | Unclassifiable/Attainment.
Sharp County |  | Unclassifiable/Attainment.
White County |  | Unclassifiable/Attainment.
Woodruff County |  | Unclassifiable/Attainment.
AQCR 021 Northwest Arkansas Intrastate:
Baxter County |  | Unclassifiable/Attainment.
Boone County |  | Unclassifiable/Attainment.
Carroll County |  | Unclassifiable/Attainment.
Cleburne County |  | Unclassifiable/Attainment.
Franklin County |  | Unclassifiable/Attainment.
Fulton County |  | Unclassifiable/Attainment.
Izard County |  | Unclassifiable/Attainment.
Johnson County |  | Unclassifiable/Attainment.
Logan County |  | Unclassifiable/Attainment.
Madison County |  | Unclassifiable/Attainment.
Marion County |  | Unclassifiable/Attainment.
Montgomery County |  | Unclassifiable/Attainment.
Newton County |  | Unclassifiable/Attainment.
Pike County |  | Unclassifiable/Attainment.
Polk County |  | Unclassifiable/Attainment.
Scott County |  | Unclassifiable/Attainment.
Searcy County |  | Unclassifiable/Attainment.
Stone County |  | Unclassifiable/Attainment.
Van Buren County |  | Unclassifiable/Attainment.
AQCR 022 Shreveport-Texarkana-Tyler Interstate:
Columbia County |  | Unclassifiable/Attainment.
Hempstead County |  | Unclassifiable/Attainment.
Howard County |  | Unclassifiable/Attainment.
Lafayette County |  | Unclassifiable/Attainment.
Little River County |  | Unclassifiable/Attainment.
Miller County |  | Unclassifiable/Attainment.
Sevier County |  | Unclassifiable/Attainment.
Memphis, TN-AR:
(AQCR 018 Metropolitan Memphis Interstate):
Crittenden County |  | Unclassifiable/Attainment.
ᵃ Includes Indian Country located in each county or area, except as otherwise specified.
¹ This date is 90 days after January 5, 2005, unless otherwise noted.

6. In § 81.305, the table entitled “California.—PM2.5” is added to the end of the section to read as follows:

California.—PM2.5
Designated area | Designation ᵃ: Date ¹ | Designation ᵃ: Type
Los Angeles-South Coast Air Basin, CA:
Los Angeles County (part) |  | Nonattainment.
That portion of Los Angeles County which lies south and west of a line described as follows: Beginning at the Los Angeles-San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
Orange County |  | Nonattainment.
Riverside County (part) |  | Nonattainment.
That portion of Riverside County which lies to the west of a line described as follows: Beginning at the Riverside-San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East; to the Riverside-San Bernardino County line.
San Bernardino County (part) |  | Nonattainment.
That portion of San Bernardino County which lies south and west of a line described as follows: Beginning at the San Bernardino-Riverside County boundary and running north along the range line common to Range 3 East and Range 2 East, San Bernardino Base and Meridian; then west along the Township line common to Township 3 North and Township 2 North to the San Bernardino-Los Angeles County boundary.
San Diego, CA:
San Diego County (part) |  | Nonattainment.
That portion of San Diego County that excludes the areas listed below: La Posta Areas #1 and #2, Cuyapaipe Area, Manzanita Area, Campo Areas #1 and #2ᵇ.
San Joaquin Valley, CA:
Fresno County |  | Nonattainment.
Kern County (part) |  | Nonattainment.
That portion of Kern County which lies west and north of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary.
Kings County |  | Nonattainment.
Madera County |  | Nonattainment.
Merced County |  | Nonattainment.
San Joaquin County |  | Nonattainment.
Stanislaus County |  | Nonattainment.
Tulare County |  | Nonattainment.
North Coast Air Basin:
Del Norte County |  | Unclassifiable/Attainment.
Humboldt County |  | Unclassifiable/Attainment.
Mendocino County |  | Unclassifiable/Attainment.
Sonoma County (part) |  | Unclassifiable/Attainment.
That portion of Sonoma county which lies north and west of a line described as follows: Beginning at the south-easterly corner of the Rancho Estero Americano, being on the boundary line between Marin and Sonoma Counties, California; thence running northerly along the easterly boundary line of said Rancho Estero Americano to the northeasterly corner thereof, being an angle corner in the westerly boundary line of Rancho Canada de Jonive, thence running along said boundary of Rancho Canada de Jonive westerly; northerly and easterly to its intersection with the easterly line of Graton Road; thence running along the easterly and southerly line of Graton Road northerly and easterly to its intersection with the easterly line of Sullivan Road; thence running northerly along said easterly line of Sullivan Road to the southerly line of Green Valley Road; thence running easterly along the said southerly line of Green Valley Road and easterly along the southerly line of State Highway 116, to the westerly and northerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road to the easterly line of Eastside Road: thence running northerly along said easterly line of Eastside Road to its intersection with the southerly line of Rancho Sotoyome; thence running easterly along said southerly line of Rancho Sotoyome to its intersection with the Township line common to Townships 8 and 9 north, Mt. Diablo Base and Meridian; thence running easterly along said Township line to its intersection with the boundary line between Sonoma and Napa Counties, State of California.
Trinity County |  | Unclassifiable/Attainment.
Northeast Plateau Air Basin:
Lassen County |  | Unclassifiable/Attainment.
Modoc County |  | Unclassifiable/Attainment.
Siskiyou County |  | Unclassifiable/Attainment.
Lake County Air Basin:
Lake County |  | Unclassifiable/Attainment.
Upper Sacramento Valley Region:
Butte County |  | Unclassifiable/Attainment.
Colusa County |  | Unclassifiable/Attainment.
Glenn County |  | Unclassifiable/Attainment.
Shasta County |  | Unclassifiable/Attainment.
Sutter County (part) |  | Unclassifiable/Attainment.
All portions of the county except that portion south of a line connecting the northern border of Yolo County to the southwest tip of Yuba County and continuing along the southern Yuba County border to Placer County.
Tehama County |  | Unclassifiable/Attainment.
Yuba County |  | Unclassifiable/Attainment.
Sacramento Metropolitan Region:
El Dorado County (part) |  | Unclassifiable/Attainment.
All portions of the county except that portion of El Dorado County within the drainage area naturally tributary to Lake Tahoe including said Lake.
Placer County (part) |  | Unclassifiable/Attainment.
All portions of the county except that portion of Placer County within the drainage area naturally tributary to Lake Tahoe including said Lake, plus that area in the vicinity of the head of the Truckee River described as follows: Commencing at the point common to the aforementioned drainage area crestline and the line common to Townships 15 North and 16 North, Mount Diablo Base and Meridian, and following that line in a westerly direction to the northwest corner of Section 3, Township 15 North, Range 16 East, Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning.
Sacramento County |  | Unclassifiable/Attainment.
Solano County (part) |  | Unclassifiable/Attainment.
That portion of Solano County which lies north and east of a line described as follows: Beginning at the intersection of the westerly boundary of Solano County and the 1/4 section line running east and west through the center of Section 34; Township 6 North, Range 2 West, Mount Diablo Base and Meridian, thence east along said 1/4 section line to the east boundary of Section 36, Township 6 North, Range 2 West, thence south 1/2 mile and east 2.0 miles, more or less, along the west and south boundary of Los Putos Rancho to the northwest corner of Section 4, Township 5 North, Range 1 West, thence east along a line common to Township 5 North and Township 6 North to the northeast corner of Section 3, Township 5 North, Range 1 East, thence south along section lines to the southeast corner of Section 10, Township 3 North, Range 1 East, thence east along section lines to the south 1/4 corner of Section 8, Township 3 North, Range 2 East, thence east to the boundary between Solano and Sacramento Counties.
Sutter County (part) |  | Unclassifiable/Attainmant
That portion south of a line connecting the northern border of Yolo County to the southwest tip of Yuba County and continuing along the southern Yuba County border to Placer County.
Yolo County |  | Unclassifiable/Attainment.
Northern Mountain Counties:
Nevada County |  | Unclassifiable/Attainment.
Plumas County |  | Unclassifiable/Attainment.
Sierra County |  | Unclassifiable/Attainment.
Central Mountain Counties:
Amador County |  | Unclassifiable/Attainment.
Calaveras County |  | Unclassifiable/Attainment.
Southern Mountain Counties:
Mariposa County |  | Unclassifiable/Attainment.
Tuolumne County |  | Unclassifiable/Attainment.
Lake Tahoe Air Basin:
El Dorado County (part) |  | Unclassifiable/Attainmant
That portion of El Dorado County within the drainage area naturally tributary to Lake Tahoe including said Lake.
Placer County (part) |  | Unclassifiable/Attainment.
That portion of Placer County within the Attainment. drainage area naturally tributary to Lake Tahoe including said Lake, plus that area in the vicinity of the head of the Truckee River described as follows: Commencing at the point common to the aforementioned drainage area crestline and the line common to Townships 15 North and 16 North, Mount Diablo Base and Meridian, and following that line in a westerly direction to the northwest corner of Section 3, Township 15 North, Range 16 East, Mount Diablo Base and Meridian, thence south along the west line of Sections 3 and 10, Township 15 North, Range 16 East, Mount Diablo Base and Meridian, to the intersection with the said drainage area crestline, thence following the said drainage area boundary in a southeasterly, then northeasterly direction to and along the Lake Tahoe Dam, thence following the said drainage area crestline in a northeasterly, then northwesterly direction to the point of beginning. |  | Attainment.
San Francisco Bay Area Air Basin:
Alameda County |  | Unclassifiable/Attainment.
Contra Costa County |  | Unclassifiable/Attainment.
Marin County |  | Unclassifiable/Attainment.
Napa County |  | Unclassifiable/Attainment.
San Francisco County |  | Unclassifiable/Attainment.
San Mateo County |  | Unclassifiable/Attainment.
Santa Clara County |  | Unclassifiable/Attainment.
Solano County (part) |  | Unclassifiable/Attainment.
Portion of Solano County which lies south and west of a line described as follows: Beginning at the intersection of the westerly boundary of Solano County and the ¼ section line running east and west through the center of Section 34, T6N, R2W, M.D.B. & M., thence east along said ¼ section line to the east boundary of Section 36, T6N, R2W, thence south ½ mile and east 2.0 miles, more or less, along the west and south boundary of Los Putos Rancho to the northwest corner of Section 4, T5N, R1W, thence east along a line common to T5N and T6N to the northeast corner of Section 3, T5N, R1E, thence south along section lines to the southeast corner of Section 10, T3N, R1E, thence east along section lines to the south ¼ corner of Section 8, T3N, R2E, thence east to the boundary between Solano and Sacramento Counties.
Sonoma County (part) |  | Unclassifiable/Attainment.
That portion of Sonoma County which lies south and east of a line described as follows: Beginning at the southeasterly corner of the Rancho Estero Americano, being on the boundary line between Marin and Sonoma Counties, California; thence running northerly along the easterly boundary line of said Rancho Estero Americano to the northeasterly corner thereof, being an angle corner in the westerly boundary line of Rancho Canada de Jonive; thence running along said boundary of Rancho Canada de Jonive westerly, northerly and easterly to its intersection with the easterly line of Graton Road; thence running along the easterly and southerly line of Graton Road, northerly and easterly to its intersection with the easterly line of Sullivan Road; thence running northerly along said easterly line of Sullivan Road to the southerly line of Green Valley Road; thence running easterly along the said southerly line of Green Valley Road and easterly along the southerly line of State Highway 116, to the westerly line of Vine Hill Road; thence running along the westerly and northerly line of Vine Hill Road, northerly and easterly to its intersection with the westerly line of Laguna Road; thence running northerly along the westerly line of Laguna Road and the northerly projection thereof to the northerly line of Trenton Road; thence running westerly along the northerly line of said Trenton Road to the easterly line of Trenton-Healdsburg Road; thence running northerly along said easterly line of Trenton-Healdsburg Road to the easterly line of Eastside Road; thence running northerly along said easterly line of Eastside Road to its intersection with the southerly line of Rancho Sotoyome; thence running easterly along said southerly line of Rancho Sotoyome to its intersection with the Township line common to Townships 8 and 9 North, M.D.M.; thence running easterly along said township line to its intersection with the boundary line between Sonoma and Napa Counties.
North Central Coast Air Basin:
Monterey County |  | Unclassifiable/Attainment.
San Benito County |  | Unclassifiable/Attainment.
Santa Cruz County |  | Unclassifiable/Attainment.
San Luis Obispo County:
San Luis Obispo County |  | Unclassifiable/Attainment.
Santa Barbara County:
Santa Barbara County (part) |  | Unclassifiable/Attainment.
Excluding Channel Islands
Ventura County:
Ventura County (part) |  | Unclassifiable/Attainment.
Excluding Anacapa and San Nicolas Islands.
Northern Channel Islands:
Santa Barbara County (part) |  | Unclassifiable/Attainment.
The islands located in the South Central Coast Air Basin, including San Miguel, Santa Rosa, Santa Cruz, and San Nicolas.
Ventura County (part) |  | Unclassifiable/Attainment.
Anacapa and San Nicolas Islands.
Great Basin Valleys Air Basin:
Alpine County |  | Unclassifiable/Attainment.
Inyo County (part) |  | Unclassifiable/Attainment.
That portion of Inyo County that lies outside Hydrologic Unit Number 18090205.
Mono County |  | Unclassifiable/Attainment.
Coso Junction:
Inyo County (part) |  | Unclassifiable/Attainment.
That portion of Inyo County that lies inside Hydrologic Unit Number 18090205.
Eastern Kern County:
Kern County (part) |  | Unclassifiable/Attainment.
That portion of Kern County (with the exception of that portion in Hydrologic Unit Number 18090205 —the Indian Wells Valley) east and south of a line described as follows: Beginning at the Kern—Los Angeles County boundary and running north and east along the northwest boundary of the Rancho La Liebre Land Grant to the point of intersection with the range line common to Range 16 West and Range 17 West, San Bernardino Base and Meridian; north along the range line to the point of intersection with the Rancho El Tejon Land Grant boundary; then southeast, northeast, and northwest along the boundary of the Rancho El Tejon Grant to the northwest corner of Section 3, Township 11 North, Range 17 West; then west 1.2 miles; then north to the Rancho El Tejon Land Grant boundary; then northwest along the Rancho El Tejon line to the southeast corner of Section 34, Township 32 South, Range 30 East, Mount Diablo Base and Meridian; then north to the northwest corner of Section 35, Township 31 South, Range 30 East; then northeast along the boundary of the Rancho El Tejon Land Grant to the southwest corner of Section 18, Township 31 South, Range 31 East; then east to the southeast corner of Section 13, Township 31 South, Range 31 East; then north along the range line common to Range 31 East and Range 32 East, Mount Diablo Base and Meridian, to the northwest corner of Section 6, Township 29 South, Range 32 East; then east to the southwest corner of Section 31, Township 28 South, Range 32 East; then north along the range line common to Range 31 East and Range 32 East to the northwest corner of Section 6, Township 28 South, Range 32 East, then west to the southeast corner of Section 36, Township 27 South, Range 31 East, then north along the range line common to Range 31 East and Range 32 East to the Kern-Tulare County boundary.
Indian Wells Valley:
Kern County (part) |  | Unclassifiable/Attainment.
That portion of Kern County that lies inside Hydrologic Unit Number 18090205.
Western Mojave Desert and Antelope Valley:
Los Angeles County (part) |  | Unclassifiable
That portion of Los Angeles County which lies north and east of a line described as follows: Beginning at the Los Angeles—San Bernardino County boundary and running west along the Township line common to Township 3 North and Township 2 North, San Bernardino Base and Meridian; then north along the range line common to Range 8 West and Range 9 West; then west along the Township line common to Township 4 North and Township 3 North; then north along the range line common to Range 12 West and Range 13 West to the southeast corner of Section 12, Township 5 North and Range 13 West; then west along the south boundaries of Sections 12, 11, 10, 9, 8, and 7, Township 5 North and Range 13 West to the boundary of the Angeles National Forest which is collinear with the range line common to Range 13 West and Range 14 West; then north and west along the Angeles National Forest boundary to the point of intersection with the Township line common to Township 7 North and Township 6 North (point is at the northwest corner of Section 4 in Township 6 North and Range 14 West); then west along the Township line common to Township 7 North and Township 6 North; then north along the range line common to Range 15 West and Range 16 West to the southeast corner of Section 13, Township 7 North and Range 16 West; then along the south boundaries of Sections 13, 14, 15, 16, 17, and 18, Township 7 North and Range 16 West; then north along the range line common to Range 16 West and Range 17 West to the north boundary of the Angeles National Forest (collinear with the Township line common to Township 8 North and Township 7 North); then west and north along the Angeles National Forest boundary to the point of intersection with the south boundary of the Rancho La Liebre Land Grant; then west and north along this land grant boundary to the Los Angeles-Kern County boundary.
San Bernardino County (part) |  | Unclassifiable/Attainment.
That portion of San Bernardino County (with the exception of that portion in Hydrologic Unit Number 18090205) which lies north and east of a line described as follows: Beginning at the San Bernardino—Riverside County boundary and running north along the range line common to Range 3 East and Range 2 East, San Bernardino Base and Meridian; then west along the Township line common to Township 3 North and Township 2 North to the San Bernardino—Los Angeles County boundary; And that portion of San Bernardino County which lies south and west of a line described as follows: latitude 35 degrees, 10 minutes north and longitude 115 degrees, 45 minutes west.
Trona:
San Bernardino County (part) |  | Unclassifiable/Attainment.
That portion of San Bernardino County that lies inside Hydrologic Unit Number 18090205.
Coachella Valley:
Riverside County (part) |  | Unclassifiable/Attainment.
That portion of Riverside County which lies to the east of a line described as follows: Beginning at the Riverside—San Diego County boundary and running north along the range line common to Range 4 East and Range 3 East, San Bernardino Base and Meridian; then east along the Township line common to Township 8 South and Township 7 South; then north along the range line common to Range 5 East and Range 4 East; then west along the Township line common to Township 6 South and Township 7 South to the southwest corner of Section 34, Township 6 South, Range 4 East; then north along the west boundaries of Sections 34, 27, 22, 15, 10, and 3, Township 6 South, Range 4 East; then west along the Township line common to Township 5 South and Township 6 South; then north along the range line common to Range 4 East and Range 3 East; then west along the south boundaries of Sections 13, 14, 15, 16, 17, and 18, Township 5 South, Range 3 East; then north along the range line common to Range 2 East and Range 3 East;, to the Riverside-San Bernardino County line: And that portion of Riverside County which lies to the west of a line described as follows: That segment of the southwestern boundary line of Hydrologic Unit Number 18100100 within Riverside County, further described as follows: Beginning at the Riverside-Imperial County boundary and running north along the range line common to Range 17 East and Range 16 East, San Bernardino Base and Meridian; then northwest along the ridge line of the Chuckwalla Mountains, through Township 8 South, Range 16 East and Township 7 South, Range 16 East, until the Black Butte Mountain, elevation 4504'; then west and northwest along the ridge line to the southwest corner of Township 5 South, Range 14 East; then north along the range line common to Range 14 East and Range 13 East; then west and northwest along the ridge line to Monument Mountain, elevation 4834'; then southwest and then northwest along the ridge line of the Little San Bernardino Mountains to Quail Mountain, elev. 5814'; then northwest along the ridge line to the Riverside-San Bernardino County line.
Far Eastern Riverside and San Bernardino Counties:
San Bernardino County (remainder) |  | Unclassifiable/Attainment.
Riverside County (remainder) |  | Unclassifiable/Attainment.
Imperial County:
Imperial County |  | Unclassifiable/Attainment.
San Diego County Tribal Area:
San Diego County (part)
La Posta Areas #1 and #2ᵇ |  | Unclassifiable/Attainment.
Cuyapaipe Areaᵇ |  | Unclassifiable/Attainment.
Manzanita Areaᵇ |  | Unclassifiable/Attainment.
Campo Areas #1 and #2ᵇ |  | Unclassifiable/Attainment.
ᵃ Includes Indian Country located in each county or area, except as otherwise specified.
¹ This date is 90 days after January 5, 2005, unless otherwise noted.
ᵇ The boundaries for these designated areas are based on coordinates of latitude and longitude derived from EPA Region 9's GIS database and are illustrated in a map entitled “Southeastern San Diego County Unclassifiable/Attainment. Areas for the PM-2.5 NAAQS,” dated December 10, 2004, including an attached set of coordinates. The map and attached set of coordinates are available at EPA's Region 9 Air Division office. The designated areas roughly approximate the boundaries of the reservations for these tribes, but their inclusion in this table is intended for the CAA planning purposes only and is not intended to be a federal determination of the exact boundaries of the reservations. Also, the specific listing of these areas in this table does not confer, deny, or withdraw Federal recognition of any of the tribes so listed nor any of the tribes not listed.

7. In § 81.306, the table entitled “Colorado—PM2.5” is added to the end of the section to read as follows:

§ 81.306 Colorado.

* * * * *

Colorado.—PM2.5
Designated area | Designation ᵃ: Date ¹ | Designation ᵃ: Type
Denver-Boulder Area:
Adams County (part) |  | Unclassifiable/Attainment.
West of Kiowa Creek
Arapahoe County (part) |  | Unclassifiable/Attainment.
West of Kiowa Creek
Boulder County (part) |  | Unclassifiable/Attainment.
Excluding Rocky Mountain National Park
Broomfield County |  | Unclassifiable/Attainment.
Denver County |  | Unclassifiable/Attainment.
Douglas County |  | Unclassifiable/Attainment.
Jefferson County |  | Unclassifiable/Attainment.
State AQCR 01:
Logan County |  | Unclassifiable/Attainment.
Morgan County |  | Unclassifiable/Attainment.
Phillips County |  | Unclassifiable/Attainment.
Sedgwick County |  | Unclassifiable/Attainment.
Washington County |  | Unclassifiable/Attainment.
Yuma County |  | Unclassifiable/Attainment.
State AQCR 02:
Larimer County |  | Unclassifiable/Attainment.
Weld County |  | Unclassifiable/Attainment.
State AQCR 03 (remainder of):
Adams County (remainder) |  | Unclassifiable/Attainment.
Arapahoe County (remainder) |  | Unclassifiable/Attainment.
Boulder County (remainder) |  | Unclassifiable/Attainment.
Clear Creek County |  | Unclassifiable/Attainment.
Gilpin County |  | Unclassifiable/Attainment.
State AQCR 04:
El Paso County |  | Unclassifiable/Attainment.
Park County |  | Unclassifiable/Attainment.
Teller County |  | Unclassifiable/Attainment.
State AQCR 05:
Cheyenne County |  | Unclassifiable/Attainment.
Elbert County |  | Unclassifiable/Attainment.
Kit Carson County |  | Unclassifiable/Attainment.
Lincoln County |  | Unclassifiable/Attainment.
State AQCR 06:
Baca County |  | Unclassifiable/Attainment.
Bent County |  | Unclassifiable/Attainment.
Crowley County |  | Unclassifiable/Attainment.
Kiowa County |  | Unclassifiable/Attainment.
Otero County |  | Unclassifiable/Attainment.
Prowers County |  | Unclassifiable/Attainment.
State AQCR 07:
Huerfano County |  | Unclassifiable/Attainment.
Las Animas County |  | Unclassifiable/Attainment.
Pueblo County |  | Unclassifiable/Attainment.
State AQCR 08:
Alamosa County |  | Unclassifiable/Attainment.
Conejos County |  | Unclassifiable/Attainment.
Costilla County |  | Unclassifiable/Attainment.
Mineral County |  | Unclassifiable/Attainment.
Rio Grande County |  | Unclassifiable/Attainment.
Saguache County |  | Unclassifiable/Attainment.
State AQCR 09:
Archuleta County |  | Unclassifiable/Attainment.
Dolores County |  | Unclassifiable/Attainment.
La Plata County |  | Unclassifiable/Attainment.
Montezuma County |  | Unclassifiable/Attainment.
San Juan County |  | Unclassifiable/Attainment.
State AQCR 10:
Delta County |  | Unclassifiable/Attainment.
Gunnison County |  | Unclassifiable/Attainment.
Hinsdale County |  | Unclassifiable/Attainment.
Montrose County |  | Unclassifiable/Attainment.
Ouray County |  | Unclassifiable/Attainment.
San Miguel County |  | Unclassifiable/Attainment.
State AQCR 11:
Garfield County |  | Unclassifiable/Attainment.
Mesa County |  | Unclassifiable/Attainment.
Moffat County |  | Unclassifiable/Attainment.
Rio Blanco County |  | Unclassifiable/Attainment.
State AQCR 12:
Eagle County |  | Unclassifiable/Attainment.
Grand County |  | Unclassifiable/Attainment.
Jackson County |  | Unclassifiable/Attainment.
Pitkin County |  | Unclassifiable/Attainment.
Routt County |  | Unclassifiable/Attainment.
Summit County |  | Unclassifiable/Attainment.
State AQCR 13:
Chaffee County |  | Unclassifiable/Attainment.
Custer County |  | Unclassifiable/Attainment.
Fremont County |  | Unclassifiable/Attainment.
Lake County |  | Unclassifiable/Attainment.
ᵃ Includes Indian Country located in each county or area, except as otherwise specified.
¹ This date is 90 days after January 5, 2005, unless otherwise noted.

8. In § 81.307, the table entitled “Connecticut.—PM2.5” is added to the end of the section to read as follows:

§ 81.307 Connecticut.

* * * * *

Connecticut.—PM2.5
Designated area | Designation ᵃ: Date ¹ | Designation ᵃ: Type
New York-N. New Jersey-Long Island, NY-NJ-CT:
Fairfield County |  | Nonattainment.
New Haven County |  | Nonattainment.
Rest of State:
Hartford County |  | Unclassifiable/Attainment.
Litchfield County |  | Unclassifiable/Attainment.
Middlesex County |  | Unclassifiable/Attainment.
New London County |  | Unclassifiable/Attainment.
Tolland County |  | Unclassifiable/Attainment.
Windham County |  | Unclassifiable/Attainment.
ᵃ Includes Indian Country located in each county or area, except as otherwise specified.
¹ This date is 90 days after January 5, 2005, unless otherwise noted.

9. In § 81.308, the table entitled “Delaware.—PM2.5” is added to the end of the section to read as follows:

§ 81.308 Delaware.

* * * * *

Delaware.—PM2.5
Designated area | Designation ᵃ: Date ¹ | Designation ᵃ: Type
Philadelphia-Wilmington, PA-NJ-DE:
New Castle County |  | Nonattainment.
Southern Delaware Intrastate AQCR:
Kent County |  | Unclassifiable/Attainment.
Sussex County |  | Unclassifiable/Attainment.
ᵃ Includes Indian Country located in each county or area, except as otherwise specified.
¹ This date is 90 days after January 5, 2005, unless otherwise noted.

10. In § 81.309, the table entitled “District of Columbia.—PM2.5” is added to the end of the section to read as follows:

§ 81.309 District of Columbia.

* * * * *

District of Columbia.—PM2.5
Designated area | Designation ᵃ: Date ¹ | Designation ᵃ: Type
Washington, DC-MD-VA:
District of Columbia |  | Nonattainment.
ᵃ Includes Indian Country located in each county or area, except as otherwise specified.
¹ This date is 90 days after January 5, 2005, unless otherwise noted.

11. In § 81.310, the table entitled “Florida.—PM2.5” is added to the end of the section to read as follows:

§ 81.310 Florida.

* * * * *

Florida.—PM2.5
Designated area | Designation ᵃ: Date ¹ | Designation ᵃ: Type
Statewide:
Alachua County |  | Unclassifiable/Attainment.
Baker County |  | Unclassifiable/Attainment.
Bay County |  | Unclassifiable/Attainment.
Bradford County |  | Unclassifiable/Attainment.
Brevard County |  | Unclassifiable/Attainment.
Broward County |  | Unclassifiable/Attainment.
Calhoun County |  | Unclassifiable/Attainment.
Charlotte County |  | Unclassifiable/Attainment.
Citrus County |  | Unclassifiable/Attainment.
Clay County |  | Unclassifiable/Attainment.
Collier County |  | Unclassifiable/Attainment.
Columbia County |  | Unclassifiable/Attainment.
DeSoto County |  | Unclassifiable/Attainment.
Dixie County |  | Unclassifiable/Attainment.
Duval County |  | Unclassifiable/Attainment.
Escambia County |  | Unclassifiable/Attainment.
Flagler County |  | Unclassifiable/Attainment.
Franklin County |  | Unclassifiable/Attainment.
Gadsden County |  | Unclassifiable/Attainment.
Gilchrist County |  | Unclassifiable/Attainment.
Glades County |  | Unclassifiable/Attainment.
Gulf County |  | Unclassifiable/Attainment.
Hamilton County |  | Unclassifiable/Attainment.
Hardee County |  | Unclassifiable/Attainment.
Hendry County |  | Unclassifiable/Attainment.
Hernando County |  | Unclassifiable/Attainment.
Highlands County |  | Unclassifiable/Attainment.
Hillsborough County |  | Unclassifiable/Attainment.
Holmes County |  | Unclassifiable/Attainment.
Indian River County |  | Unclassifiable/Attainment.
Jackson County |  | Unclassifiable/Attainment.
Jefferson County |  | Unclassifiable/Attainment.
Lafayette County |  | Unclassifiable/Attainment.
Lake County |  | Unclassifiable/Attainment.
Lee County |  | Unclassifiable/Attainment.
Leon County |  | Unclassifiable/Attainment.
Levy County |  | Unclassifiable/Attainment.
Liberty County |  | Unclassifiable/Attainment.
Madison County |  | Unclassifiable/Attainment.
Manatee County |  | Unclassifiable/Attainment.
Marion County |  | Unclassifiable/Attainment.
Martin County |  | Unclassifiable/Attainment.
Miami-Dade County |  | Unclassifiable/Attainment.
Monroe County |  | Unclassifiable/Attainment.
Nassau County |  | Unclassifiable/Attainment.
Okaloosa County |  | Unclassifiable/Attainment.
Okeechobee County |  | Unclassifiable/Attainment.
Orange County |  | Unclassifiable/Attainment.
Osceola County |  | Unclassifiable/Attainment.
Palm Beach County |  | Unclassifiable/Attainment.
Pasco County |  | Unclassifiable/Attainment.
Pinellas County |  | Unclassifiable/Attainment.
Polk County |  | Unclassifiable/Attainment.
Putnam County |  | Unclassifiable/Attainment.
St. Johns County |  | Unclassifiable/Attainment.
St. Lucie County |  | Unclassifiable/Attainment.
Santa Rosa County |  | Unclassifiable/Attainment.
Sarasota County |  | Unclassifiable/Attainment.
Seminole County |  | Unclassifiable/Attainment.
Sumter County |  | Unclassifiable/Attainment.
Suwannee County |  | Unclassifiable/Attainment.
Taylor County |  | Unclassifiable/Attainment.
Union County |  | Unclassifiable/Attainment.
Volusia County |  | Unclassifiable/Attainment.
Wakulla County |  | Unclassifiable/Attainment.
Walton County |  | Unclassifiable/Attainment.
Washington County |  | Unclassifiable/Attainment.
ᵃ Includes Indian Country located in each county or area, except as otherwise specified.
¹ This date is 90 days after January 5, 2005, unless otherwise noted.

12. In § 81.311, the table entitled “Georgia.—PM2.5” is added to the end of the section to read as follows:

§ 81.311 Georgia.

* * * * *

Georgia.—PM2.5
Designated area | Designation ᵃ: Date ¹ | Designation ᵃ: Type
Athens, GA:
Clarke County |  | Nonattainment.
Atlanta, GA:
Barrow County |  | Nonattainment.
Bartow County |  | Nonattainment.
Carroll County |  | Nonattainment.
Cherokee County |  | Nonattainment.
Clayton County |  | Nonattainment.
Cobb County |  | Nonattainment.
Coweta County |  | Nonattainment.
DeKalb County |  | Nonattainment.
Douglas County |  | Nonattainment.
Fayette County |  | Nonattainment.
Forsyth County |  | Nonattainment.
Fulton County |  | Nonattainment.
Gwinnett County |  | Nonattainment.
Hall County |  | Nonattainment.
Heard County (part) |  | Nonattainment.
The northeast portion that extends north of 33 degrees 24 minutes (north) to the Carroll County border and east of 85 degrees 3 minutes (west) to the Coweta County border.
Henry County |  | Nonattainment.
Newton County |  | Nonattainment.
Paulding County |  | Nonattainment.
Putnam County (part) |  | Nonattainment.
The area described by U.S. Census 2000 block group identifier 13-237-9603-1.
Rockdale County |  | Nonattainment.
Spalding County |  | Nonattainment.
Walton County |  | Nonattainment.
Chattanooga, TN-GA:
Catoosa County |  | Nonattainment.
Walker County |  | Nonattainment.
Columbus, GA-AL:
Muscogee County |  | Nonattainment.
Rome, GA:
Floyd County |  | Nonattainment.
Macon, GA:
Bibb County |  | Nonattainment.
Monroe County (part) |  | Nonattainment.
From the point where Bibb and Monroe Counties meet at U.S. Hwy 23/Georgia Hwy 98 follow the Bibb/Monroe County line westward 150′ from the U.S. Hwy 23/Georgia Hwy 87 centerline, proceed northward 150′ west of and parallel to the U.S. Hwy 23/Georgia Hwy 87 centerline to 33 degrees, 04 minutes, 30 seconds; proceeed westward to 83 degrees, 49 minutes, 45 seconds; proceed due south to 150′ north of the Georgia Hwy 18 centerline, proceed eastward 150′ north of and parallel to the Georgia Hwy 18 centerline to 1150′ west of the U.S. Hwy 23/ Georgia Hwy 87 centerline, proceed southward 1150′ west of and parallel to the U.S. Hwy 23/Georgia Hwy 87 centerline to the Monroe/Bibb County line; then follow the Monroe/Bibb County line to 150′ west of the U.S. Hwy 23/Georgia Hwy 87 centerline.
Rest of State:
Appling County |  | Unclassifiable/Attainment.
Atkinson County |  | Unclassifiable/Attainment.
Bacon County |  | Unclassifiable/Attainment.
Baker County |  | Unclassifiable/Attainment.
Baldwin County |  | Unclassifiable/Attainment.
Banks County |  | Unclassifiable/Attainment.
Ben Hill County |  | Unclassifiable/Attainment.
Berrien County |  | Unclassifiable/Attainment.
Bleckley County |  | Unclassifiable/Attainment.
Brantley County |  | Unclassifiable/Attainment.
Brooks County |  | Unclassifiable/Attainment.
Bryan County |  | Unclassifiable/Attainment.
Bulloch County |  | Unclassifiable/Attainment.
Burke County |  | Unclassifiable/Attainment.
Butts County |  | Unclassifiable/Attainment.
Calhoun County |  | Unclassifiable/Attainment.
Camden County |  | Unclassifiable/Attainment.
Candler County |  | Unclassifiable/Attainment.
Charlton County |  | Unclassifiable/Attainment.
Chatham County |  | Unclassifiable/Attainment.
Chattahoochee County |  | Unclassifiable/Attainment.
Chattooga County |  | Unclassifiable/Attainment.
Clay County |  | Unclassifiable/Attainment.
Clinch County |  | Unclassifiable/Attainment.
Coffee County |  | Unclassifiable/Attainment.
Colquitt County |  | Unclassifiable/Attainment.
Columbia County |  | Unclassifiable/Attainment.
Cook County |  | Unclassifiable/Attainment.
Crawford County |  | Unclassifiable/Attainment.
Crisp County |  | Unclassifiable/Attainment.
Dade County |  | Unclassifiable/Attainment.
Dawson County |  | Unclassifiable/Attainment.
Decatur County |  | Unclassifiable/Attainment.
Dodge County |  | Unclassifiable/Attainment.
Dooly County |  | Unclassifiable/Attainment.
Dougherty County |  | Unclassifiable/Attainment.
Early County |  | Unclassifiable/Attainment.
Echols County |  | Unclassifiable/Attainment.
Effingham County |  | Unclassifiable/Attainment.
Elbert County |  | Unclassifiable/Attainment.
Emanuel County |  | Unclassifiable/Attainment.
Evans County |  | Unclassifiable/Attainment.
Fannin County |  | Unclassifiable/Attainment.
Franklin County |  | Unclassifiable/Attainment.
Gilmer County |  | Unclassifiable/Attainment.
Glascock County |  | Unclassifiable/Attainment.
Glynn County |  | Unclassifiable/Attainment.
Gordon County |  | Unclassifiable/Attainment.
Grady County |  | Unclassifiable/Attainment.
Greene County |  | Unclassifiable/Attainment.
Habersham County |  | Unclassifiable/Attainment.
Hancock County |  | Unclassifiable/Attainment.
Haralson County |  | Unclassifiable/Attainment.
Harris County |  | Unclassifiable/Attainment.
Hart County |  | Unclassifiable/Attainment.
Heard County (remainder) |  | Unclassifiable/Attainment.
Houston County |  | Unclassifiable/Attainment.
Irwin County |  | Unclassifiable/Attainment.
Jackson County |  | Unclassifiable/Attainment.
Jasper County |  | Unclassifiable/Attainment.
Jeff Davis County |  | Unclassifiable/Attainment.
Jefferson County |  | Unclassifiable/Attainment.
Jenkins County |  | Unclassifiable/Attainment.
Johnson County |  | Unclassifiable/Attainment.
Jones County |  | Unclassifiable/Attainment.
Lamar County |  | Unclassifiable/Attainment.
Lanier County |  | Unclassifiable/Attainment.
Laurens County |  | Unclassifiable/Attainment.
Lee County |  | Unclassifiable/Attainment.
Liberty County |  | Unclassifiable/Attainment.
Lincoln County |  | Unclassifiable/Attainment.
Long County |  | Unclassifiable/Attainment.
Lowndes County |  | Unclassifiable/Attainment.
Lumpkin County |  | Unclassifiable/Attainment.
McDuffie County |  | Unclassifiable/Attainment.
McIntosh County |  | Unclassifiable/Attainment.
Macon County |  | Unclassifiable/Attainment.
Madison County |  | Unclassifiable/Attainment.
Marion County |  | Unclassifiable/Attainment.
Meriwether County |  | Unclassifiable/Attainment.
Miller County |  | Unclassifiable/Attainment.
Mitchell County |  | Unclassifiable/Attainment.
Monroe County (remainder) |  | Unclassifiable/Attainment.
Montgomery County |  | Unclassifiable/Attainment.
Morgan County |  | Unclassifiable/Attainment.
Murray County |  | Unclassifiable/Attainment.
Oconee County |  | Unclassifiable/Attainment.
Oglethorpe County |  | Unclassifiable/Attainment.
Peach County |  | Unclassifiable/Attainment.
Pickens County |  | Unclassifiable/Attainment.
Pierce County |  | Unclassifiable/Attainment.
Pike County |  | Unclassifiable/Attainment.
Polk County |  | Unclassifiable/Attainment.
Pulaski County |  | Unclassifiable/Attainment.
Putnam County (remainder) |  | Unclassifiable/Attainment.
Quitman County |  | Unclassifiable/Attainment.
Rabun County |  | Unclassifiable/Attainment.
Randolph County |  | Unclassifiable/Attainment.
Richmond County |  | Unclassifiable/Attainment.
Schley County |  | Unclassifiable/Attainment.
Screven County |  | Unclassifiable/Attainment.
Seminole County |  | Unclassifiable/Attainment.
Stephens County |  | Unclassifiable/Attainment.
Stewart County |  | Unclassifiable/Attainment.
Sumter County |  | Unclassifiable/Attainment.
Talbot County |  | Unclassifiable/Attainment.
Taliaferro County |  | Unclassifiable/Attainment.
Tattnall County |  | Unclassifiable/Attainment.
Taylor County |  | Unclassifiable/Attainment.
Telfair County |  | Unclassifiable/Attainment.
Terrell County |  | Unclassifiable/Attainment.
Thomas County |  | Unclassifiable/Attainment.
Tift County |  | Unclassifiable/Attainment.
Toombs County |  | Unclassifiable/Attainment.
Towns County |  | Unclassifiable/Attainment.
Treutlen County |  | Unclassifiable/Attainment.
Troup County |  | Unclassifiable/Attainment.
Turner County |  | Unclassifiable/Attainment.
Twiggs County |  | Unclassifiable/Attainment.
Union County |  | Unclassifiable/Attainment.
Upson County |  | Unclassifiable/Attainment.
Ware County |  | Unclassifiable/Attainment.
Warren County |  | Unclassifiable/Attainment.
Washington County |  | Unclassifiable/Attainment.
Wayne County |  | Unclassifiable/Attainment.
Webster County |  | Unclassifiable/Attainment.
Wheeler County |  | Unclassifiable/Attainment.
White County |  | Unclassifiable/Attainment.
Whitfield County |  | Unclassifiable/Attainment.
Wilcox County |  | Unclassifiable/Attainment.
Wilkes County |  | Unclassifiable/Attainment.
Wilkinson County |  | Unclassifiable/Attainment.
Worth County |  | Unclassifiable/Attainment.
ᵃ Includes Indian Country located in each county or area, except as otherwise specified.
¹ This date is 90 days after January 5, 2005, unless otherwise noted.

13. In § 81.312, the table entitled “Hawaii.—PM2.5” is added to the end of the section to read as follows:

§ 81.312 Hawaii.

* * * * *

Hawaii.—PM2.5
Designated area | Designation ᵃ: Date ¹ | Designation ᵃ: Type
Statewide:
Hawaii County |  | Unclassifiable/Attainment.
Honolulu County |  | Unclassifiable/Attainment.
Kalawao County |  | Unclassifiable/Attainment.
Kauai County |  | Unclassifiable/Attainment.
Maui County |  | Unclassifiable/Attainment.
ᵃ Includes Indian Country located in each county or area, except as otherwise specified.
¹ This date is 90 days after January 5, 2005, unless otherwise noted.

14. In § 81.313, the table entitled “Idaho.—PM2.5” is added to the end of the section to read as follows:

§ 81.313 Idaho.

* * * * *

Idaho.—PM2.5
Designated area | Designation ᵃ: Date ¹ | Designation ᵃ: Type
AQCR 61 Eastern Idaho Intrastate:
Bannock County |  | Unclassifiable/Attainment.
Bear Lake County |  | Unclassifiable/Attainment.
Bingham County |  | Unclassifiable/Attainment.
Bonneville County |  | Unclassifiable/Attainment.
Butte County |  | Unclassifiable/Attainment.
Caribou County |  | Unclassifiable/Attainment.
Clark County |  | Unclassifiable/Attainment.
Franklin County |  | Unclassifiable/Attainment.
Fremont County |  | Unclassifiable/Attainment.
Jefferson County |  | Unclassifiable/Attainment.
Madison County |  | Unclassifiable/Attainment.
Oneida County |  | Unclassifiable/Attainment.
Power County |  | Unclassifiable/Attainment.
Teton County |  | Unclassifiable/Attainment.
AQCR 62 E Washington-N Idaho Interstate:
Benewah County |  | Unclassifiable/Attainment.
Kootenai County |  | Unclassifiable/Attainment.
Latah County |  | Unclassifiable/Attainment.
Nez Perce County |  | Unclassifiable/Attainment.
Shoshone County |  | Unclassifiable/Attainment.
AQCR 63 Idaho Intrastate:
Adams County |  | Unclassifiable/Attainment.
Blaine County |  | Unclassifiable/Attainment.
Boise County |  | Unclassifiable/Attainment.
Bonner County |  | Unclassifiable/Attainment.
Boundary County |  | Unclassifiable/Attainment.
Camas County |  | Unclassifiable/Attainment.
Cassia County |  | Unclassifiable/Attainment.
Clearwater County |  | Unclassifiable/Attainment.
Custer County |  | Unclassifiable/Attainment.
Elmore County |  | Unclassifiable/Attainment.
Gem County |  | Unclassifiable/Attainment.
Gooding County |  | Unclassifiable/Attainment.
Idaho County |  | Unclassifiable/Attainment.
Jerome County |  | Unclassifiable/Attainment.
Lemhi County |  | Unclassifiable/Attainment.
Lewis County |  | Unclassifiable/Attainment.
Lincoln County |  | Unclassifiable/Attainment.
Minidoka County |  | Unclassifiable/Attainment.
Owyhee County |  | Unclassifiable/Attainment.
Payette County |  | Unclassifiable/Attainment.
Twin Falls County |  | Unclassifiable/Attainment.
Valley County |  | Unclassifiable/Attainment.
Washington County |  | Unclassifiable/Attainment.
AQCR 64 Metropolitan Boise Interstate:
Ada County |  | Unclassifiable/Attainment.
Canyon County |  | Unclassifiable/Attainment.
ᵃ Includes Indian Country located in each county or area, except as otherwise specified.
¹ This date is 90 days after January 5, 2005, unless otherwise noted.

15. In § 81.314, the table entitled “Illinois.—PM2.5” is added to the end of the section to read as follows:

§ 81.314 Illinois.

* * * * *

Illinois.—PM2.5
Designated area | Designation ᵃ: Date ¹ | Designation ᵃ: Type
Chicago-Gary-Lake County, IL-IN:
Cook County |  | Nonattainment.
DuPage County |  | Nonattainment.
Grundy County (part) |  | Nonattainment.
Goose Lake and Aux Sable Townships
Kane County |  | Nonattainment.
Kendall County (part) |  | Nonattainment.
Oswego Township
Lake County |  | Nonattainment.
McHenry County |  | Nonattainment.
Will County |  | Nonattainment.
St. Louis, MO-IL:
Madison County |  | Nonattainment.
Monroe County |  | Nonattainment.
Randolph County (part) |  | Nonattainment.
Baldwin Village
St. Clair County |  | Nonattainment.
Rest of State:
Adams County |  | Unclassifiable/Attainment.
Alexander County |  | Unclassifiable/Attainment.
Bond County |  | Unclassifiable/Attainment.
Boone County |  | Unclassifiable/Attainment.
Brown County |  | Unclassifiable/Attainment.
Bureau County |  | Unclassifiable/Attainment.
Calhoun County |  | Unclassifiable/Attainment.
Carroll County |  | Unclassifiable/Attainment.
Cass County |  | Unclassifiable/Attainment.
Champaign County |  | Unclassifiable/Attainment.
Christian County |  | Unclassifiable/Attainment.
Clark County |  | Unclassifiable/Attainment.
Clay County |  | Unclassifiable/Attainment.
Clinton County |  | Unclassifiable/Attainment.
Coles County |  | Unclassifiable/Attainment.
Crawford County |  | Unclassifiable/Attainment.
Cumberland County |  | Unclassifiable/Attainment.
DeKalb County |  | Unclassifiable/Attainment.
De Witt County |  | Unclassifiable/Attainment.
Douglas County |  | Unclassifiable/Attainment.
Edgar County |  | Unclassifiable/Attainment.
Edwards County |  | Unclassifiable/Attainment.
Effingham County |  | Unclassifiable/Attainment.
Fayette County |  | Unclassifiable/Attainment.
Ford County |  | Unclassifiable/Attainment.
Franklin County |  | Unclassifiable/Attainment.
Fulton County |  | Unclassifiable/Attainment.
Gallatin County |  | Unclassifiable/Attainment.
Greene County |  | Unclassifiable/Attainment.
Grundy County (remainder) |  | Unclassifiable/Attainment.
Hamilton County |  | Unclassifiable/Attainment.
Hancock County |  | Unclassifiable/Attainment.
Hardin County |  | Unclassifiable/Attainment.
Henderson County |  | Unclassifiable/Attainment.
Henry County |  | Unclassifiable/Attainment.
Iroquois County |  | Unclassifiable/Attainment.
Jackson County |  | Unclassifiable/Attainment.
Jasper County |  | Unclassifiable/Attainment.
Jefferson County |  | Unclassifiable/Attainment.
Jersey County |  | Unclassifiable/Attainment.
Jo Daviess County |  | Unclassifiable/Attainment.
Johnson County |  | Unclassifiable/Attainment.
Kankakee County |  | Unclassifiable/Attainment.
Kendall County (remainder) |  | Unclassifiable/Attainment.
Knox County |  | Unclassifiable/Attainment.
La Salle County |  | Unclassifiable/Attainment.
Lawrence County |  | Unclassifiable/Attainment.
Lee County |  | Unclassifiable/Attainment.
Livingston County |  | Unclassifiable/Attainment.
Logan County |  | Unclassifiable/Attainment.
McDonough County |  | Unclassifiable/Attainment.
McLean County |  | Unclassifiable/Attainment.
Macon County |  | Unclassifiable/Attainment.
Macoupin County |  | Unclassifiable/Attainment.
Marion County |  | Unclassifiable/Attainment.
Marshall County |  | Unclassifiable/Attainment.
Mason County |  | Unclassifiable/Attainment.
Massac County |  | Unclassifiable/Attainment.
Menard County |  | Unclassifiable/Attainment.
Mercer County |  | Unclassifiable/Attainment.
Montgomery County |  | Unclassifiable/Attainment.
Morgan County |  | Unclassifiable/Attainment.
Moultrie County |  | Unclassifiable/Attainment.
Ogle County |  | Unclassifiable/Attainment.
Peoria County |  | Unclassifiable/Attainment.
Perry County |  | Unclassifiable/Attainment.
Piatt County |  | Unclassifiable/Attainment.
Pike County |  | Unclassifiable/Attainment.
Pope County |  | Unclassifiable/Attainment.
Pulaski County |  | Unclassifiable/Attainment.
Putnam County |  | Unclassifiable/Attainment.
Randolph County (remainder) |  | Unclassifiable/Attainment.
Richland County |  | Unclassifiable/Attainment.
Rock Island County |  | Unclassifiable/Attainment.
Saline County |  | Unclassifiable/Attainment.
Sangamon County |  | Unclassifiable/Attainment.
Schuyler County |  | Unclassifiable/Attainment.
Scott County |  | Unclassifiable/Attainment.
Shelby County |  | Unclassifiable/Attainment.
Stark County |  | Unclassifiable/Attainment.
Stephenson County |  | Unclassifiable/Attainment.
Tazewell County |  | Unclassifiable/Attainment.
Union County |  | Unclassifiable/Attainment.
Vermilion County |  | Unclassifiable/Attainment.
Wabash County |  | Unclassifiable/Attainment.
Warren County |  | Unclassifiable/Attainment.
Washington County |  | Unclassifiable/Attainment.
Wayne County |  | Unclassifiable/Attainment.
White County |  | Unclassifiable/Attainment.
Whiteside County |  | Unclassifiable/Attainment.
Williamson County |  | Unclassifiable/Attainment.
Winnebago County |  | Unclassifiable/Attainment.
Woodford County |  | Unclassifiable/Attainment.
ᵃ Includes Indian Country located in each county or area, except as otherwise specified.
¹ This date is 90 days after January 5, 2005, unless otherwise noted.

16. In § 81.315, the table entitled “Indiana.—PM2.5” is added to the end of the section to read as follows:

§ 81.315 Indiana.

* * * * *

Indiana.—PM2.5
Designated area | Designation ᵃ: Date ¹ | Designation ᵃ: Type
Chicago-Gary-Lake County, IL-IN:
Lake County |  | Nonattainment.
Porter County |  | Nonattainment.
Cincinnati-Hamilton, OH-KY-IN:
Dearborn County (part) |  | Nonattainment.
Lawrenceburg Township
Elkhart, IN:
Elkhart County |  | Nonattainment.
St. Joseph County |  | Nonattainment.
Evansville, IN:
Dubois County |  | Nonattainment.
Gibson County (part) |  | Nonattainment.
Montgomery Township
Pike County (part) |  | Nonattainment.
Washington Township
Spencer County (part) |  | Nonattainment.
Ohio Township
Vanderburgh County |  | Nonattainment.
Warrick County |  | Nonattainment.
Indianapolis, IN:
Hamilton County |  | Nonattainment.
Hendricks County |  | Nonattainment.
Johnson County |  | Nonattainment.
Marion County |  | Nonattainment.
Morgan County |  | Nonattainment.
Louisville, KY-IN:
Clark County |  | Nonattainment.
Floyd County |  | Nonattainment.
Jefferson County (part) |  | Nonattainment.
Madison Township
Muncie, IN:
Delaware County |  | Unclassifiable.
Rest of State:
Adams County |  | Unclassifiable/Attainment.
Allen County |  | Unclassifiable/Attainment.
Bartholomew County |  | Unclassifiable/Attainment.
Benton County |  | Unclassifiable/Attainment.
Blackford County |  | Unclassifiable/Attainment.
Boone County |  | Unclassifiable/Attainment.
Brown County |  | Unclassifiable/Attainment.
Carroll County |  | Unclassifiable/Attainment.
Cass County |  | Unclassifiable/Attainment.
Clay County |  | Unclassifiable/Attainment.
Clinton County |  | Unclassifiable/Attainment.
Crawford County |  | Unclassifiable/Attainment.
Daviess County |  | Unclassifiable/Attainment.
Dearborn County (remainder) |  | Unclassifiable/Attainment.
Decatur County |  | Unclassifiable/Attainment.
De Kalb County |  | Unclassifiable/Attainment.
Fayette County |  | Unclassifiable/Attainment.
Fountain County |  | Unclassifiable/Attainment.
Franklin County |  | Unclassifiable/Attainment.
Fulton County |  | Unclassifiable/Attainment.
Gibson County (remainder) |  | Unclassifiable/Attainment.
Grant County |  | Unclassifiable/Attainment.
Greene County |  | Unclassifiable/Attainment.
Hancock County |  | Unclassifiable/Attainment.
Harrison County |  | Unclassifiable/Attainment.
Henry County |  | Unclassifiable/Attainment.
Howard County |  | Unclassifiable/Attainment.
Huntington County |  | Unclassifiable/Attainment.
Jackson County |  | Unclassifiable/Attainment.
Jasper County |  | Unclassifiable/Attainment.
Jay County |  | Unclassifiable/Attainment.
Jefferson County (remainder) |  | Unclassifiable/Attainment.
Jennings County |  | Unclassifiable/Attainment.
Knox County |  | Unclassifiable/Attainment.
Kosciusko County |  | Unclassifiable/Attainment.
LaGrange County |  | Unclassifiable/Attainment.
La Porte County |  | Unclassifiable/Attainment.
Lawrence County |  | Unclassifiable/Attainment.
Madison County |  | Unclassifiable/Attainment.
Marshall County |  | Unclassifiable/Attainment.
Martin County |  | Unclassifiable/Attainment.
Miami County |  | Unclassifiable/Attainment.
Monroe County |  | Unclassifiable/Attainment.
Montgomery County |  | Unclassifiable/Attainment.
Newton County |  | Unclassifiable/Attainment.
Noble County |  | Unclassifiable/Attainment.
Ohio County |  | Unclassifiable/Attainment.
Orange County |  | Unclassifiable/Attainment.
Owen County |  | Unclassifiable/Attainment.
Parke County |  | Unclassifiable/Attainment.
Perry County |  | Unclassifiable/Attainment.
Pike County (remainder) |  | Unclassifiable/Attainment.
Posey County |  | Unclassifiable/Attainment.
Pulaski County |  | Unclassifiable/Attainment.
Putnam County |  | Unclassifiable/Attainment.
Randolph County |  | Unclassifiable/Attainment.
Ripley County |  | Unclassifiable/Attainment.
Rush County |  | Unclassifiable/Attainment.
Scott County |  | Unclassifiable/Attainment.
Shelby County |  | Unclassifiable/Attainment.
Spencer County (remainder) |  | Unclassifiable/Attainment.
Starke County |  | Unclassifiable/Attainment.
Steuben County |  | Unclassifiable/Attainment.
Sullivan County |  | Unclassifiable/Attainment.
Switzerland County |  | Unclassifiable/Attainment.
Tippecanoe County |  | Unclassifiable/Attainment.
Tipton County |  | Unclassifiable/Attainment.
Union County |  | Unclassifiable/Attainment.
Vermillion County |  | Unclassifiable/Attainment.
Vigo County |  | Unclassifiable/Attainment.
Wabash County |  | Unclassifiable/Attainment.
Warren County |  | Unclassifiable/Attainment.
Washington County |  | Unclassifiable/Attainment.
Wayne County |  | Unclassifiable/Attainment.
Wells County |  | Unclassifiable/Attainment.
White County |  | Unclassifiable/Attainment.
Whitley County |  | Unclassifiable/Attainment.
¹ Includes Indian Country located in each county or area, except as otherwise specified.
ᵃ This date is 90 days after January 5, 2005, unless otherwise noted.

17. In § 81.316, the table entitled “Iowa.—PM2.5” is added to the end of the section to read as follows:

§ 81.316 Iowa.

* * * * *

Iowa.—PM2.5
Designated area | Designation ᵃ: Date ¹ | Designation ᵃ: Type
Statewide:
Adair County |  | Unclassifiable/Attainment.
Adams County |  | Unclassifiable/Attainment.
Allamakee County |  | Unclassifiable/Attainment.
Appanoose County |  | Unclassifiable/Attainment.
Audubon County |  | Unclassifiable/Attainment.
Benton County |  | Unclassifiable/Attainment.
Black Hawk County |  | Unclassifiable/Attainment.
Boone County |  | Unclassifiable/Attainment.
Bremer County |  | Unclassifiable/Attainment.
Buchanan County |  | Unclassifiable/Attainment.
Buena Vista County |  | Unclassifiable/Attainment.
Butler County |  | Unclassifiable/Attainment.
Calhoun County |  | Unclassifiable/Attainment.
Carroll County |  | Unclassifiable/Attainment.
Cass County |  | Unclassifiable/Attainment.
Cedar County |  | Unclassifiable/Attainment.
Cerro Gordo County |  | Unclassifiable/Attainment.
Cherokee County |  | Unclassifiable/Attainment.
Chickasaw County |  | Unclassifiable/Attainment.
Clarke County |  | Unclassifiable/Attainment.
Clay County |  | Unclassifiable/Attainment.
Clayton County |  | Unclassifiable/Attainment.
Clinton County |  | Unclassifiable/Attainment.
Crawford County |  | Unclassifiable/Attainment.
Dallas County |  | Unclassifiable/Attainment.
Davis County |  | Unclassifiable/Attainment.
Decatur County |  | Unclassifiable/Attainment.
Delaware County |  | Unclassifiable/Attainment.
Des Moines County |  | Unclassifiable/Attainment.
Dickinson County |  | Unclassifiable/Attainment.
Dubuque County |  | Unclassifiable/Attainment.
Emmet County |  | Unclassifiable/Attainment.
Fayette County |  | Unclassifiable/Attainment.
Floyd County |  | Unclassifiable/Attainment.
Franklin County |  | Unclassifiable/Attainment.
Fremont County |  | Unclassifiable/Attainment.
Greene County |  | Unclassifiable/Attainment.
Grundy County |  | Unclassifiable/Attainment.
Guthrie County |  | Unclassifiable/Attainment.
Hamilton County |  | Unclassifiable/Attainment.
Hancock County |  | Unclassifiable/Attainment.
Hardin County |  | Unclassifiable/Attainment.
Harrison County |  | Unclassifiable/Attainment.
Henry County |  | Unclassifiable/Attainment.
Howard County |  | Unclassifiable/Attainment.
Humboldt County |  | Unclassifiable/Attainment.
Ida County |  | Unclassifiable/Attainment.
Iowa County |  | Unclassifiable/Attainment.
Jackson County |  | Unclassifiable/Attainment.
Jasper County |  | Unclassifiable/Attainment.
Jefferson County |  | Unclassifiable/Attainment.
Johnson County |  | Unclassifiable/Attainment.
Jones County |  | Unclassifiable/Attainment.
Keokuk County |  | Unclassifiable/Attainment.
Kossuth County |  | Unclassifiable/Attainment.
Lee County |  | Unclassifiable/Attainment.
Linn County |  | Unclassifiable/Attainment.
Louisa County |  | Unclassifiable/Attainment.
Lucas County |  | Unclassifiable/Attainment.
Lyon County |  | Unclassifiable/Attainment.
Madison County |  | Unclassifiable/Attainment.
Mahaska County |  | Unclassifiable/Attainment.
Marion County |  | Unclassifiable/Attainment.
Marshall County |  | Unclassifiable/Attainment.
Mills County |  | Unclassifiable/Attainment.
Mitchell County |  | Unclassifiable/Attainment.
Monona County |  | Unclassifiable/Attainment.
Monroe County |  | Unclassifiable/Attainment.
Montgomery County |  | Unclassifiable/Attainment.
Muscatine County |  | Unclassifiable/Attainment.
O'Brien County |  | Unclassifiable/Attainment.
Osceola County |  | Unclassifiable/Attainment.
Page County |  | Unclassifiable/Attainment.
Palo Alto County |  | Unclassifiable/Attainment.
Plymouth County |  | Unclassifiable/Attainment.
Pocahontas County |  | Unclassifiable/Attainment.
Polk County |  | Unclassifiable/Attainment.
Pottawattamie County |  | Unclassifiable/Attainment.
Poweshiek County |  | Unclassifiable/Attainment.
Ringgold County |  | Unclassifiable/Attainment.
Sac County |  | Unclassifiable/Attainment.
Scott County |  | Unclassifiable/Attainment.
Shelby County |  | Unclassifiable/Attainment.
Sioux County |  | Unclassifiable/Attainment.
Story County |  | Unclassifiable/Attainment.
Tama County |  | Unclassifiable/Attainment.
Taylor County |  | Unclassifiable/Attainment.
Union County |  | Unclassifiable/Attainment.
Van Buren County |  | Unclassifiable/Attainment.
Wapello County |  | Unclassifiable/Attainment.
Warren County |  | Unclassifiable/Attainment.
Washington County |  | Unclassifiable/Attainment.
Wayne County |  | Unclassifiable/Attainment.
Webster County |  | Unclassifiable/Attainment.
Winnebago County |  | Unclassifiable/Attainment.
Winneshiek County |  | Unclassifiable/Attainment.
Woodbury County |  | Unclassifiable/Attainment.
Worth County |  | Unclassifiable/Attainment.
Wright County |  | Unclassifiable/Attainment.
ᵃ Includes Indian Country located in each county or area, except as otherwise specified.
¹ This date is 90 days after January 5, 2005, unless otherwise noted.

18. In § 81.317, the table entitled “Kansas—PM2.5” is added to the end of the section to read as follows:

§ 81.317 Kansas.

* * * * *

Kansas.—PM2.5
Designated area | Designation ᵃ: Date¹ | Designation ᵃ: Type
Statewide:
Allen County |  | Unclassifiable/Attainment.
Anderson County |  | Unclassifiable/Attainment.
Atchison County |  | Unclassifiable/Attainment.
Barber County |  | Unclassifiable/Attainment.
Barton County |  | Unclassifiable/Attainment.
Bourbon County |  | Unclassifiable/Attainment.
Brown County |  | Unclassifiable/Attainment.
Butler County |  | Unclassifiable/Attainment.
Chase County |  | Unclassifiable/Attainment.
Chautauqua County |  | Unclassifiable/Attainment.
Cherokee County |  | Unclassifiable/Attainment.
Cheyenne County |  | Unclassifiable/Attainment.
Clark County |  | Unclassifiable/Attainment.
Clay County |  | Unclassifiable/Attainment.
Cloud County |  | Unclassifiable/Attainment.
Coffey County |  | Unclassifiable/Attainment.
Comanche County |  | Unclassifiable/Attainment.
Cowley County |  | Unclassifiable/Attainment.
Crawford County |  | Unclassifiable/Attainment.
Decatur County |  | Unclassifiable/Attainment.
Dickinson County |  | Unclassifiable/Attainment.
Doniphan County |  | Unclassifiable/Attainment.
Douglas County |  | Unclassifiable/Attainment.
Edwards County |  | Unclassifiable/Attainment.
Elk County |  | Unclassifiable/Attainment.
Ellis County |  | Unclassifiable/Attainment.
Ellsworth County |  | Unclassifiable/Attainment.
Finney County |  | Unclassifiable/Attainment.
Ford County |  | Unclassifiable/Attainment.
Franklin County |  | Unclassifiable/Attainment.
Geary County |  | Unclassifiable/Attainment.
Gove County |  | Unclassifiable/Attainment.
Graham County |  | Unclassifiable/Attainment.
Grant County |  | Unclassifiable/Attainment.
Gray County |  | Unclassifiable/Attainment.
Greeley County |  | Unclassifiable/Attainment.
Greenwood County |  | Unclassifiable/Attainment.
Hamilton County |  | Unclassifiable/Attainment.
Harper County |  | Unclassifiable/Attainment.
Harvey County |  | Unclassifiable/Attainment.
Haskell County |  | Unclassifiable/Attainment.
Hodgeman County |  | Unclassifiable/Attainment.
Jackson County |  | Unclassifiable/Attainment.
Jefferson County |  | Unclassifiable/Attainment.
Jewell County |  | Unclassifiable/Attainment.
Johnson County |  | Unclassifiable/Attainment.
Kearny County |  | Unclassifiable/Attainment.
Kingman County |  | Unclassifiable/Attainment.
Kiowa County |  | Unclassifiable/Attainment.
Labette County |  | Unclassifiable/Attainment.
Lane County |  | Unclassifiable/Attainment.
Leavenworth County |  | Unclassifiable/Attainment.
Lincoln County |  | Unclassifiable/Attainment.
Linn County |  | Unclassifiable/Attainment.
Logan County |  | Unclassifiable/Attainment.
Lyon County |  | Unclassifiable/Attainment.
McPherson County |  | Unclassifiable/Attainment.
Marion County |  | Unclassifiable/Attainment.
Marshall County |  | Unclassifiable/Attainment.
Meade County |  | Unclassifiable/Attainment.
Miami County |  | Unclassifiable/Attainment.
Mitchell County |  | Unclassifiable/Attainment.
Montgomery County |  | Unclassifiable/Attainment.
Morris County |  | Unclassifiable/Attainment.
Morton County |  | Unclassifiable/Attainment.
Nemaha County |  | Unclassifiable/Attainment.
Neosho County |  | Unclassifiable/Attainment.
Ness County |  | Unclassifiable/Attainment.
Norton County |  | Unclassifiable/Attainment.
Osage County |  | Unclassifiable/Attainment.
Osborne County |  | Unclassifiable/Attainment.
Ottawa County |  | Unclassifiable/Attainment.
Pawnee County |  | Unclassifiable/Attainment.
Phillips County |  | Unclassifiable/Attainment.
Pottawatomie County |  | Unclassifiable/Attainment.
Pratt County |  | Unclassifiable/Attainment.
Rawlins County |  | Unclassifiable/Attainment.
Reno County |  | Unclassifiable/Attainment.
Republic County |  | Unclassifiable/Attainment.
Rice County |  | Unclassifiable/Attainment.
Riley County |  | Unclassifiable/Attainment.
Rooks County |  | Unclassifiable/Attainment.
Rush County |  | Unclassifiable/Attainment.
Russell County |  | Unclassifiable/Attainment.
Saline County |  | Unclassifiable/Attainment.
Scott County |  | Unclassifiable/Attainment.
Sedgwick County |  | Unclassifiable/Attainment.
Seward County |  | Unclassifiable/Attainment.
Shawnee County |  | Unclassifiable/Attainment.
Sheridan County |  | Unclassifiable/Attainment.
Sherman County |  | Unclassifiable/Attainment.
Smith County |  | Unclassifiable/Attainment.
Stafford County |  | Unclassifiable/Attainment.
Stanton County |  | Unclassifiable/Attainment.
Stevens County |  | Unclassifiable/Attainment.
Sumner County |  | Unclassifiable/Attainment.
Thomas County |  | Unclassifiable/Attainment.
Trego County |  | Unclassifiable/Attainment.
Wabaunsee County |  | Unclassifiable/Attainment.
Wallace County |  | Unclassifiable/Attainment.
Washington County |  | Unclassifiable/Attainment.
Wichita County |  | Unclassifiable/Attainment.
Wilson County |  | Unclassifiable/Attainment.
Woodson County |  | Unclassifiable/Attainment.
Wyandotte County |  | Unclassifiable/Attainment.
ᵃ Includes Indian Country located in each county or area, except as otherwise specified.
¹ This date is 90 days after January 5, 2005, unless otherwise noted.

19. In § 81.318, the table entitled “Kentucky.—PM2.5” is added to the end of the section to read as follows:

§ 81.318 Kentucky.

* * * * *

Kentucky.—PM2.5
Designated area | Designation ᵃ: Date ¹ | Designation ᵃ: Type
Cincinnati-Hamilton, OH-KY-IN:
Boone County |  | Nonattainment.
Campbell County |  | Nonattainment.
Kenton County |  | Nonattainment.
Huntington-Ashland, WV-KY-OH:
Boyd County |  | Nonattainment.
Lawrence County (part) |  | Nonattainment.
The area described by U.S. Census 2000 block group identifier 21-127-9901-6.
Lexington, KY:
Fayette County |  | Nonattainment.
Mercer County (part) |  | Nonattainment.
The area described by U.S. Census 2000 block group identifier 21-167-9605-1.
Louisville, KY-IN:
Bullitt County |  | Nonattainment.
Jefferson County |  | Nonattainment.
Rest of State:
Adair County |  | Unclassifiable/Attainment.
Allen County |  | Unclassifiable/Attainment.
Anderson County |  | Unclassifiable/Attainment.
Ballard County |  | Unclassifiable/Attainment.
Barren County |  | Unclassifiable/Attainment.
Bath County |  | Unclassifiable/Attainment.
Bell County |  | Unclassifiable/Attainment.
Bourbon County |  | Unclassifiable/Attainment.
Boyle County |  | Unclassifiable/Attainment.
Bracken County |  | Unclassifiable/Attainment.
Breathitt County |  | Unclassifiable/Attainment.
Breckinridge County |  | Unclassifiable/Attainment.
Butler County |  | Unclassifiable/Attainment.
Caldwell County |  | Unclassifiable/Attainment.
Calloway County |  | Unclassifiable/Attainment.
Carlisle County |  | Unclassifiable/Attainment.
Carroll County |  | Unclassifiable/Attainment.
Carter County |  | Unclassifiable/Attainment.
Casey County |  | Unclassifiable/Attainment.
Christian County |  | Unclassifiable/Attainment.
Clark County |  | Unclassifiable/Attainment.
Clay County |  | Unclassifiable/Attainment.
Clinton County |  | Unclassifiable/Attainment.
Crittenden County |  | Unclassifiable/Attainment.
Cumberland County |  | Unclassifiable/Attainment.
Daviess County |  | Unclassifiable/Attainment.
Edmonson County |  | Unclassifiable/Attainment.
Elliott County |  | Unclassifiable/Attainment.
Estill County |  | Unclassifiable/Attainment.
Fleming County |  | Unclassifiable/Attainment.
Floyd County |  | Unclassifiable/Attainment.
Franklin County |  | Unclassifiable/Attainment.
Fulton County |  | Unclassifiable/Attainment.
Gallatin County |  | Unclassifiable/Attainment.
Garrard County |  | Unclassifiable/Attainment.
Grant County |  | Unclassifiable/Attainment.
Graves County |  | Unclassifiable/Attainment.
Grayson County |  | Unclassifiable/Attainment.
Green County |  | Unclassifiable/Attainment.
Greenup County |  | Unclassifiable/Attainment.
Hancock County |  | Unclassifiable/Attainment.
Hardin County |  | Unclassifiable/Attainment.
Harlan County |  | Unclassifiable/Attainment.
Harrison County |  | Unclassifiable/Attainment.
Hart County |  | Unclassifiable/Attainment.
Henderson County |  | Unclassifiable/Attainment.
Henry County |  | Unclassifiable/Attainment.
Hickman County |  | Unclassifiable/Attainment.
Hopkins County |  | Unclassifiable/Attainment.
Jackson County |  | Unclassifiable/Attainment.
Jessamine County |  | Unclassifiable/Attainment.
Johnson County |  | Unclassifiable/Attainment.
Knott County |  | Unclassifiable/Attainment.
Knox County |  | Unclassifiable/Attainment.
Larue County |  | Unclassifiable/Attainment.
Laurel County |  | Unclassifiable/Attainment.
Lawrence County (remainder) |  | Unclassifiable/Attainment.
Lee County |  | Unclassifiable/Attainment.
Leslie County |  | Unclassifiable/Attainment.
Letcher County |  | Unclassifiable/Attainment.
Lewis County |  | Unclassifiable/Attainment.
Lincoln County |  | Unclassifiable/Attainment.
Livingston County |  | Unclassifiable/Attainment.
Logan County |  | Unclassifiable/Attainment.
Lyon County |  | Unclassifiable/Attainment.
McCracken County |  | Unclassifiable/Attainment.
McCreary County |  | Unclassifiable/Attainment.
McLean County |  | Unclassifiable/Attainment.
Madison County |  | Unclassifiable/Attainment.
Magoffin County |  | Unclassifiable/Attainment.
Marion County |  | Unclassifiable/Attainment.
Marshall County |  | Unclassifiable/Attainment.
Martin County |  | Unclassifiable/Attainment.
Mason County |  | Unclassifiable/Attainment.
Meade County |  | Unclassifiable/Attainment.
Menifee County |  | Unclassifiable/Attainment.
Mercer County (remainder) |  | Unclassifiable/Attainment.
Metcalfe County |  | Unclassifiable/Attainment.
Monroe County |  | Unclassifiable/Attainment.
Montgomery County |  | Unclassifiable/Attainment.
Morgan County |  | Unclassifiable/Attainment.
Muhlenberg County |  | Unclassifiable/Attainment.
Nelson County |  | Unclassifiable/Attainment.
Nicholas County |  | Unclassifiable/Attainment.
Ohio County |  | Unclassifiable/Attainment.
Oldham County |  | Unclassifiable/Attainment.
Owen County |  | Unclassifiable/Attainment.
Owsley County |  | Unclassifiable/Attainment.
Pendleton County |  | Unclassifiable/Attainment.
Perry County |  | Unclassifiable/Attainment.
Pike County |  | Unclassifiable/Attainment.
Powell County |  | Unclassifiable/Attainment.
Pulaski County |  | Unclassifiable/Attainment.
Robertson County |  | Unclassifiable/Attainment.
Rockcastle County |  | Unclassifiable/Attainment.
Rowan County |  | Unclassifiable/Attainment.
Russell County |  | Unclassifiable/Attainment.
Scott County |  | Unclassifiable/Attainment.
Shelby County |  | Unclassifiable/Attainment.
Simpson County |  | Unclassifiable/Attainment.
Spencer County |  | Unclassifiable/Attainment.
Taylor County |  | Unclassifiable/Attainment.
Todd County |  | Unclassifiable/Attainment.
Trigg County |  | Unclassifiable/Attainment.
Trimble County |  | Unclassifiable/Attainment.
Union County |  | Unclassifiable/Attainment.
Warren County |  | Unclassifiable/Attainment.
Washington County |  | Unclassifiable/Attainment.
Wayne County |  | Unclassifiable/Attainment.
Webster County |  | Unclassifiable/Attainment.
Whitley County |  | Unclassifiable/Attainment.
Wolfe County |  | Unclassifiable/Attainment.
Woodford County |  | Unclassifiable/Attainment.
ᵃ Includes Indian Country located in each county or area, except as otherwise specified.
¹ This date is 90 days after January 5, 2005, unless otherwise noted.

20. In § 81.319, the table entitled “Louisiana—PM2.5” is added to the end of the section to read as follows:

§ 81.319 Louisiana.

* * * * *

Louisiana.—PM2.5
Designated area | Designation ᵃ: Date ¹ | Designation ᵃ: Type
AQCR 019 Monroe-El Dorado Interstate:
Caldwell Parish |  | Unclassifiable/Attainment.
Catahoula Parish |  | Unclassifiable/Attainment.
Concordia Parish |  | Unclassifiable/Attainment.
East Carroll Parish |  | Unclassifiable/Attainment.
Franklin Parish |  | Unclassifiable/Attainment.
La Salle Parish |  | Unclassifiable/Attainment.
Madison Parish |  | Unclassifiable/Attainment.
Morehouse Parish |  | Unclassifiable/Attainment.
Ouachita Parish |  | Unclassifiable/Attainment.
Richland Parish |  | Unclassifiable/Attainment.
Tensas Parish |  | Unclassifiable/Attainment.
Union Parish |  | Unclassifiable/Attainment.
West Carroll Parish |  | Unclassifiable/Attainment.
AQCR 022 Shreveport-Texarkana-Tyler Interstate:
Bienville Parish |  | Unclassifiable/Attainment.
Bossier Parish |  | Unclassifiable/Attainment.
Caddo Parish |  | Unclassifiable/Attainment.
Claiborne Parish |  | Unclassifiable/Attainment.
De Soto Parish |  | Unclassifiable/Attainment.
Jackson Parish |  | Unclassifiable/Attainment.
Lincoln Parish |  | Unclassifiable/Attainment.
Natchitoches Parish |  | Unclassifiable/Attainment.
Red River Parish |  | Unclassifiable/Attainment.
Sabine Parish |  | Unclassifiable/Attainment.
Webster Parish |  | Unclassifiable/Attainment.
Winn Parish |  | Unclassifiable/Attainment.
AQCR 106 S. Louisiana-S.E. Texas Interstate:
Acadia Parish |  | Unclassifiable/Attainment.
Allen Parish |  | Unclassifiable/Attainment.
Assumption Parish |  | Unclassifiable/Attainment.
Avoyelles Parish |  | Unclassifiable/Attainment.
Cameron Parish |  | Unclassifiable/Attainment.
East Feliciana Parish |  | Unclassifiable/Attainment.
Evangeline Parish |  | Unclassifiable/Attainment.
Iberia Parish |  | Unclassifiable/Attainment.
Jefferson Davis Parish |  | Unclassifiable/Attainment.
Plaquemines Parish |  | Unclassifiable/Attainment.
Rapides Parish |  | Unclassifiable/Attainment.
St. Helena Parish |  | Unclassifiable/Attainment.
St. John the Baptist Parish |  | Unclassifiable/Attainment.
St. Landry Parish |  | Unclassifiable/Attainment.
St. Martin Parish |  | Unclassifiable/Attainment.
St. Tammany Parish |  | Unclassifiable/Attainment.
Tangipahoa Parish |  | Unclassifiable/Attainment.
Terrebonne Parish |  | Unclassifiable/Attainment.
Vermilion Parish |  | Unclassifiable/Attainment.
Vernon Parish |  | Unclassifiable/Attainment.
Washington Parish |  | Unclassifiable/Attainment.
West Feliciana Parish |  | Unclassifiable/Attainment.
Baton Rouge, LA:
Ascension Parish |  | Unclassifiable/Attainment.
East Baton Rouge Parish |  | Unclassifiable/Attainment.
Iberville Parish |  | Unclassifiable/Attainment.
Livingston Parish |  | Unclassifiable/Attainment.
West Baton Rouge Parish |  | Unclassifiable/Attainment.
Beauregard Parish Area, LA:
Beauregard Parish |  | Unclassifiable/Attainment.
Grant Parish Area:
Grant Parish |  | Unclassifiable/Attainment.
Lafayette Area:
Lafayette Parish |  | Unclassifiable/Attainment.
Lafourche Parish Area:
Lafourche Parish |  | Unclassifiable/Attainment.
Lake Charles Area:
Calcasieu Parish |  | Unclassifiable/Attainment.
New Orleans Area:
Jefferson Parish |  | Unclassifiable/Attainment.
Orleans Parish |  | Unclassifiable/Attainment.
St. Bernard Parish |  | Unclassifiable/Attainment.
St. Charles Parish |  | Unclassifiable/Attainment.
Pointe Coupee Area:
Pointe Coupee Parish |  | Unclassifiable/Attainment.
St. James Parish Area:
St. James Parish |  | Unclassifiable/Attainment.
St. Mary Parish Area:
St. Mary Parish |  | Unclassifiable/Attainment.
ᵃ Includes Indian Country located in each county or area, except as otherwise specified.
¹ This date is 90 days after January 5, 2005, unless otherwise noted.

21. In § 81.320, the table entitled “Maine—PM2.5” is added to the end of the section to read as follows:

§ 81.320 Maine.

* * * * *

Maine.—PM2.5
Designated area | Designation ᵃ: Date ¹ | Designation ᵃ: Type
Statewide:
Androscoggin County |  | Unclassifiable/Attainment.
Aroostook County |  | Unclassifiable/Attainment.
Cumberland County |  | Unclassifiable/Attainment.
Franklin County |  | Unclassifiable/Attainment.
Hancock County |  | Unclassifiable/Attainment.
Kennebec County |  | Unclassifiable/Attainment.
Knox County |  | Unclassifiable/Attainment.
Lincoln County |  | Unclassifiable/Attainment.
Oxford County |  | Unclassifiable/Attainment.
Penobscot County |  | Unclassifiable/Attainment.
Piscataquis County |  | Unclassifiable/Attainment.
Sagadahoc County |  | Unclassifiable/Attainment.
Somerset County |  | Unclassifiable/Attainment.
Waldo County |  | Unclassifiable/Attainment.
Washington County |  | Unclassifiable/Attainment.
York County |  | Unclassifiable/Attainment.
ᵃ Includes Indian Country located in each county or area, except as otherwise specified.
¹ This date is 90 days after January 5, 2005, unless otherwise noted.

22. In § 81.321, the table entitled “Maryland.—PM2.5” is added to the end of the section to read as follows:

§ 81.321 Maryland.

* * * * *

Maryland.—PM2.5
Designated area | Designation ᵃ: Date ¹ | Designation ᵃ: Type
Baltimore, MD:
Anne Arundel County |  | NonAttainment.
Baltimore County |  | NonAttainment.
Carroll County |  | NonAttainment.
Harford County |  | NonAttainment.
Howard County |  | NonAttainment.
City of Baltimore |  | NonAttainment.
Martinsburg, WV-Hagerstown, MD:
Washington County |  | NonAttainment.
Washington, DC-MD-VA:
Charles County |  | NonAttainment.
Frederick County |  | NonAttainment.
Montgomery County |  | NonAttainment.
Prince George's County |  | NonAttainment.
AQCR 113 Cumberland-Keyser Interstate:
Allegany County |  | Unclassifiable/Attainment.
Garrett County |  | Unclassifiable/Attainment.
AQCR 114 Eastern Shore Interstate (remainder of):
Caroline County |  | Unclassifiable/Attainment.
Cecil County |  | Unclassifiable/Attainment.
Dorchester County |  | Unclassifiable/Attainment.
Kent County |  | Unclassifiable/Attainment.
Queen Anne's County |  | Unclassifiable/Attainment.
Somerset County |  | Unclassifiable/Attainment.
Talbot County |  | Unclassifiable/Attainment.
Wicomico County |  | Unclassifiable/Attainment.
Worcester County |  | Unclassifiable/Attainment.
AQCR 116 Southern Maryland Intrastate (remainder of):
Calvert County |  | Unclassifiable/Attainment.
St. Mary's County |  | Unclassifiable/Attainment.
ᵃ Includes Indian Country located in each county or area, except as otherwise specified.
¹ This date is 90 days after January 5, 2005, unless otherwise noted.

23. In § 81.322, the table entitled “Massachusetts.—PM2.5” is added to the end of the section to read as follows:

§ 81.322 Massachusetts.

* * * * *

Massachusetts.—PM2.5
Designated area | Designation ᵃ: Date ¹ | Designation ᵃ: Type
Statewide:
Barnstable County |  | Unclassifiable/Attainment.
Berkshire County |  | Unclassifiable/Attainment.
Bristol County |  | Unclassifiable/Attainment.
Dukes County |  | Unclassifiable/Attainment.
Essex County |  | Unclassifiable/Attainment.
Franklin County |  | Unclassifiable/Attainment.
Hampden County |  | Unclassifiable/Attainment.
Hampshire County |  | Unclassifiable/Attainment.
Middlesex County |  | Unclassifiable/Attainment.
Nantucket County |  | Unclassifiable/Attainment.
Norfolk County |  | Unclassifiable/Attainment.
Plymouth County |  | Unclassifiable/Attainment.
Suffolk County |  | Unclassifiable/Attainment.
Worcester County |  | Unclassifiable/Attainment.
ᵃ Includes Indian Country located in each county or area, except as otherwise specified.
¹ This date is 90 days after January 5, 2005, unless otherwise noted.

24. In § 81.323, the table entitled “Michigan.—PM2.5” is added to the end of the section to read as follows:

§ 81.323 Michigan.

* * * * *

Michigan.—PM2.5
Designated area | Designation ᵃ: Date ¹ | Designation ᵃ: Type
Detroit-Ann Arbor, MI:
Livingston County |  | Nonattainment.
Macomb County |  | Nonattainment.
Monroe County |  | Nonattainment.
Oakland County |  | Nonattainment.
St. Clair County |  | Nonattainment.
Washtenaw County |  | Nonattainment.
Wayne County |  | Nonattainment.
Rest of State:
Alcona County |  | Unclassifiable/Attainment.
Alger County |  | Unclassifiable/Attainment.
Allegan County |  | Unclassifiable/Attainment.
Alpena County |  | Unclassifiable/Attainment.
Antrim County |  | Unclassifiable/Attainment.
Arenac County |  | Unclassifiable/Attainment.
Baraga County |  | Unclassifiable/Attainment.
Barry County |  | Unclassifiable/Attainment.
Bay County |  | Unclassifiable/Attainment.
Benzie County |  | Unclassifiable/Attainment.
Berrien County |  | Unclassifiable/Attainment.
Branch County |  | Unclassifiable/Attainment.
Calhoun County |  | Unclassifiable/Attainment.
Cass County |  | Unclassifiable/Attainment.
Charlevoix County |  | Unclassifiable/Attainment.
Cheboygan County |  | Unclassifiable/Attainment.
Chippewa County |  | Unclassifiable/Attainment.
Clare County |  | Unclassifiable/Attainment.
Clinton County |  | Unclassifiable/Attainment.
Crawford County |  | Unclassifiable/Attainment.
Delta County |  | Unclassifiable/Attainment.
Dickinson County |  | Unclassifiable/Attainment.
Eaton County |  | Unclassifiable/Attainment.
Emmet County |  | Unclassifiable/Attainment.
Genesee County |  | Unclassifiable/Attainment.
Gladwin County |  | Unclassifiable/Attainment.
Gogebic County |  | Unclassifiable/Attainment.
Grand Traverse County |  | Unclassifiable/Attainment.
Gratiot County |  | Unclassifiable/Attainment.
Hillsdale County |  | Unclassifiable/Attainment.
Houghton County |  | Unclassifiable/Attainment.
Huron County |  | Unclassifiable/Attainment.
Ingham County |  | Unclassifiable/Attainment.
Ionia County |  | Unclassifiable/Attainment.
Iosco County |  | Unclassifiable/Attainment.
Iron County |  | Unclassifiable/Attainment.
Isabella County |  | Unclassifiable/Attainment.
Jackson County |  | Unclassifiable/Attainment.
Kalamazoo County |  | Unclassifiable/Attainment.
Kalkaska County |  | Unclassifiable/Attainment.
Kent County |  | Unclassifiable/Attainment.
Keweenaw County |  | Unclassifiable/Attainment.
Lake County |  | Unclassifiable/Attainment.
Lapeer County |  | Unclassifiable/Attainment.
Leelanau County |  | Unclassifiable/Attainment.
Lenawee County |  | Unclassifiable/Attainment.
Luce County |  | Unclassifiable/Attainment.
Mackinac County |  | Unclassifiable/Attainment.
Manistee County |  | Unclassifiable/Attainment.
Marquette County |  | Unclassifiable/Attainment.
Mason County |  | Unclassifiable/Attainment.
Mecosta County |  | Unclassifiable/Attainment.
Menominee County |  | Unclassifiable/Attainment.
Midland County |  | Unclassifiable/Attainment.
Missaukee County |  | Unclassifiable/Attainment.
Montcalm County |  | Unclassifiable/Attainment.
Montmorency County |  | Unclassifiable/Attainment.
Muskegon County |  | Unclassifiable/Attainment.
Newaygo County |  | Unclassifiable/Attainment.
Oceana County |  | Unclassifiable/Attainment.
Ogemaw County |  | Unclassifiable/Attainment.
Ontonagon County |  | Unclassifiable/Attainment.
Osceola County |  | Unclassifiable/Attainment.
Oscoda County |  | Unclassifiable/Attainment.
Otsego County |  | Unclassifiable/Attainment.
Ottawa County |  | Unclassifiable/Attainment.
Presque Isle County |  | Unclassifiable/Attainment.
Roscommon County |  | Unclassifiable/Attainment.
Saginaw County |  | Unclassifiable/Attainment.
St. Joseph County |  | Unclassifiable/Attainment.
Sanilac County |  | Unclassifiable/Attainment.
Schoolcraft County |  | Unclassifiable/Attainment.
Shiawassee County |  | Unclassifiable/Attainment.
Tuscola County |  | Unclassifiable/Attainment.
Van Buren County |  | Unclassifiable/Attainment.
Wexford County |  | Unclassifiable/Attainment.
ᵃ Includes Indian Country located in each county or area, except as otherwise specified.
¹ This date is 90 days after January 5, 2005, unless otherwise noted.

25. In § 81324, the table entitled “Minnesota.—PM2.5” is added to the end of the section to read as follows:

§ 81.324 Minnesota.

* * * * *

Minnesota.—PM2.5
Designated area | Designation ᵃ: Date ¹ | Designation ᵃ: Type
Statewide:
Aitkin County |  | Unclassifiable/Attainment.
Anoka County |  | Unclassifiable/Attainment.
Becker County |  | Unclassifiable/Attainment.
Beltrami County |  | Unclassifiable/Attainment.
Benton County |  | Unclassifiable/Attainment.
Big Stone County |  | Unclassifiable/Attainment.
Blue Earth County |  | Unclassifiable/Attainment.
Brown County |  | Unclassifiable/Attainment.
Carlton County |  | Unclassifiable/Attainment.
Carver County |  | Unclassifiable/Attainment.
Cass County |  | Unclassifiable/Attainment.
Chippewa County |  | Unclassifiable/Attainment.
Chisago County |  | Unclassifiable/Attainment.
Clay County |  | Unclassifiable/Attainment.
Clearwater County |  | Unclassifiable/Attainment.
Cook County |  | Unclassifiable/Attainment.
Cottonwood County |  | Unclassifiable/Attainment.
Crow Wing County |  | Unclassifiable/Attainment.
Dakota County |  | Unclassifiable/Attainment.
Dodge County |  | Unclassifiable/Attainment.
Douglas County |  | Unclassifiable/Attainment.
Faribault County |  | Unclassifiable/Attainment.
Fillmore County |  | Unclassifiable/Attainment.
Freeborn County |  | Unclassifiable/Attainment.
Goodhue County |  | Unclassifiable/Attainment.
Grant County |  | Unclassifiable/Attainment.
Hennepin County |  | Unclassifiable/Attainment.
Houston County |  | Unclassifiable/Attainment.
Hubbard County |  | Unclassifiable/Attainment.
Isanti County |  | Unclassifiable/Attainment.
Itasca County |  | Unclassifiable/Attainment.
Jackson County |  | Unclassifiable/Attainment.
Kanabec County |  | Unclassifiable/Attainment.
Kandiyohi County |  | Unclassifiable/Attainment.
Kittson County |  | Unclassifiable/Attainment.
Koochiching County |  | Unclassifiable/Attainment.
Lac qui Parle County |  | Unclassifiable/Attainment.
Lake County |  | Unclassifiable/Attainment.
Lake of the Woods County |  | Unclassifiable/Attainment.
Le Sueur County |  | Unclassifiable/Attainment.
Lincoln County |  | Unclassifiable/Attainment.
Lyon County |  | Unclassifiable/Attainment.
McLeod County |  | Unclassifiable/Attainment.
Mahnomen County |  | Unclassifiable/Attainment.
Marshall County |  | Unclassifiable/Attainment.
Martin County |  | Unclassifiable/Attainment.
Meeker County |  | Unclassifiable/Attainment.
Mille Lacs County |  | Unclassifiable/Attainment.
Morrison County |  | Unclassifiable/Attainment.
Mower County |  | Unclassifiable/Attainment.
Murray County |  | Unclassifiable/Attainment.
Nicollet County |  | Unclassifiable/Attainment.
Nobles County |  | Unclassifiable/Attainment.
Norman County |  | Unclassifiable/Attainment.
Olmsted County |  | Unclassifiable/Attainment.
Otter Tail County |  | Unclassifiable/Attainment.
Pennington County |  | Unclassifiable/Attainment.
Pine County |  | Unclassifiable/Attainment.
Pipestone County |  | Unclassifiable/Attainment.
Polk County |  | Unclassifiable/Attainment.
Pope County |  | Unclassifiable/Attainment.
Ramsey County |  | Unclassifiable/Attainment.
Red Lake County |  | Unclassifiable/Attainment.
Redwood County |  | Unclassifiable/Attainment.
Renville County |  | Unclassifiable/Attainment.
Rice County |  | Unclassifiable/Attainment.
Rock County |  | Unclassifiable/Attainment.
Roseau County |  | Unclassifiable/Attainment.
St. Louis County |  | Unclassifiable/Attainment.
Scott County |  | Unclassifiable/Attainment.
Sherburne County |  | Unclassifiable/Attainment.
Sibley County |  | Unclassifiable/Attainment.
Stearns County |  | Unclassifiable/Attainment.
Steele County |  | Unclassifiable/Attainment.
Stevens County |  | Unclassifiable/Attainment.
Swift County |  | Unclassifiable/Attainment.
Todd County |  | Unclassifiable/Attainment.
Traverse County |  | Unclassifiable/Attainment.
Wabasha County |  | Unclassifiable/Attainment.
Wadena County |  | Unclassifiable/Attainment.
Waseca County |  | Unclassifiable/Attainment.
Washington County |  | Unclassifiable/Attainment.
Watonwan County |  | Unclassifiable/Attainment.
Wilkin County |  | Unclassifiable/Attainment.
Winona County |  | Unclassifiable/Attainment.
Wright County |  | Unclassifiable/Attainment.
Yellow Medicine County |  | Unclassifiable/Attainment.
ᵃ Includes Indian Country located in each county or area, except as otherwise specified.
¹ This date is 90 days after January 5, 2005, unless otherwise noted.

26. In § 81.325, the table entitled “Mississippi.—PM2.5” is added to the end of the section to read as follows:

§ 81.325 Mississippi.

* * * * *

Mississippi.—PM2.5
Designated area | Designation ᵃ: Date ¹ | Designation ᵃ: Type
Statewide:
Adams County |  | Unclassifiable/Attainment.
Alcorn County |  | Unclassifiable/Attainment.
Amite County |  | Unclassifiable/Attainment.
Attala County |  | Unclassifiable/Attainment.
Benton County |  | Unclassifiable/Attainment.
Bolivar County |  | Unclassifiable/Attainment.
Calhoun County |  | Unclassifiable/Attainment.
Carroll County |  | Unclassifiable/Attainment.
Chickasaw County |  | Unclassifiable/Attainment.
Choctaw County |  | Unclassifiable/Attainment.
Claiborne County |  | Unclassifiable/Attainment.
Clarke County |  | Unclassifiable/Attainment.
Clay County |  | Unclassifiable/Attainment.
Coahoma County |  | Unclassifiable/Attainment.
Copiah County |  | Unclassifiable/Attainment.
Covington County |  | Unclassifiable/Attainment.
DeSoto County |  | Unclassifiable/Attainment.
Forrest County |  | Unclassifiable/Attainment.
Franklin County |  | Unclassifiable/Attainment.
George County |  | Unclassifiable/Attainment.
Greene County |  | Unclassifiable/Attainment.
Grenada County |  | Unclassifiable/Attainment.
Hancock County |  | Unclassifiable/Attainment.
Harrison County |  | Unclassifiable/Attainment.
Hinds County |  | Unclassifiable/Attainment.
Holmes County |  | Unclassifiable/Attainment.
Humphreys County |  | Unclassifiable/Attainment.
Issaquena County |  | Unclassifiable/Attainment.
Itawamba County |  | Unclassifiable/Attainment.
Jackson County |  | Unclassifiable/Attainment.
Jasper County |  | Unclassifiable/Attainment.
Jefferson County |  | Unclassifiable/Attainment.
Jefferson Davis County |  | Unclassifiable/Attainment.
Jones County |  | Unclassifiable/Attainment.
Kemper County |  | Unclassifiable/Attainment.
Lafayette County |  | Unclassifiable/Attainment.
Lamar County |  | Unclassifiable/Attainment.
Lauderdale County |  | Unclassifiable/Attainment.
Lawrence County |  | Unclassifiable/Attainment.
Leake County |  | Unclassifiable/Attainment.
Lee County |  | Unclassifiable/Attainment.
Leflore County |  | Unclassifiable/Attainment.
Lincoln County |  | Unclassifiable/Attainment.
Lowndes County |  | Unclassifiable/Attainment.
Madison County |  | Unclassifiable/Attainment.
Marion County |  | Unclassifiable/Attainment.
Marshall County |  | Unclassifiable/Attainment.
Monroe County |  | Unclassifiable/Attainment.
Montgomery County |  | Unclassifiable/Attainment.
Neshoba County |  | Unclassifiable/Attainment.
Newton County |  | Unclassifiable/Attainment.
Noxubee County |  | Unclassifiable/Attainment.
Oktibbeha County |  | Unclassifiable/Attainment.
Panola County |  | Unclassifiable/Attainment.
Pearl River County |  | Unclassifiable/Attainment.
Perry County |  | Unclassifiable/Attainment.
Pike County |  | Unclassifiable/Attainment.
Pontotoc County |  | Unclassifiable/Attainment.
Prentiss County |  | Unclassifiable/Attainment.
Quitman County |  | Unclassifiable/Attainment.
Rankin County |  | Unclassifiable/Attainment.
Scott County |  | Unclassifiable/Attainment.
Sharkey County |  | Unclassifiable/Attainment.
Simpson County |  | Unclassifiable/Attainment.
Smith County |  | Unclassifiable/Attainment.
Stone County |  | Unclassifiable/Attainment.
Sunflower County |  | Unclassifiable/Attainment.
Tallahatchie County |  | Unclassifiable/Attainment.
Tate County |  | Unclassifiable/Attainment.
Tippah County |  | Unclassifiable/Attainment.
Tishomingo County |  | Unclassifiable/Attainment.
Tunica County |  | Unclassifiable/Attainment.
Union County |  | Unclassifiable/Attainment.
Walthall County |  | Unclassifiable/Attainment.
Warren County |  | Unclassifiable/Attainment.
Washington County |  | Unclassifiable/Attainment.
Wayne County |  | Unclassifiable/Attainment.
Webster County |  | Unclassifiable/Attainment.
Wilkinson County |  | Unclassifiable/Attainment.
Winston County |  | Unclassifiable/Attainment.
Yalobusha County |  | Unclassifiable/Attainment.
Yazoo County |  | Unclassifiable/Attainment.
ᵃ Includes Indian Country located in each county or area, except as otherwise specified.
¹ This date is 90 days after January 5, 2005, unless otherwise noted.

27. In § 81.326, the table entitled “Missouri.—PM2.5” is added to the end of the section to read as follows:

§ 81.326 Missouri.

* * * * *

Missouri.—PM2.5
Designated area | Designation ᵃ: Date ¹ | Designation ᵃ: Type
St. Louis, MO-IL:
Franklin County |  | Nonattainment.
Jefferson County |  | Nonattainment.
St. Charles County |  | Nonattainment.
St. Louis County |  | Nonattainment.
St. Louis City |  | Nonattainment.
Rest of State:
Adair County |  | Unclassifiable/Attainment.
Andrew County |  | Unclassifiable/Attainment.
Atchison County |  | Unclassifiable/Attainment.
Audrain County |  | Unclassifiable/Attainment.
Barry County |  | Unclassifiable/Attainment.
Barton County |  | Unclassifiable/Attainment.
Bates County |  | Unclassifiable/Attainment.
Benton County |  | Unclassifiable/Attainment.
Bollinger County |  | Unclassifiable/Attainment.
Boone County |  | Unclassifiable/Attainment.
Buchanan County |  | Unclassifiable/Attainment.
Butler County |  | Unclassifiable/Attainment.
Caldwell County |  | Unclassifiable/Attainment.
Callaway County |  | Unclassifiable/Attainment.
Camden County |  | Unclassifiable/Attainment.
Cape Girardeau County |  | Unclassifiable/Attainment.
Carroll County |  | Unclassifiable/Attainment.
Carter County |  | Unclassifiable/Attainment.
Cass County |  | Unclassifiable/Attainment.
Cedar County |  | Unclassifiable/Attainment.
Chariton County |  | Unclassifiable/Attainment.
Christian County |  | Unclassifiable/Attainment.
Clark County |  | Unclassifiable/Attainment.
Clay County |  | Unclassifiable/Attainment.
Clinton County |  | Unclassifiable/Attainment.
Cole County |  | Unclassifiable/Attainment.
Cooper County |  | Unclassifiable/Attainment.
Crawford County |  | Unclassifiable/Attainment.
Dade County |  | Unclassifiable/Attainment.
Dallas County |  | Unclassifiable/Attainment.
Daviess County |  | Unclassifiable/Attainment.
DeKalb County |  | Unclassifiable/Attainment.
Dent County |  | Unclassifiable/Attainment.
Douglas County |  | Unclassifiable/Attainment.
Dunklin County |  | Unclassifiable/Attainment.
Gasconade County |  | Unclassifiable/Attainment.
Gentry County |  | Unclassifiable/Attainment.
Greene County |  | Unclassifiable/Attainment.
Grundy County |  | Unclassifiable/Attainment.
Harrison County |  | Unclassifiable/Attainment.
Henry County |  | Unclassifiable/Attainment.
Hickory County |  | Unclassifiable/Attainment.
Holt County |  | Unclassifiable/Attainment.
Howard County |  | Unclassifiable/Attainment.
Howell County |  | Unclassifiable/Attainment.
Iron County |  | Unclassifiable/Attainment.
Jackson County |  | Unclassifiable/Attainment.
Jasper County |  | Unclassifiable/Attainment.
Johnson County |  | Unclassifiable/Attainment.
Knox County |  | Unclassifiable/Attainment.
Laclede County |  | Unclassifiable/Attainment.
Lafayette County |  | Unclassifiable/Attainment.
Lawrence County |  | Unclassifiable/Attainment.
Lewis County |  | Unclassifiable/Attainment.
Lincoln County |  | Unclassifiable/Attainment.
Linn County |  | Unclassifiable/Attainment.
Livingston County |  | Unclassifiable/Attainment.
McDonald County |  | Unclassifiable/Attainment.
Macon County |  | Unclassifiable/Attainment.
Madison County |  | Unclassifiable/Attainment.
Maries County |  | Unclassifiable/Attainment.
Marion County |  | Unclassifiable/Attainment.
Mercer County |  | Unclassifiable/Attainment.
Miller County |  | Unclassifiable/Attainment.
Mississippi County |  | Unclassifiable/Attainment.
Moniteau County |  | Unclassifiable/Attainment.
Monroe County |  | Unclassifiable/Attainment.
Montgomery County |  | Unclassifiable/Attainment.
Morgan County |  | Unclassifiable/Attainment.
New Madrid County |  | Unclassifiable/Attainment.
Newton County |  | Unclassifiable/Attainment.
Oregon County |  | Unclassifiable/Attainment.
Osage County |  | Unclassifiable/Attainment.
Ozark County |  | Unclassifiable/Attainment.
Pemiscot County |  | Unclassifiable/Attainment.
Perry County |  | Unclassifiable/Attainment.
Pettis County |  | Unclassifiable/Attainment.
Phelps County |  | Unclassifiable/Attainment.
Pike County |  | Unclassifiable/Attainment.
Platte County |  | Unclassifiable/Attainment.
Polk County |  | Unclassifiable/Attainment.
Pulaski County |  | Unclassifiable/Attainment.
Putnam County |  | Unclassifiable/Attainment.
Ralls County |  | Unclassifiable/Attainment.
Randolph County |  | Unclassifiable/Attainment.
Ray County |  | Unclassifiable/Attainment.
Reynolds County |  | Unclassifiable/Attainment.
Ripley County |  | Unclassifiable/Attainment.
St. Clair County |  | Unclassifiable/Attainment.
St. Genevieve County |  | Unclassifiable/Attainment.
St. Francois County |  | Unclassifiable/Attainment.
Saline County |  | Unclassifiable/Attainment.
Schuyler County |  | Unclassifiable/Attainment.
Scotland County |  | Unclassifiable/Attainment.
Scott County |  | Unclassifiable/Attainment.
Shannon County |  | Unclassifiable/Attainment.
Shelby County |  | Unclassifiable/Attainment.
Stoddard County |  | Unclassifiable/Attainment.
Stone County |  | Unclassifiable/Attainment.
Sullivan County |  | Unclassifiable/Attainment.
Taney County |  | Unclassifiable/Attainment.
Texas County |  | Unclassifiable/Attainment.
Vernon County |  | Unclassifiable/Attainment.
Warren County |  | Unclassifiable/Attainment.
Washington County |  | Unclassifiable/Attainment.
Wayne County |  | Unclassifiable/Attainment.
Webster County |  | Unclassifiable/Attainment.
Worth County |  | Unclassifiable/Attainment.
Wright County |  | Unclassifiable/Attainment.
ᵃ Includes Indian Country located in each county or area, except as otherwise specified.
¹ This date is 90 days after January 5, 2005, unless otherwise noted.

28. In § 81.327, the table entitled “Montana—PM2.5” is added to the end of the section to read as follows:

§ 81.327 Montana.

* * * * *

Montana.—PM2.5
Designated area | Designation ᵃ: Date ¹ | Designation ᵃ: Type
Libby, MT:
Lincoln County (part) |  | Nonattainment.
The area bounded by lines from Universal Transverse Mercador Zone 11 (North American Datum 1983) coordinates beginning at 600,000mE, 5,370,000mN east to 620,000mE, 5370,000mN south to 620,000mE, 5340,000mN west to 600,000mE, 5,340,000mN north to 600,000mE, 5,370,000mN
Rest of State:
Beaverhead County |  | Unclassifiable/Attainment.
Big Horn County |  | Unclassifiable/Attainment.
Blaine County |  | Unclassifiable/Attainment.
Broadwater County |  | Unclassifiable/Attainment.
Carbon County |  | Unclassifiable/Attainment.
Carter County |  | Unclassifiable/Attainment.
Cascade County |  | Unclassifiable/Attainment.
Chouteau County |  | Unclassifiable/Attainment.
Custer County |  | Unclassifiable/Attainment.
Daniels County |  | Unclassifiable/Attainment.
Dawson County |  | Unclassifiable/Attainment.
Deer Lodge County |  | Unclassifiable/Attainment.
Fallon County |  | Unclassifiable/Attainment.
Fergus County |  | Unclassifiable/Attainment.
Flathead County |  | Unclassifiable/Attainment.
Gallatin County |  | Unclassifiable/Attainment.
Garfield County |  | Unclassifiable/Attainment.
Glacier County |  | Unclassifiable/Attainment.
Golden Valley County |  | Unclassifiable/Attainment.
Granite County |  | Unclassifiable/Attainment.
Hill County |  | Unclassifiable/Attainment.
Jefferson County |  | Unclassifiable/Attainment.
Judith Basin County |  | Unclassifiable/Attainment.
Lake County |  | Unclassifiable/Attainment.
Lewis and Clark County |  | Unclassifiable/Attainment.
Liberty County |  | Unclassifiable/Attainment.
Lincoln County (remainder) |  | Unclassifiable/Attainment.
McCone County |  | Unclassifiable/Attainment.
Madison County |  | Unclassifiable/Attainment.
Meagher County |  | Unclassifiable/Attainment.
Mineral County |  | Unclassifiable/Attainment.
Missoula County |  | Unclassifiable/Attainment.
Musselshell County |  | Unclassifiable/Attainment.
Park County |  | Unclassifiable/Attainment.
Petroleum County |  | Unclassifiable/Attainment.
Phillips County |  | Unclassifiable/Attainment.
Pondera County |  | Unclassifiable/Attainment.
Powder River County |  | Unclassifiable/Attainment.
Powell County |  | Unclassifiable/Attainment.
Prairie County |  | Unclassifiable/Attainment.
Ravalli County |  | Unclassifiable/Attainment.
Richland County |  | Unclassifiable/Attainment.
Roosevelt County |  | Unclassifiable/Attainment.
Rosebud County |  | Unclassifiable/Attainment.
Sanders County |  | Unclassifiable/Attainment.
Sheridan County |  | Unclassifiable/Attainment.
Silver Bow County |  | Unclassifiable/Attainment.
Stillwater County |  | Unclassifiable/Attainment.
Sweet Grass County |  | Unclassifiable/Attainment.
Teton County |  | Unclassifiable/Attainment.
Toole County |  | Unclassifiable/Attainment.
Treasure County |  | Unclassifiable/Attainment.
Valley County |  | Unclassifiable/Attainment.
Wheatland County |  | Unclassifiable/Attainment.
Wibaux County |  | Unclassifiable/Attainment.
Yellowstone County |  | Unclassifiable/Attainment.
ᵃ Includes Indian Country located in each county or area, except as otherwise specified.
¹ This date is 90 days after January 5, 2005, unless otherwise noted.

29. In § 81.328, the table entitled “Nebraska—PM2.5” is added to the end of the section to read as follows:

§ 81.328 Nebraska.

* * * * *

Nebraska.—PM2.5
Designated area | Designation ᵃ: Date ¹ | Designation ᵃ: Type
Statewide:
Adams County |  | Unclassifiable/Attainment.
Antelope County |  | Unclassifiable/Attainment.
Arthur County |  | Unclassifiable/Attainment.
Banner County |  | Unclassifiable/Attainment.
Blaine County |  | Unclassifiable/Attainment.
Boone County |  | Unclassifiable/Attainment.
Box Butte County |  | Unclassifiable/Attainment.
Boyd County |  | Unclassifiable/Attainment.
Brown County |  | Unclassifiable/Attainment.
Buffalo County |  | Unclassifiable/Attainment.
Burt County |  | Unclassifiable/Attainment.
Butler County |  | Unclassifiable/Attainment.
Cass County |  | Unclassifiable/Attainment.
Cedar County |  | Unclassifiable/Attainment.
Chase County |  | Unclassifiable/Attainment.
Cherry County |  | Unclassifiable/Attainment.
Cheyenne County |  | Unclassifiable/Attainment.
Clay County |  | Unclassifiable/Attainment.
Colfax County |  | Unclassifiable/Attainment.
Cuming County |  | Unclassifiable/Attainment.
Custer County |  | Unclassifiable/Attainment.
Dakota County |  | Unclassifiable/Attainment.
Dawes County |  | Unclassifiable/Attainment.
Dawson County |  | Unclassifiable/Attainment.
Deuel County |  | Unclassifiable/Attainment.
Dixon County |  | Unclassifiable/Attainment.
Dodge County |  | Unclassifiable/Attainment.
Douglas County |  | Unclassifiable/Attainment.
Dundy County |  | Unclassifiable/Attainment.
Fillmore County |  | Unclassifiable/Attainment.
Franklin County |  | Unclassifiable/Attainment.
Frontier County |  | Unclassifiable/Attainment.
Furnas County |  | Unclassifiable/Attainment.
Gage County |  | Unclassifiable/Attainment.
Garden County |  | Unclassifiable/Attainment.
Garfield County |  | Unclassifiable/Attainment.
Gosper County |  | Unclassifiable/Attainment.
Grant County |  | Unclassifiable/Attainment.
Greeley County |  | Unclassifiable/Attainment.
Hall County |  | Unclassifiable/Attainment.
Hamilton County |  | Unclassifiable/Attainment.
Harlan County |  | Unclassifiable/Attainment.
Hayes County |  | Unclassifiable/Attainment.
Hitchcock County |  | Unclassifiable/Attainment.
Holt County |  | Unclassifiable/Attainment.
Hooker County |  | Unclassifiable/Attainment.
Howard County |  | Unclassifiable/Attainment.
Jefferson County |  | Unclassifiable/Attainment.
Johnson County |  | Unclassifiable/Attainment.
Kearney County |  | Unclassifiable/Attainment.
Keith County |  | Unclassifiable/Attainment.
Keya Paha County |  | Unclassifiable/Attainment.
Kimball County |  | Unclassifiable/Attainment.
Knox County |  | Unclassifiable/Attainment.
Lancaster County |  | Unclassifiable/Attainment.
Lincoln County |  | Unclassifiable/Attainment.
Logan County |  | Unclassifiable/Attainment.
Loup County |  | Unclassifiable/Attainment.
McPherson County |  | Unclassifiable/Attainment.
Madison County |  | Unclassifiable/Attainment.
Merrick County |  | Unclassifiable/Attainment.
Morrill County |  | Unclassifiable/Attainment.
Nance County |  | Unclassifiable/Attainment.
Nemaha County |  | Unclassifiable/Attainment.
Nuckolls County |  | Unclassifiable/Attainment.
Otoe County |  | Unclassifiable/Attainment.
Pawnee County |  | Unclassifiable/Attainment.
Perkins County |  | Unclassifiable/Attainment.
Phelps County |  | Unclassifiable/Attainment.
Pierce County |  | Unclassifiable/Attainment.
Platte County |  | Unclassifiable/Attainment.
Polk County |  | Unclassifiable/Attainment.
Red Willow County |  | Unclassifiable/Attainment.
Richardson County |  | Unclassifiable/Attainment.
Rock County |  | Unclassifiable/Attainment.
Saline County |  | Unclassifiable/Attainment.
Sarpy County |  | Unclassifiable/Attainment.
Saunders County |  | Unclassifiable/Attainment.
Scotts Bluff County |  | Unclassifiable/Attainment.
Seward County |  | Unclassifiable/Attainment.
Sheridan County |  | Unclassifiable/Attainment.
Sherman County |  | Unclassifiable/Attainment.
Sioux County |  | Unclassifiable/Attainment.
Stanton County |  | Unclassifiable/Attainment.
Thayer County |  | Unclassifiable/Attainment.
Thomas County |  | Unclassifiable/Attainment.
Thurston County |  | Unclassifiable/Attainment.
Valley County |  | Unclassifiable/Attainment.
Washington County |  | Unclassifiable/Attainment.
Wayne County |  | Unclassifiable/Attainment.
Webster County |  | Unclassifiable/Attainment.
Wheeler County |  | Unclassifiable/Attainment.
York County |  | Unclassifiable/Attainment.
ᵃ Includes Indian Country located in each county or area, except as otherwise specified.
¹ This date is 90 days after January 5, 2005, unless otherwise noted.

30. In § 81.329, the table entitled “Nevada.—PM2.5” is added to the end of the section to read as follows:

§ 81.329 Nevada.

* * * * *

Nevada.—PM2.5
Designated area | Designation ᵃ: Date ¹ | Designation ᵃ: Type
Statewide ² |  | Unclassifiable/Attainment.
ᵃ Includes Indian Country located in each county or area, except as otherwise specified.
¹ This date is 90 days after January 5, 2005, unless otherwise noted.
² Statewide refers to hydrographic areas as shown on the State of Nevada Division of Water Resources' map titled “Water Resources and Inter-basin Flows” (September 1971), as revised to include a division of Carson Desert (area 101) into two areas, a smaller area 101 and area 101A, and a division of Boulder Flat (area 61) into an Upper Unit 61 and a Lower Unit 61. See also 67 FR 12474 (March 19, 2002).

31. In § 81.330, the table entitled “New Hampshire.—PM2.5” is added to the end of the section to read as follows:

§ 81.330 New Hampshire.

* * * * *

New Hampshire.—PM2.5
Designated area | Designation ᵃ: Date ¹ | Designation ᵃ: Type
Statewide:
Belknap County |  | Unclassifiable/Attainment.
Carroll County |  | Unclassifiable/Attainment.
Cheshire County |  | Unclassifiable/Attainment.
Coos County |  | Unclassifiable/Attainment.
Grafton County |  | Unclassifiable/Attainment.
Hillsborough County |  | Unclassifiable/Attainment.
Merrimack County |  | Unclassifiable/Attainment.
Rockingham County |  | Unclassifiable/Attainment.
Strafford County |  | Unclassifiable/Attainment.
Sullivan County |  | Unclassifiable/Attainment.
ᵃ Includes Indian Country located in each county or area, except as otherwise specified.
¹ This date is 90 days after January 5, 2005, unless otherwise noted.

32. In § 81.331, the table entitled “New Jersey.—PM2.5” is added to the end of the section to read as follows:

§ 81.331 New Jersey.

* * * * *

New Jersey.—PM2.5
Designated area | Designation ᵃ: Date ¹ | Designation ᵃ: Type
New York-N. New Jersey-Long Island, NY-NJ-CT:
Bergen County |  | Nonattainment.
Essex County |  | Nonattainment.
Hudson County |  | Nonattainment.
Mercer County |  | Nonattainment.
Middlesex County |  | Nonattainment.
Monmouth County |  | Nonattainment.
Morris County |  | Nonattainment.
Passaic County |  | Nonattainment.
Somerset County |  | Nonattainment.
Union County |  | Nonattainment.
Philadelphia-Wilmington, PA-NJ-DE:
Burlington County |  | Nonattainment.
Camden County |  | Nonattainment.
Gloucester County |  | Nonattainment.
New York-N. New Jersey-Long Island, NY-NJ-CT:
Hunterdon County |  | Unclassifiable/Attainment.
Sussex County |  | Unclassifiable/Attainment.
Warren County |  | Unclassifiable/Attainment.
Atlantic City, NJ:
Atlantic County |  | Unclassifiable/Attainment.
Cape May County |  | Unclassifiable/Attainment.
Cumberland County |  | Unclassifiable/Attainment.
Ocean County |  | Unclassifiable/Attainment.
Salem County |  | Unclassifiable/Attainment.
ᵃ Includes Indian Country located in each county or area, except as otherwise specified.
¹ This date is 90 days after January 5, 2005, unless otherwise noted.

33. In § 81.332, the table entitled “New Mexico.—PM25” is added to the end of the section to read as follows:

§ 81.332 New Mexico.

* * * * *

New Mexico.—PM2.5
Designated area | Designation ᵃ: Date ¹ | Designation ᵃ: Type
AQCR 012 New Mexico-Southern Border Intrastate:
Grant County |  | Unclassifiable/Attainment.
Hidalgo County |  | Unclassifiable/Attainment.
Luna County |  | Unclassifiable/Attainment.
AQCR 014 Four Corners Interstate (see 40 CFR 81.121):
McKinley County (part) |  | Unclassifiable/Attainment.
Río Arriba County (part) |  | Unclassifiable/Attainment.
Sandoval County (part) |  | Unclassifiable/Attainment.
San Juan County |  | Unclassifiable/Attainment.
Valencia County (part) |  | Unclassifiable/Attainment.
AQCR 152 Albuquerque-Mid Rio Grande Intrastate:
Bernalillo County |  | Unclassifiable/Attainment.
Sandoval County (part) see 40 CFR 81.83 |  | Unclassifiable/Attainment.
Valencia County (part) see 40 CFR 81.83 |  | Unclassifiable/Attainment.
AQCR 153 El Paso-Las Cruces-Alamogordo:
Doña Ana County (part) |  | Unclassifiable/Attainment.
(Sunland Park Area) The area bounded by the New Mexico-Texas State line on the east, New Mexico-Mexico international line on the south, the range 3E-Range 2E line on the west, and the N3200 latitude line on the north.
Doña Ana County (remainder) |  | Unclassifiable/Attainment.
Lincoln County |  | Unclassifiable/Attainment.
Otero County |  | Unclassifiable/Attainment.
Sierra County |  | Unclassifiable/Attainment.
AQCR 154 Northeastern Plains Intrastate:
Colfax County |  | Unclassifiable/Attainment.
Guadalupe County |  | Unclassifiable/Attainment.
Harding County |  | Unclassifiable/Attainment.
Mora County |  | Unclassifiable/Attainment.
San Miguel County |  | Unclassifiable/Attainment.
Torrance County |  | Unclassifiable/Attainment.
Union County |  | Unclassifiable/Attainment.
AQCR 155 Pecos-Permian Basin Intrastate:
Chaves County |  | Unclassifiable/Attainment.
Curry County |  | Unclassifiable/Attainment.
De Baca County |  | Unclassifiable/Attainment.
Eddy County |  | Unclassifiable/Attainment.
Lea County |  | Unclassifiable/Attainment.
Quay County |  | Unclassifiable/Attainment.
Roosevelt County |  | Unclassifiable/Attainment.
AQCR 156 SW Mountains-Augustine Plains:
Catron County |  | Unclassifiable/Attainment.
Cibola County |  | Unclassifiable/Attainment.
McKinley County (part) see 40 CFR 81.241 |  | Unclassifiable/Attainment.
Socorro County |  | Unclassifiable/Attainment.
Valencia County (part) see 40 CFR 81.241 |  | Unclassifiable/Attainment.
AQCR 157 Upper Rio Grande Valley Intrastate:
Los Alamos County |  | Unclassifiable/Attainment.
Río Arriba County (part) see 40 CFR 81.239 |  | Unclassifiable/Attainment.
Santa Fe County |  | Unclassifiable/Attainment.
Taos County |  | Unclassifiable/Attainment.
ᵃ Includes Indian Country located in each county or area, except as otherwise specified.
¹ This date is 90 days after January 5, 2005, unless otherwise noted.

34. In § 81.333, the table entitled “New York.—PM2.5” is added to the end of the section to read as follows:

§ 81.333 New York.

* * * * *

New York.—PM2.5
Designated area | Designation ᵃ: Date ¹ | Designation ᵃ: Type
New York-N. New Jersey-Long Island, NY-NJ-CT:
Bronx County |  | Nonattainment.
Kings County |  | Nonattainment.
Nassau County |  | Nonattainment.
New York County |  | Nonattainment.
Orange County |  | Nonattainment.
Queens County |  | Nonattainment.
Richmond County |  | Nonattainment.
Rockland County |  | Nonattainment.
Suffolk County |  | Nonattainment.
Westchester County |  | Nonattainment.
AQCR 158 Central New York Intrastate (remainder of):
Cortland County |  | Unclassifiable/Attainment.
Herkimer County |  | Unclassifiable/Attainment.
Lewis County |  | Unclassifiable/Attainment.
Oneida County |  | Unclassifiable/Attainment.
AQCR 159 Champlain Valley Interstate (remainder of):
Clinton County |  | Unclassifiable/Attainment.
Franklin County |  | Unclassifiable/Attainment.
Hamilton County |  | Unclassifiable/Attainment.
St. Lawrence County |  | Unclassifiable/Attainment.
Warren County |  | Unclassifiable/Attainment.
Washington County |  | Unclassifiable/Attainment.
AQCR 160 Finger Lake Intrastate:
Seneca County |  | Unclassifiable/Attainment.
Wyoming County |  | Unclassifiable/Attainment.
Yates County |  | Unclassifiable/Attainment.
AQCR 161 Hudson Valley Intrastate (remainder of):
Columbia County |  | Unclassifiable/Attainment.
Fulton County |  | Unclassifiable/Attainment.
Ulster County |  | Unclassifiable/Attainment.
AQCR 163 Southern Tier East Intrastate:
Broome County |  | Unclassifiable/Attainment.
Chenango County |  | Unclassifiable/Attainment.
Delaware County |  | Unclassifiable/Attainment.
Otsego County |  | Unclassifiable/Attainment.
Sullivan County |  | Unclassifiable/Attainment.
Tioga County |  | Unclassifiable/Attainment.
AQCR 164 Southern Tier West Intrastate:
Allegany County |  | Unclassifiable/Attainment.
Cattaraugus County |  | Unclassifiable/Attainment.
Chemung County |  | Unclassifiable/Attainment.
Schuyler County |  | Unclassifiable/Attainment.
Steuben County |  | Unclassifiable/Attainment.
Tompkins County |  | Unclassifiable/Attainment.
Albany-Schenectady-Troy, NY:
Albany County |  | Unclassifiable/Attainment.
Greene County |  | Unclassifiable/Attainment.
Montgomery County |  | Unclassifiable/Attainment.
Rensselaer County |  | Unclassifiable/Attainment.
Saratoga County |  | Unclassifiable/Attainment.
Schenectady County |  | Unclassifiable/Attainment.
Schoharie County |  | Unclassifiable/Attainment.
Buffalo-Niagara Falls, NY:
Erie County |  | Unclassifiable/Attainment.
Niagara County |  | Unclassifiable/Attainment.
Essex County, NY:
Essex County |  | Unclassifiable/Attainment.
Jamestown, NY:
Chautauqua County |  | Unclassifiable/Attainment.
Jefferson County, NY:
Jefferson County |  | Unclassifiable/Attainment.
Poughkeepsie, NY:
Dutchess County |  | Unclassifiable/Attainment.
Putnam County |  | Unclassifiable/Attainment.
Rochester, NY:
Genesee County |  | Unclassifiable/Attainment.
Livingston County |  | Unclassifiable/Attainment.
Monroe County |  | Unclassifiable/Attainment.
Ontario County |  | Unclassifiable/Attainment.
Orleans County |  | Unclassifiable/Attainment.
Wayne County |  | Unclassifiable/Attainment.
Syracuse, NY:
Cayuga County |  | Unclassifiable/Attainment.
Madison County |  | Unclassifiable/Attainment.
Onondaga County |  | Unclassifiable/Attainment.
Oswego County |  | Unclassifiable/Attainment.
ᵃ Includes Indian Country located in each county or area, except as otherwise specified.
¹ This date is 90 days after January 5, 2005, unless otherwise noted.

35. In § 81334, the table entitled “North Carolina.—PM25” is added to the end of the section to read as follows:

§ 81.334 North Carolina.

* * * * *

North Carolina.—PM2.5
Designated area | Designation ᵃ: Date ¹ | Designation ᵃ: Type
Greensboro-Winston Salem-High Point, NC:
Davidson County |  | Nonattainment.
Guilford County |  | Nonattainment.
Hickory-Morganton-Lenoir, NC:
Catawba County |  | Nonattainment.
Rest of State:
Alamance County |  | Unclassifiable/Attainment.
Alexander County |  | Unclassifiable/Attainment.
Alleghany County |  | Unclassifiable/Attainment.
Anson County |  | Unclassifiable/Attainment.
Ashe County |  | Unclassifiable/Attainment.
Avery County |  | Unclassifiable/Attainment.
Beaufort County |  | Unclassifiable/Attainment.
Bertie County |  | Unclassifiable/Attainment.
Bladen County |  | Unclassifiable/Attainment.
Brunswick County |  | Unclassifiable/Attainment.
Buncombe County |  | Unclassifiable/Attainment.
Burke County |  | Unclassifiable/Attainment.
Cabarrus County |  | Unclassifiable/Attainment.
Caldwell County |  | Unclassifiable/Attainment.
Camden County |  | Unclassifiable/Attainment.
Carteret County |  | Unclassifiable/Attainment.
Caswell County |  | Unclassifiable/Attainment.
Chatham County |  | Unclassifiable/Attainment.
Cherokee County |  | Unclassifiable/Attainment.
Chowan County |  | Unclassifiable/Attainment.
Clay County |  | Unclassifiable/Attainment.
Cleveland County |  | Unclassifiable/Attainment.
Columbus County |  | Unclassifiable/Attainment.
Craven County |  | Unclassifiable/Attainment.
Cumberland County |  | Unclassifiable/Attainment.
Currituck County |  | Unclassifiable/Attainment.
Dare County |  | Unclassifiable/Attainment.
Davie County |  | Unclassifiable/Attainment.
Duplin County |  | Unclassifiable/Attainment.
Durham County |  | Unclassifiable/Attainment.
Edgecombe County |  | Unclassifiable/Attainment.
Forsyth County |  | Unclassifiable/Attainment.
Franklin County |  | Unclassifiable/Attainment.
Gaston County |  | Unclassifiable/Attainment.
Gates County |  | Unclassifiable/Attainment.
Graham County |  | Unclassifiable/Attainment.
Granville County |  | Unclassifiable/Attainment.
Greene County |  | Unclassifiable/Attainment.
Halifax County |  | Unclassifiable/Attainment.
Harnett County |  | Unclassifiable/Attainment.
Haywood County |  | Unclassifiable/Attainment.
Henderson County |  | Unclassifiable/Attainment.
Hertford County |  | Unclassifiable/Attainment.
Hoke County |  | Unclassifiable/Attainment.
Hyde County |  | Unclassifiable/Attainment.
Iredell County |  | Unclassifiable/Attainment.
Jackson County |  | Unclassifiable/Attainment.
Johnston County |  | Unclassifiable/Attainment.
Jones County |  | Unclassifiable/Attainment.
Lee County |  | Unclassifiable/Attainment.
Lenoir County |  | Unclassifiable/Attainment.
Lincoln County |  | Unclassifiable/Attainment.
McDowell County |  | Unclassifiable/Attainment.
Macon County |  | Unclassifiable/Attainment.
Madison County |  | Unclassifiable/Attainment.
Martin County |  | Unclassifiable/Attainment.
Mecklenburg County |  | Unclassifiable/Attainment.
Mitchell County |  | Unclassifiable/Attainment.
Montgomery County |  | Unclassifiable/Attainment.
Moore County |  | Unclassifiable/Attainment.
Nash County |  | Unclassifiable/Attainment.
New Hanover County |  | Unclassifiable/Attainment.
Northampton County |  | Unclassifiable/Attainment.
Onslow County |  | Unclassifiable/Attainment.
Orange County |  | Unclassifiable/Attainment.
Pamlico County |  | Unclassifiable/Attainment.
Pasquotank County |  | Unclassifiable/Attainment.
Pender County |  | Unclassifiable/Attainment.
Perquimans County |  | Unclassifiable/Attainment.
Person County |  | Unclassifiable/Attainment.
Pitt County |  | Unclassifiable/Attainment.
Polk County |  | Unclassifiable/Attainment.
Randolph County |  | Unclassifiable/Attainment.
Richmond County |  | Unclassifiable/Attainment.
Robeson County |  | Unclassifiable/Attainment.
Rockingham County |  | Unclassifiable/Attainment.
Rowan County |  | Unclassifiable/Attainment.
Rutherford County |  | Unclassifiable/Attainment.
Sampson County |  | Unclassifiable/Attainment.
Scotland County |  | Unclassifiable/Attainment.
Stanly County |  | Unclassifiable/Attainment.
Stokes County |  | Unclassifiable/Attainment.
Surry County |  | Unclassifiable/Attainment.
Swain County |  | Unclassifiable/Attainment.
Transylvania County |  | Unclassifiable/Attainment.
Tyrrell County |  | Unclassifiable/Attainment.
Union County |  | Unclassifiable/Attainment.
Vance County |  | Unclassifiable/Attainment.
Wake County |  | Unclassifiable/Attainment.
Warren County |  | Unclassifiable/Attainment.
Washington County |  | Unclassifiable/Attainment.
Watauga County |  | Unclassifiable/Attainment.
Wayne County |  | Unclassifiable/Attainment.
Wilkes County |  | Unclassifiable/Attainment.
Wilson County |  | Unclassifiable/Attainment.
Yadkin County |  | Unclassifiable/Attainment.
Yancey County |  | Unclassifiable/Attainment.
ᵃ Includes Indian Country located in each county or area, except as otherwise specified.
¹ This date is 90 days after January 5, 2005, unless otherwise noted.

36. In § 81.335, the table entitled “North Dakota.—PM2.5” is added to the end of the section to read as follows:

§ 81.335 North Dakota

* * * * *

North Dakota.—PM2.5
Designated area | Designation ᵃ: Date ¹ | Designation ᵃ: Type
AQCR 130 Metropolitan Fargo-Moorhead Interstate:
Cass County |  | Unclassifiable/Attainment.
Rest of State, AQCR 172:
Adams County |  | Unclassifiable/Attainment.
Barnes County |  | Unclassifiable/Attainment.
Benson County |  | Unclassifiable/Attainment.
Billings County |  | Unclassifiable/Attainment.
Bottineau County |  | Unclassifiable/Attainment.
Bowman County |  | Unclassifiable/Attainment.
Burke County |  | Unclassifiable/Attainment.
Burleigh County |  | Unclassifiable/Attainment.
Cavalier County |  | Unclassifiable/Attainment.
Dickey County |  | Unclassifiable/Attainment.
Divide County |  | Unclassifiable/Attainment.
Dunn County |  | Unclassifiable/Attainment.
Eddy County |  | Unclassifiable/Attainment.
Emmons County |  | Unclassifiable/Attainment.
Foster County |  | Unclassifiable/Attainment.
Golden Valley County |  | Unclassifiable/Attainment.
Grand Forks County |  | Unclassifiable/Attainment.
Grant County |  | Unclassifiable/Attainment.
Griggs County |  | Unclassifiable/Attainment.
Hettinger County |  | Unclassifiable/Attainment.
Kidder County |  | Unclassifiable/Attainment.
LaMoure County |  | Unclassifiable/Attainment.
Logan County |  | Unclassifiable/Attainment.
McHenry County |  | Unclassifiable/Attainment.
McIntosh County |  | Unclassifiable/Attainment.
McKenzie County |  | Unclassifiable/Attainment.
McLean County |  | Unclassifiable/Attainment.
Mercer County |  | Unclassifiable/Attainment.
Morton County |  | Unclassifiable/Attainment.
Mountrail County |  | Unclassifiable/Attainment.
Nelson County |  | Unclassifiable/Attainment.
Oliver County |  | Unclassifiable/Attainment.
Pembina County |  | Unclassifiable/Attainment.
Pierce County |  | Unclassifiable/Attainment.
Ramsey County |  | Unclassifiable/Attainment.
Ransom County |  | Unclassifiable/Attainment.
Renville County |  | Unclassifiable/Attainment.
Richland County |  | Unclassifiable/Attainment.
Rolette County |  | Unclassifiable/Attainment.
Sargent County |  | Unclassifiable/Attainment.
Sheridan County |  | Unclassifiable/Attainment.
Sioux County |  | Unclassifiable/Attainment.
Slope County |  | Unclassifiable/Attainment.
Stark County |  | Unclassifiable/Attainment.
Steele County |  | Unclassifiable/Attainment.
Stutsman County |  | Unclassifiable/Attainment.
Towner County |  | Unclassifiable/Attainment.
Traill County |  | Unclassifiable/Attainment.
Walsh County |  | Unclassifiable/Attainment.
Ward County |  | Unclassifiable/Attainment.
Wells County |  | Unclassifiable/Attainment.
Williams County |  | Unclassifiable/Attainment.
ᵃ Includes Indian Country located in each county or area, except as otherwise specified.
¹ This date is 90 days after January 5, 2005, unless otherwise noted.

37. In § 81.336, the table entitled “Ohio.—PM2.5” is added to the end of the section to read as follows:

§ 81.336 Ohio.

* * * * *

Ohio.—PM2.5
Designated area | Designation ᵃ: Date ¹ | Designation ᵃ: Type
Canton-Massillon, OH:
Stark County |  | Nonattainment.
Cincinnati-Hamilton, OH-KY-IN:
Butler County |  | Nonattainment.
Clermont County |  | Nonattainment.
Hamilton County |  | Nonattainment.
Warren County |  | Nonattainment.
Cleveland-Akron-Lorain, OH:
Ashtabula County (part) |  | Nonattainment.
Ashtabula Township |  |
Cuyahoga County |  | Nonattainment.
Lake County |  | Nonattainment.
Lorain County |  | Nonattainment.
Medina County |  | Nonattainment.
Portage County |  | Nonattainment.
Summit County |  | Nonattainment.
Columbus, OH:
Coshocton County (part) |  | Nonattainment.
Franklin Township |  |
Delaware County |  | Nonattainment.
Fairfield County |  | Nonattainment.
Franklin County |  | Nonattainment.
Licking County |  | Nonattainment.
Dayton-Springfield, OH:
Clark County |  | Nonattainment.
Greene County |  | Nonattainment.
Montgomery County |  | Nonattainment.
Huntington-Ashland, WV-KY-OH:
Adams County (part) |  | Nonattainment.
Monroe Township, Sprigg Township |  |
Gallia County (part) |  | Nonattainment.
Addison Township, Cheshire Township |  |
Lawrence County |  | Nonattainment.
Scioto County |  | Nonattainment.
Parkersburg-Marietta, WV-OH:
Washington County |  | Nonattainment.
Steubenville-Weirton, OH-WV:
Jefferson County |  | Nonattainment.
Toledo, OH:
Lucas County |  | Nonattainment.
Wood County |  | Nonattainment.
Wheeling, WV-OH:
Belmont County |  | Nonattainment.
Youngstown-Warren-Sharon, OH-PA:
Columbiana County |  | Nonattainment.
Mahoning County |  | Nonattainment.
Trumbull County |  | Nonattainment.
Rest of State:
Adams County (remainder) |  | Unclassifiable/Attainment.
Allen County |  | Unclassifiable/Attainment.
Ashland County |  | Unclassifiable/Attainment.
Ashtabula County (remainder) |  | Unclassifiable/Attainment.
Athens County |  | Unclassifiable/Attainment.
Auglaize County |  | Unclassifiable/Attainment.
Brown County |  | Unclassifiable/Attainment.
Carroll County |  | Unclassifiable/Attainment.
Champaign County |  | Unclassifiable/Attainment.
Clinton County |  | Unclassifiable/Attainment.
Coshocton County (remainder) |  | Unclassifiable/Attainment.
Crawford County |  | Unclassifiable/Attainment.
Darke County |  | Unclassifiable/Attainment.
Defiance County |  | Unclassifiable/Attainment.
Erie County |  | Unclassifiable/Attainment.
Fayette County |  | Unclassifiable/Attainment.
Fulton County |  | Unclassifiable/Attainment.
Gallia County (remainder) |  | Unclassifiable/Attainment.
Geauga County |  | Unclassifiable/Attainment.
Guernsey County |  | Unclassifiable/Attainment.
Hancock County |  | Unclassifiable/Attainment.
Hardin County |  | Unclassifiable/Attainment.
Harrison County |  | Unclassifiable/Attainment.
Henry County |  | Unclassifiable/Attainment.
Highland County |  | Unclassifiable/Attainment.
Hocking County |  | Unclassifiable/Attainment.
Holmes County |  | Unclassifiable/Attainment.
Huron County |  | Unclassifiable/Attainment.
Jackson County |  | Unclassifiable/Attainment.
Knox County |  | Unclassifiable/Attainment.
Logan County |  | Unclassifiable/Attainment.
Madison County |  | Unclassifiable/Attainment.
Marion County |  | Unclassifiable/Attainment.
Meigs County |  | Unclassifiable/Attainment.
Mercer County |  | Unclassifiable/Attainment.
Miami County |  | Unclassifiable/Attainment.
Monroe County |  | Unclassifiable/Attainment.
Morgan County |  | Unclassifiable/Attainment.
Morrow County |  | Unclassifiable/Attainment.
Muskingum County |  | Unclassifiable/Attainment.
Noble County |  | Unclassifiable/Attainment.
Ottawa County |  | Unclassifiable/Attainment.
Paulding County |  | Unclassifiable/Attainment.
Perry County |  | Unclassifiable/Attainment.
Pickaway County |  | Unclassifiable/Attainment.
Pike County |  | Unclassifiable/Attainment.
Preble County |  | Unclassifiable/Attainment.
Putnam County |  | Unclassifiable/Attainment.
Richland County |  | Unclassifiable/Attainment.
Ross County |  | Unclassifiable/Attainment.
Sandusky County |  | Unclassifiable/Attainment.
Seneca County |  | Unclassifiable/Attainment.
Shelby County |  | Unclassifiable/Attainment.
Tuscarawas County |  | Unclassifiable/Attainment.
Union County |  | Unclassifiable/Attainment.
Van Wert County |  | Unclassifiable/Attainment.
Vinton County |  | Unclassifiable/Attainment.
Wayne County |  | Unclassifiable/Attainment.
Williams County |  | Unclassifiable/Attainment.
Wyandot County |  | Unclassifiable/Attainment.
ᵃ Includes Indian Country located in each county or area, except as otherwise specified.
¹ This date is 90 days after January 5, 2005, unless otherwise noted.

38. In § 81.337, the table entitled “Oklahoma—PM2.5” is added to the end of the section to read as follows:

§ 81.337 Oklahoma.

* * * * *

Oklahoma.—PM2.5
Designated area | Designation ᵃ: Date ¹ | Designation ᵃ: Type
AQCR 017 Metropolitan Fort Smith Interstate:
Adair County |  | Unclassifiable/Attainment.
Cherokee County |  | Unclassifiable/Attainment.
Le Flore County |  | Unclassifiable/Attainment.
Sequoyah County |  | Unclassifiable/Attainment.
AQCR 022 Shreveport-Texarkana-Tyler Intrastate:
McCurtain County |  | Unclassifiable/Attainment.
AQCR 184 Central Oklahoma Intrastate (part):
Cleveland County |  | Unclassifiable/Attainment.
Oklahoma County |  | Unclassifiable/Attainment.
AQCR 184 Central Oklahoma Intrastate (remainder of):
Canadian County |  | Unclassifiable/Attainment.
Grady County |  | Unclassifiable/Attainment.
Kingfisher County |  | Unclassifiable/Attainment.
Lincoln County |  | Unclassifiable/Attainment.
Logan County |  | Unclassifiable/Attainment.
McClain County |  | Unclassifiable/Attainment.
Pottawatomie County |  | Unclassifiable/Attainment.
AQCR 185 North Central Oklahoma Intrastate: |  |
Garfield County |  | Unclassifiable/Attainment.
Grant County |  | Unclassifiable/Attainment.
Kay County |  | Unclassifiable/Attainment.
Noble County |  | Unclassifiable/Attainment.
Payne County |  | Unclassifiable/Attainment.
AQCR 186 Northeastern Oklahoma Intrastate:
Craig County |  | Unclassifiable/Attainment.
Creek County |  | Unclassifiable/Attainment.
Delaware County |  | Unclassifiable/Attainment.
Mayes County |  | Unclassifiable/Attainment.
Muskogee County |  | Unclassifiable/Attainment.
Nowata County |  | Unclassifiable/Attainment.
Okmulgee County |  | Unclassifiable/Attainment.
Osage County |  | Unclassifiable/Attainment.
Ottawa County |  | Unclassifiable/Attainment.
Pawnee County |  | Unclassifiable/Attainment.
Rogers County |  | Unclassifiable/Attainment.
Tulsa County |  | Unclassifiable/Attainment.
Wagoner County |  | Unclassifiable/Attainment.
Washington County |  | Unclassifiable/Attainment.
AQCR 187 Northwestern Oklahoma Intrastate: |  |
Alfalfa County |  | Unclassifiable/Attainment.
Beaver County |  | Unclassifiable/Attainment.
Blaine County |  | Unclassifiable/Attainment.
Cimarron County |  | Unclassifiable/Attainment.
Custer County |  | Unclassifiable/Attainment.
Dewey County |  | Unclassifiable/Attainment.
Ellis County |  | Unclassifiable/Attainment.
Harper County |  | Unclassifiable/Attainment.
Major County |  | Unclassifiable/Attainment.
Roger Mills County |  | Unclassifiable/Attainment.
Texas County |  | Unclassifiable/Attainment.
Woods County |  | Unclassifiable/Attainment.
Woodward County |  | Unclassifiable/Attainment.
AQCR 188 Southeastern Oklahoma Intrastate:
Atoka County |  | Unclassifiable/Attainment.
Bryan County |  | Unclassifiable/Attainment.
Carter County |  | Unclassifiable/Attainment.
Choctaw County |  | Unclassifiable/Attainment.
Coal County |  | Unclassifiable/Attainment.
Garvin County |  | Unclassifiable/Attainment.
Haskell County |  | Unclassifiable/Attainment.
Hughes County |  | Unclassifiable/Attainment.
Johnston County |  | Unclassifiable/Attainment.
Latimer County |  | Unclassifiable/Attainment.
Love County |  | Unclassifiable/Attainment.
McIntosh County |  | Unclassifiable/Attainment.
Marshall County |  | Unclassifiable/Attainment.
Murray County |  | Unclassifiable/Attainment.
Okfuskee County |  | Unclassifiable/Attainment.
Pittsburg County |  | Unclassifiable/Attainment.
Pontotoc County |  | Unclassifiable/Attainment.
Pushmataha County |  | Unclassifiable/Attainment.
Seminole County |  | Unclassifiable/Attainment.
AQCR 189 Southwestern Oklahoma Intrastate:
Beckham County |  | Unclassifiable/Attainment.
Caddo County |  | Unclassifiable/Attainment.
Comanche County |  | Unclassifiable/Attainment.
Cotton County |  | Unclassifiable/Attainment.
Greer County |  | Unclassifiable/Attainment.
Harmon County |  | Unclassifiable/Attainment.
Jackson County |  | Unclassifiable/Attainment.
Jefferson County |  | Unclassifiable/Attainment.
Kiowa County |  | Unclassifiable/Attainment.
Stephens County |  | Unclassifiable/Attainment.
Tillman County |  | Unclassifiable/Attainment.
Washita County |  | Unclassifiable/Attainment.
ᵃ Includes Indian Country located in each county or area, except as otherwise specified.
¹ This date is 90 days after January 5, 2005, unless otherwise noted.

39. In § 81.338, the table entitled “Oregon.—PM2.5” is added to the end of the section to read as follows:

§ 81.338 Oregon.

* * * * *

Oregon.—PM2.5
Designated area | Designation ᵃ: Date ¹ | Designation ᵃ: Type
Portland-Vancouver AQMA:
(Air Quality Maintenance Area)
Clackamas County (part) |  | Unclassifiable/Attainment.
Multnomah County (part) |  | Unclassifiable/Attainment.
Washington County (part) |  | Unclassifiable/Attainment.
Salem Area:
(Salem Area Transportation Study):
Marion County (part) |  | Unclassifiable/Attainment.
Polk County |  | Unclassifiable/Attainment.
AQCR 190 Central Oregon Intrastate (remainder of):
Crook County |  | Unclassifiable/Attainment.
Deschutes County |  | Unclassifiable/Attainment.
Hood River County |  | Unclassifiable/Attainment.
Jefferson County |  | Unclassifiable/Attainment.
Klamath County |  | Unclassifiable/Attainment.
Lake County |  | Unclassifiable/Attainment.
Sherman County |  | Unclassifiable/Attainment.
Wasco County |  | Unclassifiable/Attainment.
AQCR 191 Eastern Oregon Intrastate:
Baker County |  | Unclassifiable/Attainment.
Gilliam County |  | Unclassifiable/Attainment.
Grant County |  | Unclassifiable/Attainment.
Harney County |  | Unclassifiable/Attainment.
Malheur County |  | Unclassifiable/Attainment.
Morrow County |  | Unclassifiable/Attainment.
Umatilla County |  | Unclassifiable/Attainment.
Union County |  | Unclassifiable/Attainment.
Wallowa County |  | Unclassifiable/Attainment.
Wheeler County |  | Unclassifiable/Attainment.
AQCR 192 Northwest Oregon Intrastate:
Clatsop County |  | Unclassifiable/Attainment.
Lincoln County |  | Unclassifiable/Attainment.
Tillamook County |  | Unclassifiable/Attainment.
AQCR 193 Portland Interstate (part):
Lane County (part) |  | Unclassifiable/Attainment.
Eugene Springfield Air Quality Maintenance Area
AQCR 193 Portland Interstate (remainder of):
Benton County |  | Unclassifiable/Attainment.
Clackamas County (remainder) |  | Unclassifiable/Attainment.
Columbia County |  | Unclassifiable/Attainment.
Lane County (remainder) |  | Unclassifiable/Attainment.
Linn County |  | Unclassifiable/Attainment.
Marion County (part) |  | Unclassifiable/Attainment.
The area outside the Salem Area Transportation Study
Multnomah County (remainder) |  | Unclassifiable/Attainment.
Polk County (part) |  | Unclassifiable/Attainment.
The area outside the Salem Area Transportation Study
Washington County (remainder) |  | Unclassifiable/Attainment.
Yamhill County |  | Unclassifiable/Attainment.
AQCR 194 Southwest Oregon Intrastate (part):
Jackson County (part) |  | Unclassifiable/Attainment.
Medford-Ashland Air Quality Maintenance Area
AQCR 194 Southwest Oregon Intrastate (remainder of):
Coos County |  | Unclassifiable/Attainment.
Curry County |  | Unclassifiable/Attainment.
Douglas County |  | Unclassifiable/Attainment.
Jackson County (remainder) |  | Unclassifiable/Attainment.
Josephine County |  | Unclassifiable/Attainment.
ᵃ Includes Indian Country located in each county or area, except as otherwise specified.
¹ This date is 90 days after January 5, 2005, unless otherwise noted.

40. In § 81.339, the table entitled “Pennsylvania.—PM2.5” is added to the end of the section to read as follows:

§ 81339 Pennsylvania.

* * * * *

Pennsylvania.—PM2.5
Designated area | Designation ᵃ: Date ¹ | Designation ᵃ: Type
Harrisburg-Lebanon-Carlisle, PA:
Cumberland County |  | Nonattainment.
Dauphin County |  | Nonattainment.
Lebanon County |  | Nonattainment.
Johnstown, PA:
Cambria County |  | Nonattainment.
Indiana County (part) |  | Nonattainment.
Townships of West Wheatfield, Center, East Wheatfield, and Armagh Borough and Homer City Borough
Lancaster, PA:
Lancaster County |  | Nonattainment.
Liberty-Clairton, PA:
Allegheny County (part) |  | Nonattainment.
Lincoln Borough, Clairton City, Glassport Borough, Liberty Borough, Port Vue Borough
Philadelphia-Wilmington, PA-NJ-DE:
Bucks County |  | Nonattainment.
Chester County |  | Nonattainment.
Delaware County |  | Nonattainment.
Montgomery County |  | Nonattainment.
Philadelphia County |  | Nonattainment.
Pittsburgh-Beaver Valley, PA:
Allegheny County (remainder) |  | Nonattainment.
Armstrong County (part) |  | Nonattainment.
Elderton Borough and Plumcreek and Washington Townships
Beaver County |  | Nonattainment.
Butler County |  | Nonattainment.
Greene County (part) |  | Nonattainment.
Monongahela Township
Lawrence County (part) |  | Nonattainment.
Township of Taylor south of New Castle City
Washington County |  | Nonattainment.
Westmoreland County |  | Nonattainment.
Reading, PA:
Berks County |  | Nonattainment.
York, PA:
York County |  | Nonattainment.
Youngstown-Warren-Sharon, OH-PA:
Mercer County |  | Nonattainment.
AQCR 151 Northeast Pennsylvania-Upper Delaware Valley Interstate:
Bradford County |  | Unclassifiable/Attainment.
Carbon County |  | Unclassifiable/Attainment.
Lackawanna County |  | Unclassifiable/Attainment.
Lehigh County |  | Unclassifiable/Attainment.
Luzerne County |  | Unclassifiable/Attainment.
Monroe County |  | Unclassifiable/Attainment.
Northampton County |  | Unclassifiable/Attainment.
Pike County |  | Unclassifiable/Attainment.
Schuylkill County |  | Unclassifiable/Attainment.
Sullivan County |  | Unclassifiable/Attainment.
Susquehanna County |  | Unclassifiable/Attainment.
Tioga County |  | Unclassifiable/Attainment.
Wayne County |  | Unclassifiable/Attainment.
Wyoming County |  | Unclassifiable/Attainment.
AQCR 178 Northwest Pennsylvania-Youngstown Interstate:
Cameron County |  | Unclassifiable/Attainment.
Clarion County |  | Unclassifiable/Attainment.
Clearfield County |  | Unclassifiable/Attainment.
Crawford County |  | Unclassifiable/Attainment.
Elk County |  | Unclassifiable/Attainment.
Erie County |  | Unclassifiable/Attainment.
Forest County |  | Unclassifiable/Attainment.
Jefferson County |  | Unclassifiable/Attainment.
Lawrence County (remainder) |  | Unclassifiable/Attainment.
McKean County |  | Unclassifiable/Attainment.
Potter County |  | Unclassifiable/Attainment.
Venango County |  | Unclassifiable/Attainment.
Warren County |  | Unclassifiable/Attainment.
AQCR 195 Central Pennsylvania Intrastate:
Bedford County |  | Unclassifiable/Attainment.
Blair County |  | Unclassifiable/Attainment.
Centre County |  | Unclassifiable/Attainment.
Clinton County |  | Unclassifiable/Attainment.
Columbia County |  | Unclassifiable/Attainment.
Fulton County |  | Unclassifiable/Attainment.
Huntingdon County |  | Unclassifiable/Attainment.
Juniata County |  | Unclassifiable/Attainment.
Lycoming County |  | Unclassifiable/Attainment.
Mifflin County |  | Unclassifiable/Attainment.
Montour County |  | Unclassifiable/Attainment.
Northumberland County |  | Unclassifiable/Attainment.
Snyder County |  | Unclassifiable/Attainment.
Somerset County |  | Unclassifiable/Attainment.
Union County |  | Unclassifiable/Attainment.
AQCR 196 South Central Pennsylvania Intrastate:
Adams County |  | Unclassifiable/Attainment.
Franklin County |  | Unclassifiable/Attainment.
Perry County |  | Unclassifiable/Attainment.
AQCR 197 Southwest Pennsylvania Intrastate:
Armstrong County (remainder) |  | Unclassifiable/Attainment.
Fayette County |  | Unclassifiable/Attainment.
Greene County (remainder) |  | Unclassifiable/Attainment.
Indiana County (remainder) |  | Unclassifiable/Attainment.
ᵃ Includes Indian Country located in each county or area, except as otherwise specified.
¹ This date is 90 days after January 5, 2005, unless otherwise noted.

41. In § 81.340, the table entitled “Rhode Island.—PM2.5” is added to the end of the section to read as follows:

§ 81.340 Rhode Island.

* * * * *

Rhode Island.—PM2.5
Designated area | Designation ᵃ: Date ¹ | Designation ᵃ: Type
Statewide:
Bristol County |  | Unclassifiable/Attainment.
Kent County |  | Unclassifiable/Attainment.
Newport County |  | Unclassifiable/Attainment.
Providence County |  | Unclassifiable/Attainment.
Washington County |  | Unclassifiable/Attainment.
ᵃ Includes Indian Country located in each county or area, except as otherwise specified.
¹ This date is 90 days after January 5, 2005, unless otherwise noted.

42. In § 81.341, the table entitled “South Carolina.—PM2.5” is added to the end of the section to read as follows:

§ 81.341 South Carolina.

* * * * *

South Carolina.—PM2.5
Designated area | Designation ᵃ: Date ¹ | Designation ᵃ: Type
Greenville-Spartanburg, SC:
Anderson County |  | Unclassifiable
Greenville County |  | Unclassifiable
Spartanburg County |  | Unclassifiable
Rest of State:
Abbeville County |  | Unclassifiable/Attainment.
Aiken County |  | Unclassifiable/Attainment.
Allendale County |  | Unclassifiable/Attainment.
Bamberg County |  | Unclassifiable/Attainment.
Barnwell County |  | Unclassifiable/Attainment.
Beaufort County |  | Unclassifiable/Attainment.
Berkeley County |  | Unclassifiable/Attainment.
Calhoun County |  | Unclassifiable/Attainment.
Charleston County |  | Unclassifiable/Attainment.
Cherokee County |  | Unclassifiable/Attainment.
Chester County |  | Unclassifiable/Attainment.
Chesterfield County |  | Unclassifiable/Attainment.
Clarendon County |  | Unclassifiable/Attainment.
Colleton County |  | Unclassifiable/Attainment.
Darlington County |  | Unclassifiable/Attainment.
Dillon County |  | Unclassifiable/Attainment.
Dorchester County |  | Unclassifiable/Attainment.
Edgefield County |  | Unclassifiable/Attainment.
Fairfield County |  | Unclassifiable/Attainment.
Florence County |  | Unclassifiable/Attainment.
Georgetown County |  | Unclassifiable/Attainment.
Greenwood County |  | Unclassifiable/Attainment.
Hampton County |  | Unclassifiable/Attainment.
Horry County |  | Unclassifiable/Attainment.
Jasper County |  | Unclassifiable/Attainment.
Kershaw County |  | Unclassifiable/Attainment.
Lancaster County |  | Unclassifiable/Attainment.
Laurens County |  | Unclassifiable/Attainment.
Lee County |  | Unclassifiable/Attainment.
Lexington County |  | Unclassifiable/Attainment.
McCormick County |  | Unclassifiable/Attainment.
Marion County |  | Unclassifiable/Attainment.
Marlboro County |  | Unclassifiable/Attainment.
Newberry County |  | Unclassifiable/Attainment.
Oconee County |  | Unclassifiable/Attainment.
Orangeburg County |  | Unclassifiable/Attainment.
Pickens County |  | Unclassifiable/Attainment.
Richland County |  | Unclassifiable/Attainment.
Saluda County |  | Unclassifiable/Attainment.
Sumter County |  | Unclassifiable/Attainment.
Union County |  | Unclassifiable/Attainment.
Williamsburg County |  | Unclassifiable/Attainment.
York County |  | Unclassifiable/Attainment.
ᵃ Includes Indian Country located in each county or area, except as otherwise specified.
¹ This date is 90 days after January 5, 2005, unless otherwise noted.

43. In § 81.342, the table entitled “South Dakota.—PM2.5” is added to the end of the section to read as follows:

§ 81.342 South Dakota.

* * * * *

South Dakota.—PM2.5
Designated area | Designation ᵃ: Date ¹ | Designation ᵃ: Type
Statewide:
Aurora County |  | Unclassifiable/Attainment.
Beadle County |  | Unclassifiable/Attainment.
Bennett County |  | Unclassifiable/Attainment.
Bon Homme County |  | Unclassifiable/Attainment.
Brookings County |  | Unclassifiable/Attainment.
Brown County |  | Unclassifiable/Attainment.
Brule County |  | Unclassifiable/Attainment.
Buffalo County |  | Unclassifiable/Attainment.
Butte County |  | Unclassifiable/Attainment.
Campbell County |  | Unclassifiable/Attainment.
Charles Mix County |  | Unclassifiable/Attainment.
Clark County |  | Unclassifiable/Attainment.
Clay County |  | Unclassifiable/Attainment.
Codington County |  | Unclassifiable/Attainment.
Corson County |  | Unclassifiable/Attainment.
Custer County |  | Unclassifiable/Attainment.
Davison County |  | Unclassifiable/Attainment.
Day County |  | Unclassifiable/Attainment.
Deuel County |  | Unclassifiable/Attainment.
Dewey County |  | Unclassifiable/Attainment.
Douglas County |  | Unclassifiable/Attainment.
Edmunds County |  | Unclassifiable/Attainment.
Fall River County |  | Unclassifiable/Attainment.
Faulk County |  | Unclassifiable/Attainment.
Grant County |  | Unclassifiable/Attainment.
Gregory County |  | Unclassifiable/Attainment.
Haakon County |  | Unclassifiable/Attainment.
Hamlin County |  | Unclassifiable/Attainment.
Hand County |  | Unclassifiable/Attainment.
Hanson County |  | Unclassifiable/Attainment.
Harding County |  | Unclassifiable/Attainment.
Hughes County |  | Unclassifiable/Attainment.
Hutchinson County |  | Unclassifiable/Attainment.
Hyde County |  | Unclassifiable/Attainment.
Jackson County |  | Unclassifiable/Attainment.
Jerauld County |  | Unclassifiable/Attainment.
Jones County |  | Unclassifiable/Attainment.
Kingsbury County |  | Unclassifiable/Attainment.
Lake County |  | Unclassifiable/Attainment.
Lawrence County |  | Unclassifiable/Attainment.
Lincoln County |  | Unclassifiable/Attainment.
Lyman County |  | Unclassifiable/Attainment.
McCook County |  | Unclassifiable/Attainment.
McPherson County |  | Unclassifiable/Attainment.
Marshall County |  | Unclassifiable/Attainment.
Meade County |  | Unclassifiable/Attainment.
Mellette County |  | Unclassifiable/Attainment.
Miner County |  | Unclassifiable/Attainment.
Minnehaha County |  | Unclassifiable/Attainment.
Moody County |  | Unclassifiable/Attainment.
Pennington County |  | Unclassifiable/Attainment.
Perkins County |  | Unclassifiable/Attainment.
Potter County |  | Unclassifiable/Attainment.
Roberts County |  | Unclassifiable/Attainment.
Sanborn County |  | Unclassifiable/Attainment.
Shannon County |  | Unclassifiable/Attainment.
Spink County |  | Unclassifiable/Attainment.
Stanley County |  | Unclassifiable/Attainment.
Sully Count |  | Unclassifiable/Attainment.
Todd County |  | Unclassifiable/Attainment.
Tripp County |  | Unclassifiable/Attainment.
Turner County |  | Unclassifiable/Attainment.
Union County |  | Unclassifiable/Attainment.
Walworth County |  | Unclassifiable/Attainment.
Yankton County |  | Unclassifiable/Attainment.
Ziebach County |  | Unclassifiable/Attainment.
ᵃ Includes Indian Country located in each county or area, except as otherwise specified.
¹ This date is 90 days after January 5, 2005, unless otherwise noted.

44. In § 81.343, the table entitled “Tennessee.—PM2.5” is added to the end of the section to read as follows:

§ 81.343 Tennessee.

* * * * *

Tennessee.—PM2.5
Designated area | Designation ᵃ: Date ¹ | Designation ᵃ: Type
Chattanooga, TN-GA:
Hamilton County |  | Nonattainment.
Knoxville, TN:
Anderson County |  | Nonattainment.
Blount County |  | Nonattainment.
Knox County |  | Nonattainment.
Loudon County |  | Nonattainment.
Roane County (part) |  | Nonattainment.
The area described by U.S. Census 2000 block group identifier 47-145-0307-2.
McMinn County, TN:
McMinn County |  | Unclassifiable
Rest of State:
Bedford County |  | Unclassifiable/Attainment.
Benton County |  | Unclassifiable/Attainment.
Bledsoe County |  | Unclassifiable/Attainment.
Bradley County |  | Unclassifiable/Attainment.
Campbell County |  | Unclassifiable/Attainment.
Cannon County |  | Unclassifiable/Attainment.
Carroll County |  | Unclassifiable/Attainment.
Carter County |  | Unclassifiable/Attainment.
Cheatham County |  | Unclassifiable/Attainment.
Chester County |  | Unclassifiable/Attainment.
Claiborne County |  | Unclassifiable/Attainment.
Clay County |  | Unclassifiable/Attainment.
Cocke County |  | Unclassifiable/Attainment.
Coffee County |  | Unclassifiable/Attainment.
Crockett County |  | Unclassifiable/Attainment.
Cumberland County |  | Unclassifiable/Attainment.
Davidson County |  | Unclassifiable/Attainment.
Decatur County |  | Unclassifiable/Attainment.
DeKalb County |  | Unclassifiable/Attainment.
Dickson County |  | Unclassifiable/Attainment.
Dyer County |  | Unclassifiable/Attainment.
Fayette County |  | Unclassifiable/Attainment.
Fentress County |  | Unclassifiable/Attainment.
Franklin County |  | Unclassifiable/Attainment.
Gibson County |  | Unclassifiable/Attainment.
Giles County |  | Unclassifiable/Attainment.
Grainger County |  | Unclassifiable/Attainment.
Greene County |  | Unclassifiable/Attainment.
Grundy County |  | Unclassifiable/Attainment.
Hamblen County |  | Unclassifiable/Attainment.
Hancock County |  | Unclassifiable/Attainment.
Hardeman County |  | Unclassifiable/Attainment.
Hardin County |  | Unclassifiable/Attainment.
Hawkins County |  | Unclassifiable/Attainment.
Haywood County |  | Unclassifiable/Attainment.
Henderson County |  | Unclassifiable/Attainment.
Henry County |  | Unclassifiable/Attainment.
Hickman County |  | Unclassifiable/Attainment.
Houston County |  | Unclassifiable/Attainment.
Humphreys County |  | Unclassifiable/Attainment.
Jackson County |  | Unclassifiable/Attainment.
Jefferson County |  | Unclassifiable/Attainment.
Johnson County |  | Unclassifiable/Attainment.
Lake County |  | Unclassifiable/Attainment.
Lauderdale County |  | Unclassifiable/Attainment.
Lawrence County |  | Unclassifiable/Attainment.
Lewis County |  | Unclassifiable/Attainment.
Lincoln County |  | Unclassifiable/Attainment.
McNairy County |  | Unclassifiable/Attainment.
Macon County |  | Unclassifiable/Attainment.
Madison County |  | Unclassifiable/Attainment.
Marion County |  | Unclassifiable/Attainment.
Marshall County |  | Unclassifiable/Attainment.
Maury County |  | Unclassifiable/Attainment.
Meigs County |  | Unclassifiable/Attainment.
Monroe County |  | Unclassifiable/Attainment.
Montgomery County |  | Unclassifiable/Attainment.
Moore County |  | Unclassifiable/Attainment.
Morgan County |  | Unclassifiable/Attainment.
Obion County |  | Unclassifiable/Attainment.
Overton County |  | Unclassifiable/Attainment.
Perry County |  | Unclassifiable/Attainment.
Pickett County |  | Unclassifiable/Attainment.
Polk County |  | Unclassifiable/Attainment.
Putnam County |  | Unclassifiable/Attainment.
Rhea County |  | Unclassifiable/Attainment.
Roane County (remainder) |  | Unclassifiable/Attainment.
Robertson County |  | Unclassifiable/Attainment.
Rutherford County |  | Unclassifiable/Attainment.
Scott County |  | Unclassifiable/Attainment.
Sequatchie County |  | Unclassifiable/Attainment.
Sevier County |  | Unclassifiable/Attainment.
Shelby County |  | Unclassifiable/Attainment.
Smith County |  | Unclassifiable/Attainment.
Stewart County |  | Unclassifiable/Attainment.
Sullivan County |  | Unclassifiable/Attainment.
Sumner County |  | Unclassifiable/Attainment.
Tipton County |  | Unclassifiable/Attainment.
Trousdale County |  | Unclassifiable/Attainment.
Unicoi County |  | Unclassifiable/Attainment.
Union County |  | Unclassifiable/Attainment.
Van Buren County |  | Unclassifiable/Attainment.
Warren County |  | Unclassifiable/Attainment.
Washington County |  | Unclassifiable/Attainment.
Wayne County |  | Unclassifiable/Attainment.
Weakley County |  | Unclassifiable/Attainment.
White County |  | Unclassifiable/Attainment.
Williamson County |  | Unclassifiable/Attainment.
Wilson County |  | Unclassifiable/Attainment.
ᵃ Includes Indian Country located in each county or area, except as otherwise specified.
¹ This date is 90 days after January 5, 2005, unless otherwise noted.

45. In § 81.344, the table entitled “Texas.—PM2.5” is added to the end of the section to read as follows:

§ 81.344 Texas.

* * * * *

Texas.—PM2.5
Designated area | Designation ᵃ: Date ¹ | Designation ᵃ: Type
AQCR 022 Shreveport-Texarkana-Tyler Interstate:
Anderson County |  | Unclassifiable/Attainment.
Bowie County |  | Unclassifiable/Attainment.
Camp County |  | Unclassifiable/Attainment.
Cass County |  | Unclassifiable/Attainment.
Cherokee County |  | Unclassifiable/Attainment.
Delta County |  | Unclassifiable/Attainment.
Franklin County |  | Unclassifiable/Attainment.
Gregg County |  | Unclassifiable/Attainment.
Harrison County |  | Unclassifiable/Attainment.
Hopkins County |  | Unclassifiable/Attainment.
Lamar County |  | Unclassifiable/Attainment.
Marion County |  | Unclassifiable/Attainment.
Morris County |  | Unclassifiable/Attainment.
Panola County |  | Unclassifiable/Attainment.
Rains County |  | Unclassifiable/Attainment.
Red River County |  | Unclassifiable/Attainment.
Rusk County |  | Unclassifiable/Attainment.
Smith County |  | Unclassifiable/Attainment.
Titus County |  | Unclassifiable/Attainment.
Upshur County |  | Unclassifiable/Attainment.
Van Zandt County |  | Unclassifiable/Attainment.
Wood County |  | Unclassifiable/Attainment.
AQCR 106 S Louisiana-SE Texas Interstate (remainder of):
Angelina County |  | Unclassifiable/Attainment.
Houston County |  | Unclassifiable/Attainment.
Jasper County |  | Unclassifiable/Attainment.
Nacogdoches County |  | Unclassifiable/Attainment.
Newton County |  | Unclassifiable/Attainment.
Polk County |  | Unclassifiable/Attainment.
Sabine County |  | Unclassifiable/Attainment.
San Augustine County |  | Unclassifiable/Attainment.
San Jacinto County |  | Unclassifiable/Attainment.
Shelby County |  | Unclassifiable/Attainment.
Trinity County |  | Unclassifiable/Attainment.
Tyler County |  | Unclassifiable/Attainment.
AQCR 153 El Paso-Las Cruces-Alamogordo Interstate:
Brewster County |  | Unclassifiable/Attainment.
Culberson County |  | Unclassifiable/Attainment.
El Paso County |  | Unclassifiable/Attainment.
Hudspeth County |  | Unclassifiable/Attainment.
Jeff Davis County |  | Unclassifiable/Attainment.
Presidio County |  | Unclassifiable/Attainment.
AQCR 210 Abilene-Wichita Falls Intrastate:
Archer County |  | Unclassifiable/Attainment.
Baylor County |  | Unclassifiable/Attainment.
Brown County |  | Unclassifiable/Attainment.
Callahan County |  | Unclassifiable/Attainment.
Clay County |  | Unclassifiable/Attainment.
Coleman County |  | Unclassifiable/Attainment.
Comanche County |  | Unclassifiable/Attainment.
Cottle County |  | Unclassifiable/Attainment.
Eastland County |  | Unclassifiable/Attainment.
Fisher County |  | Unclassifiable/Attainment.
Foard County |  | Unclassifiable/Attainment.
Hardeman County |  | Unclassifiable/Attainment.
Haskell County |  | Unclassifiable/Attainment.
Jack County |  | Unclassifiable/Attainment.
Jones County |  | Unclassifiable/Attainment.
Kent County |  | Unclassifiable/Attainment.
Knox County |  | Unclassifiable/Attainment.
Mitchell County |  | Unclassifiable/Attainment.
Montague County |  | Unclassifiable/Attainment.
Nolan County |  | Unclassifiable/Attainment.
Runnels County |  | Unclassifiable/Attainment.
Scurry County |  | Unclassifiable/Attainment.
Shackelford County |  | Unclassifiable/Attainment.
Stephens County |  | Unclassifiable/Attainment.
Stonewall County |  | Unclassifiable/Attainment.
Taylor County |  | Unclassifiable/Attainment.
Throckmorton County |  | Unclassifiable/Attainment.
Wichita County |  | Unclassifiable/Attainment.
Wilbarger County |  | Unclassifiable/Attainment.
Young County |  | Unclassifiable/Attainment.
AQCR 211 Amarillo-Lubbock Intrastate:
Armstrong County |  | Unclassifiable/Attainment.
Bailey County |  | Unclassifiable/Attainment.
Briscoe County |  | Unclassifiable/Attainment.
Carson County |  | Unclassifiable/Attainment.
Castro County |  | Unclassifiable/Attainment.
Childress County |  | Unclassifiable/Attainment.
Cochran County |  | Unclassifiable/Attainment.
Collingsworth County |  | Unclassifiable/Attainment.
Crosby County |  | Unclassifiable/Attainment.
Dallam County |  | Unclassifiable/Attainment.
Deaf Smith County |  | Unclassifiable/Attainment.
Dickens County |  | Unclassifiable/Attainment.
Donley County |  | Unclassifiable/Attainment.
Floyd County |  | Unclassifiable/Attainment.
Garza County |  | Unclassifiable/Attainment.
Gray County |  | Unclassifiable/Attainment.
Hale County |  | Unclassifiable/Attainment.
Hall County |  | Unclassifiable/Attainment.
Hansford County |  | Unclassifiable/Attainment.
Hartley County |  | Unclassifiable/Attainment.
Hemphill County |  | Unclassifiable/Attainment.
Hockley County |  | Unclassifiable/Attainment.
Hutchinson County |  | Unclassifiable/Attainment.
King County |  | Unclassifiable/Attainment.
Lamb County |  | Unclassifiable/Attainment.
Lipscomb County |  | Unclassifiable/Attainment.
Lubbock County |  | Unclassifiable/Attainment.
Lynn County |  | Unclassifiable/Attainment.
Moore County |  | Unclassifiable/Attainment.
Motley County |  | Unclassifiable/Attainment.
Ochiltree County |  | Unclassifiable/Attainment.
Oldham County |  | Unclassifiable/Attainment.
Parmer County |  | Unclassifiable/Attainment.
Potter County |  | Unclassifiable/Attainment.
Randall County |  | Unclassifiable/Attainment.
Roberts County |  | Unclassifiable/Attainment.
Sherman County |  | Unclassifiable/Attainment.
Swisher County |  | Unclassifiable/Attainment.
Terry County |  | Unclassifiable/Attainment.
Wheeler County |  | Unclassifiable/Attainment.
Yoakum County |  | Unclassifiable/Attainment.
AQCR 212 Austin-Waco Intrastate:
Bastrop County |  | Unclassifiable/Attainment.
Bell County |  | Unclassifiable/Attainment.
Blanco County |  | Unclassifiable/Attainment.
Bosque County |  | Unclassifiable/Attainment.
Brazos County |  | Unclassifiable/Attainment.
Burleson County |  | Unclassifiable/Attainment.
Burnet County |  | Unclassifiable/Attainment.
Caldwell County |  | Unclassifiable/Attainment.
Coryell County |  | Unclassifiable/Attainment.
Falls County |  | Unclassifiable/Attainment.
Fayette County |  | Unclassifiable/Attainment.
Freestone County |  | Unclassifiable/Attainment.
Grimes County |  | Unclassifiable/Attainment.
Hamilton County |  | Unclassifiable/Attainment.
Hays County |  | Unclassifiable/Attainment.
Hill County |  | Unclassifiable/Attainment.
Lampasas County |  | Unclassifiable/Attainment.
Lee County |  | Unclassifiable/Attainment.
Leon County |  | Unclassifiable/Attainment.
Limestone County |  | Unclassifiable/Attainment.
Llano County |  | Unclassifiable/Attainment.
McLennan County |  | Unclassifiable/Attainment.
Madison County |  | Unclassifiable/Attainment.
Milam County |  | Unclassifiable/Attainment.
Mills County |  | Unclassifiable/Attainment.
Robertson County |  | Unclassifiable/Attainment.
San Saba County |  | Unclassifiable/Attainment.
Travis County |  | Unclassifiable/Attainment.
Washington County |  | Unclassifiable/Attainment.
Williamson County |  | Unclassifiable/Attainment.
AQCR 213 Brownsville-Laredo Intrastate:
Cameron County |  | Unclassifiable/Attainment.
Hidalgo County |  | Unclassifiable/Attainment.
Jim Hogg County |  | Unclassifiable/Attainment.
Starr County |  | Unclassifiable/Attainment.
Webb County |  | Unclassifiable/Attainment.
Willacy County |  | Unclassifiable/Attainment.
Zapata County |  | Unclassifiable/Attainment.
AQCR 214 Corpus Christi-Victoria Intrastate (part):
Nueces County |  | Unclassifiable/Attainment.
AQCR 214 Corpus Christi-Victoria Intrastate (remainder of):
Aransas County |  | Unclassifiable/Attainment.
Bee County |  | Unclassifiable/Attainment.
Brooks County |  | Unclassifiable/Attainment.
Calhoun County |  | Unclassifiable/Attainment.
DeWitt County |  | Unclassifiable/Attainment.
Duval County |  | Unclassifiable/Attainment.
Goliad County |  | Unclassifiable/Attainment.
Gonzales County |  | Unclassifiable/Attainment.
Jackson County |  | Unclassifiable/Attainment.
Jim Wells County |  | Unclassifiable/Attainment.
Kenedy County |  | Unclassifiable/Attainment.
Kleberg County |  | Unclassifiable/Attainment.
Lavaca County |  | Unclassifiable/Attainment.
Live Oak County |  | Unclassifiable/Attainment.
McMullen County |  | Unclassifiable/Attainment.
Refugio County |  | Unclassifiable/Attainment.
San Patricio County |  | Unclassifiable/Attainment.
AQCR 215 Metro Dallas-Fort Worth Intrastate (remainder of):
Cooke County |  | Unclassifiable/Attainment.
Erath County |  | Unclassifiable/Attainment.
Fannin County |  | Unclassifiable/Attainment.
Grayson County |  | Unclassifiable/Attainment.
Henderson County |  | Unclassifiable/Attainment.
Hood County |  | Unclassifiable/Attainment.
Hunt County |  | Unclassifiable/Attainment.
Navarro County |  | Unclassifiable/Attainment.
Palo Pinto County |  | Unclassifiable/Attainment.
Somervell County |  | Unclassifiable/Attainment.
Wise County |  | Unclassifiable/Attainment.
AQCR 216 Metro Houston-Galveston Intrastate (remainder of):
Austin County |  | Unclassifiable/Attainment.
Colorado County |  | Unclassifiable/Attainment.
Matagorda County |  | Unclassifiable/Attainment.
Walker County |  | Unclassifiable/Attainment.
Wharton County |  | Unclassifiable/Attainment.
AQCR 217 Metro San Antonio Intrastate (remainder of):
Atascosa County |  | Unclassifiable/Attainment.
Bandera County |  | Unclassifiable/Attainment.
Dimmit County |  | Unclassifiable/Attainment.
Edwards County |  | Unclassifiable/Attainment.
Frio County |  | Unclassifiable/Attainment.
Gillespie County |  | Unclassifiable/Attainment.
Karnes County |  | Unclassifiable/Attainment.
Kendall County |  | Unclassifiable/Attainment.
Kerr County |  | Unclassifiable/Attainment.
Kinney County |  | Unclassifiable/Attainment.
La Salle County |  | Unclassifiable/Attainment.
Maverick County |  | Unclassifiable/Attainment.
Medina County |  | Unclassifiable/Attainment.
Real County |  | Unclassifiable/Attainment.
Uvalde County |  | Unclassifiable/Attainment.
Val Verde County |  | Unclassifiable/Attainment.
Wilson County |  | Unclassifiable/Attainment.
Zavala County |  | Unclassifiable/Attainment.
AQCR 218 Midland-Odessa-San Angelo Intrastate (part):
Ector County |  | Unclassifiable/Attainment.
AQCR 218 Midland-Odessa-San Angelo Intrastate (remainder of):
Andrews County |  | Unclassifiable/Attainment.
Borden County |  | Unclassifiable/Attainment.
Coke County |  | Unclassifiable/Attainment.
Concho County |  | Unclassifiable/Attainment.
Crane County |  | Unclassifiable/Attainment.
Crockett County |  | Unclassifiable/Attainment.
Dawson County |  | Unclassifiable/Attainment.
Gaines County |  | Unclassifiable/Attainment.
Glasscock County |  | Unclassifiable/Attainment.
Howard County |  | Unclassifiable/Attainment.
Irion County |  | Unclassifiable/Attainment.
Kimble County |  | Unclassifiable/Attainment.
Loving County |  | Unclassifiable/Attainment.
McCulloch County |  | Unclassifiable/Attainment.
Martin County |  | Unclassifiable/Attainment.
Mason County |  | Unclassifiable/Attainment.
Menard County |  | Unclassifiable/Attainment.
Midland County |  | Unclassifiable/Attainment.
Pecos County |  | Unclassifiable/Attainment.
Reagan County |  | Unclassifiable/Attainment.
Reeves County |  | Unclassifiable/Attainment.
Schleicher County |  | Unclassifiable/Attainment.
Sterling County |  | Unclassifiable/Attainment.
Sutton County |  | Unclassifiable/Attainment.
Terrell County |  | Unclassifiable/Attainment.
Tom Green County |  | Unclassifiable/Attainment.
Upton County |  | Unclassifiable/Attainment.
Ward County |  | Unclassifiable/Attainment.
Winkler County |  | Unclassifiable/Attainment.
Beaumont/Port Arthur, TX:
Hardin County |  | Unclassifiable/Attainment.
Jefferson County |  | Unclassifiable/Attainment.
Orange County |  | Unclassifiable/Attainment.
Dallas-Fort Worth, TX:
Collin County |  | Unclassifiable/Attainment.
Dallas County |  | Unclassifiable/Attainment.
Denton County |  | Unclassifiable/Attainment.
Ellis County |  | Unclassifiable/Attainment.
Johnson County |  | Unclassifiable/Attainment.
Kaufman County |  | Unclassifiable/Attainment.
Parker County |  | Unclassifiable/Attainment.
Rockwall County |  | Unclassifiable/Attainment.
Tarrant County |  | Unclassifiable/Attainment.
Houston-Galveston-Brazoria, TX:
Brazoria County |  | Unclassifiable/Attainment.
Chambers County |  | Unclassifiable/Attainment.
Fort Bend County |  | Unclassifiable/Attainment.
Galveston County |  | Unclassifiable/Attainment.
Harris County |  | Unclassifiable/Attainment.
Liberty County |  | Unclassifiable/Attainment.
Montgomery County |  | Unclassifiable/Attainment.
Waller County |  | Unclassifiable/Attainment.
San Antonio, TX:
Bexar County |  | Unclassifiable/Attainment.
Comal County |  | Unclassifiable/Attainment.
Guadalupe County |  | Unclassifiable/Attainment.
Victoria Area:
Victoria County |  | Unclassifiable/Attainment.
ᵃ Includes Indian Country located in each county or area, except as otherwise specified.
¹ This date is 90 days after January 5, 2005, unless otherwise noted.

46. In § 81.345, the table entitled “Utah.—PM2.5” is added to the end of the section to read as follows:

§ 81.345 Utah.

* * * * *

Utah.—PM2.5
Designated area | Designation ᵃ: Date ¹ | Designation ᵃ: Type
Box Elder County, UT (part):
Box Elder County (except Brigham City) |  | Unclassifiable/Attainment.
Brigham City, UT:
Box Elder County (part) |  | Unclassifiable/Attainment.
The area surrounding Brigham City, as described by the following Townships or the portions of the following Townships in Box Elder County: T9N 2W, T9N R1W, T8N 2W
Cache County, UT (part):
Cache County (except Lower Cache Valley) |  | Unclassifiable/Attainment.
Davis County, UT (part):
Davis County (except Wasatch Front) |  | Unclassifiable/Attainment.
Grantsville, UT:
Tooele County (part) |  | Unclassifiable/Attainment.
The area surrounding Grantsville, as described by the following Townships or the portions of the following Townships in Tooele County: T2S R6W, T2S R5W, T2S R4W, T3S R6W, T3S R5W, T3S R4W, T4S R6W, T4S R5W, T4S R4W
Lower Cache Valley, UT:
Cache County (part) |  | Unclassifiable/Attainment.
The Cache Valley, below 6500 ft. msl. This area is described by the following list of Townships or the portions of the following Townships in Cache County: T15N R1E, T15N R2W, T15N R1W, T14N R2W, T14N R1W, T14N R1E, T13N R2W, T13N R1W, T13N R1E, T12N R2W, T12N R1W, T12N R1E, T11N R1W, T11N R1E, T10N R1W, T10N R1E, T9N R1E
Salt Lake County, UT (part)
Salt Lake County (except Wasatch Front) |  | Unclassifiable/Attainment.
Tooele County, UT (part):
Tooele County (remainder) |  | Unclassifiable/Attainment.
Utah County, UT (part):
Utah County (except Wasatch Front) |  | Unclassifiable/Attainment.
Wasatch Front, UT:
Davis County (part) |  | Unclassifiable/Attainment.
The portion of the Wasatch Front residing in Davis County, as described by the following Townships or the portions of the following Townships in Davis County: T5N R3W, T5N R2W, T5N R1W, T4N R2W, T4N R1W, T3N R1W, T3N R1E, T2N R1W, T2N R1E, T1N R1W, T1N R1E.
Salt Lake County (part) |  | Unclassifiable/Attainment.
The portion of the Wasatch Front residing in Salt Lake County, as described by the following Townships or the portions of the following Townships in Salt Lake County: T1N R2W, T1N R1W, T1N R1E, T1S R3W, T1S R2W, T1S R1W, T1S R1E, T2S R3W, T2S R2W, T2S R1W, T2S R1E, T3S R3W, T3S R2W, T3S R1W, T3S R1E, T4S R3W, T4S R2W, T4S R1W, T4S R1E.
Utah County (part) |  | Unclassifiable/Attainment.
The portion of the Wasatch Front residing in Utah County, as described by the following Townships or the portions of the following Townships in Utah County: T4S R2W, T4S R1W, T4S R1E, T4S R2E, T5S R2W, T5S R1W, T5S R1E, T5S R2E, T6S R3W, T6S R2W, T6S R1W, T6S R2E, T6S R3E, T6S R1E, T7S R3W, T7S R2W, T7S R1W, T7S R1E, T7S R2E, T7S R3E, T8S R3W, T8S R2W, T8S R1W, T8S R3E, T8S R2E, T8S R1E, T9S R3W, T9S R2W, T9S R1E, T9S R3E, T9S R2E, T9S R1W, T10S 2W, T10S R2E, T10S R1E, T10S R1W, T1S R2W, T11S R1W, T12S R2W.
Weber County (part) |  | Unclassifiable/Attainment.
The portion of the Wasatch Front residing in Weber County, as described by the following Townships or the portions of the following Townships in Weber County: T7N R2W, T7N R1W, T7N R3W, T6N R3W, T6N R2W, T6N R1W, T5N R3W, T5N R2W, T5N R1W
Weber County, UT (part):
Weber County (except Wasatch Front) |  | Unclassifiable/Attainment.
Rest of State:
Beaver County |  | Unclassifiable/Attainment.
Carbon County |  | Unclassifiable/Attainment.
Daggett County |  | Unclassifiable/Attainment.
Duchesne County |  | Unclassifiable/Attainment.
Emery County |  | Unclassifiable/Attainment.
Garfield County |  | Unclassifiable/Attainment.
Grand County |  | Unclassifiable/Attainment.
Iron County |  | Unclassifiable/Attainment.
Juab County |  | Unclassifiable/Attainment.
Kane County |  | Unclassifiable/Attainment.
Millard County |  | Unclassifiable/Attainment.
Morgan County |  | Unclassifiable/Attainment.
Piute County |  | Unclassifiable/Attainment.
Rich County |  | Unclassifiable/Attainment.
San Juan County |  | Unclassifiable/Attainment.
Sanpete County |  | Unclassifiable/Attainment.
Sevier County |  | Unclassifiable/Attainment.
Summit County |  | Unclassifiable/Attainment.
Uintah County |  | Unclassifiable/Attainment.
Wasatch County |  | Unclassifiable/Attainment.
Washington County |  | Unclassifiable/Attainment.
Wayne County |  | Unclassifiable/Attainment.
ᵃ Includes Indian Country located in each county or area, except as otherwise specified.
¹This date is 90 days after January 5, 2005, unless otherwise noted.

47. In § 81.346, the table entitled “Vermont.—PM2.5” is added to the end of the section to read as follows:

§ 81.346 Vermont.

* * * * *

Vermont.—PM2.5
Designated area | Designation ᵃ: Date ¹ | Designation ᵃ: Type
Statewide:
Addison County |  | Unclassifiable/Attainment.
Bennington County |  | Unclassifiable/Attainment.
Caledonia County |  | Unclassifiable/Attainment.
Chittenden County |  | Unclassifiable/Attainment.
Essex County |  | Unclassifiable/Attainment.
Franklin County |  | Unclassifiable/Attainment.
Grand Isle County |  | Unclassifiable/Attainment.
Lamoille County |  | Unclassifiable/Attainment.
Orange County |  | Unclassifiable/Attainment.
Orleans County |  | Unclassifiable/Attainment.
Rutland County |  | Unclassifiable/Attainment.
Washington County |  | Unclassifiable/Attainment.
Windham County |  | Unclassifiable/Attainment.
Windsor County |  | Unclassifiable/Attainment.
ᵃ Includes Indian Country located in each county or area, except as otherwise specified.
¹ This date is 90 days after January 5, 2005, unless otherwise noted.

48. In § 81.347, the table entitled “Virginia.—PM2.5” is added to the end of the section to read as follows:

§ 81.347 Virginia.

* * * * *

Virginia.—PM2.5
Designated area | Designation ᵃ: Date¹ | Designation ᵃ: Type
Washington, DC-MD-VA:
Arlington County |  | Nonattainment.
Fairfax County |  | Nonattainment.
Loudoun County |  | Nonattainment.
Prince William County |  | Nonattainment.
Alexandria City |  | Nonattainment.
Fairfax City |  | Nonattainment.
Falls Church City |  | Nonattainment.
Manassas City |  | Nonattainment.
Manassas Park City |  | Nonattainment.
AQCR 207 Eastern Tennessee-SW Virginia Interstate (remainder of):
Bland County |  | Unclassifiable/Attainment.
Buchanan County |  | Unclassifiable/Attainment.
Carroll County |  | Unclassifiable/Attainment.
Dickenson County |  | Unclassifiable/Attainment.
Grayson County |  | Unclassifiable/Attainment.
Lee County |  | Unclassifiable/Attainment.
Russell County |  | Unclassifiable/Attainment.
Scott County |  | Unclassifiable/Attainment.
Smyth County |  | Unclassifiable/Attainment.
Tazewell County |  | Unclassifiable/Attainment.
Washington County |  | Unclassifiable/Attainment.
Wise County |  | Unclassifiable/Attainment.
Wythe County |  | Unclassifiable/Attainment.
Bristol City |  | Unclassifiable/Attainment.
Galax City |  | Unclassifiable/Attainment.
Norton City |  | Unclassifiable/Attainment.
AQCR 222 Central Virginia Intrastate:
Amelia County |  | Unclassifiable/Attainment.
Amherst County |  | Unclassifiable/Attainment.
Appomattox County |  | Unclassifiable/Attainment.
Bedford County |  | Unclassifiable/Attainment.
Brunswick County |  | Unclassifiable/Attainment.
Buckingham County |  | Unclassifiable/Attainment.
Campbell County |  | Unclassifiable/Attainment.
Charlotte County |  | Unclassifiable/Attainment.
Cumberland County |  | Unclassifiable/Attainment.
Franklin County |  | Unclassifiable/Attainment.
Halifax County |  | Unclassifiable/Attainment.
Henry County |  | Unclassifiable/Attainment.
Lunenburg County |  | Unclassifiable/Attainment.
Mecklenburg County |  | Unclassifiable/Attainment.
Nottoway County |  | Unclassifiable/Attainment.
Patrick County |  | Unclassifiable/Attainment.
Pittsylvania County |  | Unclassifiable/Attainment.
Prince Edward County |  | Unclassifiable/Attainment.
Bedford City |  | Unclassifiable/Attainment.
Danville City |  | Unclassifiable/Attainment.
Lynchburg City |  | Unclassifiable/Attainment.
Martinsville City |  | Unclassifiable/Attainment.
AQCR 223 Hampton Roads Intrastate (remainder of):
Southampton County |  | Unclassifiable/Attainment.
Franklin City |  | Unclassifiable/Attainment.
AQCR 224 NE Virginia Intrastate (remainder of):
Accomack County |  | Unclassifiable/Attainment.
Albemarle County |  | Unclassifiable/Attainment.
Caroline County |  | Unclassifiable/Attainment.
Culpeper County |  | Unclassifiable/Attainment.
Essex County |  | Unclassifiable/Attainment.
Fauquier County |  | Unclassifiable/Attainment.
Fluvanna County |  | Unclassifiable/Attainment.
Greene County |  | Unclassifiable/Attainment.
King and Queen County |  | Unclassifiable/Attainment.
King George County |  | Unclassifiable/Attainment.
King William County |  | Unclassifiable/Attainment.
Lancaster County |  | Unclassifiable/Attainment.
Louisa County |  | Unclassifiable/Attainment.
Madison County |  | Unclassifiable/Attainment.
Mathews County |  | Unclassifiable/Attainment.
Middlesex County |  | Unclassifiable/Attainment.
Nelson County |  | Unclassifiable/Attainment.
Northampton County |  | Unclassifiable/Attainment.
Northumberland County |  | Unclassifiable/Attainment.
Orange County |  | Unclassifiable/Attainment.
Rappahannock County |  | Unclassifiable/Attainment.
Richmond County |  | Unclassifiable/Attainment.
Westmoreland County |  | Unclassifiable/Attainment.
Charlottesville City |  | Unclassifiable/Attainment.
AQCR 225 State Capital Intrastate (remainder of):
Dinwiddie County |  | Unclassifiable/Attainment.
Goochland County |  | Unclassifiable/Attainment.
Greensville County |  | Unclassifiable/Attainment.
New Kent County |  | Unclassifiable/Attainment.
Powhatan County |  | Unclassifiable/Attainment.
Surry County |  | Unclassifiable/Attainment.
Sussex County |  | Unclassifiable/Attainment.
Emporia City |  | Unclassifiable/Attainment.
Petersburg City |  | Unclassifiable/Attainment.
AQCR 226 Valley of Virginia Intrastate:
Alleghany County |  | Unclassifiable/Attainment.
Augusta County |  | Unclassifiable/Attainment.
Bath County |  | Unclassifiable/Attainment.
Clarke County |  | Unclassifiable/Attainment.
Craig County |  | Unclassifiable/Attainment.
Floyd County |  | Unclassifiable/Attainment.
Giles County |  | Unclassifiable/Attainment.
Highland County |  | Unclassifiable/Attainment.
Montgomery County |  | Unclassifiable/Attainment.
Page County |  | Unclassifiable/Attainment.
Pulaski County |  | Unclassifiable/Attainment.
Rockbridge County |  | Unclassifiable/Attainment.
Rockingham County |  | Unclassifiable/Attainment.
Shenandoah County |  | Unclassifiable/Attainment.
Warren County |  | Unclassifiable/Attainment.
Buena Vista City |  | Unclassifiable/Attainment.
Covington City |  | Unclassifiable/Attainment.
Harrisonburg City |  | Unclassifiable/Attainment.
Lexington City |  | Unclassifiable/Attainment.
Radford City |  | Unclassifiable/Attainment.
Staunton City |  | Unclassifiable/Attainment.
Waynesboro City |  | Unclassifiable/Attainment.
Frederick Co., VA:
Frederick County |  | Unclassifiable/Attainment.
Winchester City |  | Unclassifiable/Attainment.
Fredericksburg, VA:
Spotsylvania County |  | Unclassifiable/Attainment.
Stafford County |  | Unclassifiable/Attainment.
City of Fredericksburg |  | Unclassifiable/Attainment.
Norfolk-Virginia-Beach Newport News (Hampton Roads), VA:
Gloucester County |  | Unclassifiable/Attainment.
Isle of Wight County |  | Unclassifiable/Attainment.
James City County |  | Unclassifiable/Attainment.
York County |  | Unclassifiable/Attainment.
Chesapeake City |  | Unclassifiable/Attainment.
Hampton City |  | Unclassifiable/Attainment.
Newport News City |  | Unclassifiable/Attainment.
Norfolk City |  | Unclassifiable/Attainment.
Poquoson City |  | Unclassifiable/Attainment.
Portsmouth City |  | Unclassifiable/Attainment.
Suffolk City |  | Unclassifiable/Attainment.
Virginia Beach City |  | Unclassifiable/Attainment.
Williamsburg City |  | Unclassifiable/Attainment.
Richmond-Petersburg, VA:
Charles City County |  | Unclassifiable/Attainment.
Chesterfield County |  | Unclassifiable/Attainment.
Hanover County |  | Unclassifiable/Attainment.
Henrico County |  | Unclassifiable/Attainment.
Prince George County |  | Unclassifiable/Attainment.
Colonial Heights City |  | Unclassifiable/Attainment.
Hopewell City |  | Unclassifiable/Attainment.
Richmond City |  | Unclassifiable/Attainment.
Roanoke, VA:
Botetourt County |  | Unclassifiable/Attainment.
Roanoke County |  | Unclassifiable/Attainment.
Roanoke City |  | Unclassifiable/Attainment.
Salem City |  | Unclassifiable/Attainment.
ᵃ Includes Indian Country located in each county or area, except as otherwise specified.
¹ This date is 90 days after January 5, 2005, unless otherwise noted.

49. In § 81.348, the table entitled “Washington.—PM2.5” is added to the end of the section to read as follows:

§ 81.348 Washington.

* * * * *

Washington.—PM2.5
Designated area | Designation ᵃ: Date ¹ | Designation ᵃ: Type
Portland—Vancouver AQMA:
Clark County (part) |  | Unclassifiable/Attainment.
Air quality maintenance area
Seattle—Tacoma Area |  | Unclassifiable/Attainment.
The following boundary includes all of Pierce County, and all of King County except a small portion on the north-east corner and the western portion of Snohomish County: Starting at the mouth of the Nisqually river extend northwesterly along the Pierce County line to the southernmost point of the west county line of King County; thence northerly along the county line to the southernmost point of the west county line of Snohomish County; thence northerly along the county line to the intersection with SR 532; thence easterly along the north line of SR 532 to the intersection of I-5, continuing east along the same road now identified as Henning Rd., to the intersection with SR 9 at Bryant; thence continuing easterly on Bryant East Rd. and Rock Creek Rd., also identified as Grandview Rd., approximately 3 miles to the point at which it is crossed by the existing BPA electrical transmission line; thence southeasterly along the BPA transmission line approximately 8 miles to point of the crossing of the south fork of the Stillaguamish River; thence continuing in a southeasterly direction in a meander line following the bed of the River to Jordan Road; southerly along Jordan Road to the north city limits of Granite Falls; thence following the north and east city limits to 92nd St. N.E. and Menzel Lake Rd.; thence south-southeasterly along the Menzel Lake Rd. and the Lake Roesiger Rd. a distance of approximately 6 miles to the northernmost point of Lake Roesiger; thence southerly along a meander line following the middle of the Lake and Roesiger Creek to Woods Creek; thence southerly along a meander line following the bed of the Creek approximately 6 miles to the point the Creek is crossed by the existing BPA electrical transmission line; thence easterly along the BPA transmission line approximately 0.2 miles; thence southerly along the BPA Chief Joseph-Covington electrical transmission line approximately 3 miles to the north line of SR 2; thence southeasterly along SR 2 to the intersection with the east county line of King County; thence south along the county line to the northernmost point of the east county line of Pierce County; thence along the county line to the point of beginning at the mouth of the Nisqually River.
AQCR 062 E Washington-N Idaho Interstate (part):
Spokane County |  | Unclassifiable/Attainment.
AQCR 062 E Washington-N Idaho Interstate (remainder of):
Adams County |  | Unclassifiable/Attainment.
Asotin County |  | Unclassifiable/Attainment.
Columbia County |  | Unclassifiable/Attainment.
Garfield County |  | Unclassifiable/Attainment.
Grant County |  | Unclassifiable/Attainment.
Lincoln County |  | Unclassifiable/Attainment.
Whitman County |  | Unclassifiable/Attainment.
AQCR 193 Portland Interstate (remainder of):
Clark County (remainder) |  | Unclassifiable/Attainment.
Cowlitz County |  | Unclassifiable/Attainment.
Lewis County |  | Unclassifiable/Attainment.
Skamania County |  | Unclassifiable/Attainment.
Wahkiakum County |  | Unclassifiable/Attainment.
AQCR 227 Northern Washington Intrastate:
Chelan County |  | Unclassifiable/Attainment.
Douglas County |  | Unclassifiable/Attainment.
Ferry County |  | Unclassifiable/Attainment.
Okanogan County |  | Unclassifiable/Attainment.
Pend Oreille County |  | Unclassifiable/Attainment.
Stevens County |  | Unclassifiable/Attainment.
AQCR 228 Olympic-Northwest Washington Intrastate:
Clallam County |  | Unclassifiable/Attainment.
Grays Harbor County |  | Unclassifiable/Attainment.
Island County |  | Unclassifiable/Attainment.
Jefferson County |  | Unclassifiable/Attainment.
Mason County |  | Unclassifiable/Attainment.
Pacific County |  | Unclassifiable/Attainment.
San Juan County |  | Unclassifiable/Attainment.
Skagit County |  | Unclassifiable/Attainment.
Thurston County |  | Unclassifiable/Attainment.
Whatcom County |  | Unclassifiable/Attainment.
AQCR 229 Puget Sound Intrastate (remainder of):
King County (remainder) |  | Unclassifiable/Attainment.
Kitsap County |  | Unclassifiable/Attainment.
Snohomish County (remainder) |  | Unclassifiable/Attainment.
AQCR 230 South Central Washington Intrastate:
Benton County |  | Unclassifiable/Attainment.
Franklin County |  | Unclassifiable/Attainment.
Kittitas County |  | Unclassifiable/Attainment.
Klickitat County |  | Unclassifiable/Attainment.
Walla Walla County |  | Unclassifiable/Attainment.
Yakima County |  | Unclassifiable/Attainment.
Seattle-Tacoma Area:
Pierce County |  | Unclassifiable/Attainment.
ᵃ Includes Indian Country located in each county or area, except as otherwise specified.
¹ This date is 90 days after January 5, 2005, unless otherwise noted.

50. In § 81.349, the table entitled “West Virginia.—PM2.5” is added to the end of the section to read as follows:

§ 81.349 West Virginia.

* * * * *

West Virginia.—PM2.5
Designated area | Designation ᵃ: Date ¹ | Designation ᵃ: Type
Charleston, WV:
Kanawha County |  | Nonattainment.
Putnam County |  | Nonattainment.
Huntington-Ashland, WV-KY-OH:
Cabell County |  | Nonattainment.
Mason County (part) |  | Nonattainment.
Graham Tax District
Wayne County |  | Nonattainment.
Marion County, WV (aka Fairmont CBSA):
Harrison County (part) |  | Nonattainment.
Tax District of Clay
Marion County |  | Nonattainment.
Monongalia County (part) |  | Nonattainment.
Tax District of Cass
Martinsburg, WV-Hagerstown, MD:
Berkeley County |  | Nonattainment.
Parkersburg-Marietta, WV-OH:
Pleasants County (part) |  | Nonattainment.
Tax District of Grant
Wood County |  | Nonattainment.
Steubenville-Weirton, OH-WV:
Brooke County |  | Nonattainment.
Hancock County |  | Nonattainment.
Wheeling, WV-OH:
Marshall County |  | Nonattainment.
Ohio County |  | Nonattainment.
Rest of State:
Barbour County |  | Unclassifiable/Attainment.
Boone County |  | Unclassifiable/Attainment.
Braxton County |  | Unclassifiable/Attainment.
Calhoun County |  | Unclassifiable/Attainment.
Clay County |  | Unclassifiable/Attainment.
Doddridge County |  | Unclassifiable/Attainment.
Fayette County |  | Unclassifiable/Attainment.
Gilmer County |  | Unclassifiable/Attainment.
Grant County |  | Unclassifiable/Attainment.
Greenbrier County |  | Unclassifiable/Attainment.
Hampshire County |  | Unclassifiable/Attainment.
Hardy County |  | Unclassifiable/Attainment.
Harrison County (remainder) |  | Unclassifiable/Attainment.
Jackson County |  | Unclassifiable/Attainment.
Jefferson County |  | Unclassifiable/Attainment.
Lewis County |  | Unclassifiable/Attainment.
Lincoln County |  | Unclassifiable/Attainment.
Logan County |  | Unclassifiable/Attainment.
McDowell County |  | Unclassifiable/Attainment.
Mason County (remainder) |  | Unclassifiable/Attainment.
Mercer County |  | Unclassifiable/Attainment.
Mineral County |  | Unclassifiable/Attainment.
Mingo County |  | Unclassifiable/Attainment.
Monongalia County (remainder) |  | Unclassifiable/Attainment.
Monroe County |  | Unclassifiable/Attainment.
Morgan County |  | Unclassifiable/Attainment.
Nicholas County |  | Unclassifiable/Attainment.
Pendleton County |  | Unclassifiable/Attainment.
Pleasants County (remainder) |  | Unclassifiable/Attainment.
Pocahontas County |  | Unclassifiable/Attainment.
Preston County |  | Unclassifiable/Attainment.
Raleigh County |  | Unclassifiable/Attainment.
Randolph County |  | Unclassifiable/Attainment.
Ritchie County |  | Unclassifiable/Attainment.
Roane County |  | Unclassifiable/Attainment.
Summers County |  | Unclassifiable/Attainment.
Taylor County |  | Unclassifiable/Attainment.
Tucker County |  | Unclassifiable/Attainment.
Tyler County |  | Unclassifiable/Attainment.
Upshur County |  | Unclassifiable/Attainment.
Webster County |  | Unclassifiable/Attainment.
Wetzel County |  | Unclassifiable/Attainment.
Wirt County |  | Unclassifiable/Attainment.
Wyoming County |  | Unclassifiable/Attainment.
ᵃ Includes Indian Country located in each county or area, except as otherwise specified.
¹ This date is 90 days after January 5, 2005, unless otherwise noted.

51. In § 81.350, the table entitled “Wisconsin.—PM2.5” is added to the end of the section to read as follows:

§ 81.350 Wisconsin.

* * * * *

Wisconsin.—PM2.5
Designated area | Designation ᵃ: Date ¹ | Designation ᵃ: Type
Statewide:
Adams County |  | Unclassifiable/Attainment.
Ashland County |  | Unclassifiable/Attainment.
Barron County |  | Unclassifiable/Attainment.
Bayfield County |  | Unclassifiable/Attainment.
Brown County |  | Unclassifiable/Attainment.
Buffalo County |  | Unclassifiable/Attainment.
Burnett County |  | Unclassifiable/Attainment.
Calumet County |  | Unclassifiable/Attainment.
Chippewa County |  | Unclassifiable/Attainment.
Clark County |  | Unclassifiable/Attainment.
Columbia County |  | Unclassifiable/Attainment.
Crawford County |  | Unclassifiable/Attainment.
Dane County |  | Unclassifiable/Attainment.
Dodge County |  | Unclassifiable/Attainment.
Door County |  | Unclassifiable/Attainment.
Douglas County |  | Unclassifiable/Attainment.
Dunn County |  | Unclassifiable/Attainment.
Eau Claire County |  | Unclassifiable/Attainment.
Florence County |  | Unclassifiable/Attainment.
Fond du Lac County |  | Unclassifiable/Attainment.
Forest County |  | Unclassifiable/Attainment.
Grant County |  | Unclassifiable/Attainment.
Green County |  | Unclassifiable/Attainment.
Green Lake County |  | Unclassifiable/Attainment.
Iowa County |  | Unclassifiable/Attainment.
Iron County |  | Unclassifiable/Attainment.
Jackson County |  | Unclassifiable/Attainment.
Jefferson County |  | Unclassifiable/Attainment.
Juneau County |  | Unclassifiable/Attainment.
Kenosha County |  | Unclassifiable/Attainment.
Kewaunee County |  | Unclassifiable/Attainment.
La Crosse County |  | Unclassifiable/Attainment.
Lafayette County |  | Unclassifiable/Attainment.
Langlade County |  | Unclassifiable/Attainment.
Lincoln County |  | Unclassifiable/Attainment.
Manitowoc County |  | Unclassifiable/Attainment.
Marathon County |  | Unclassifiable/Attainment.
Marinette County |  | Unclassifiable/Attainment.
Marquette County |  | Unclassifiable/Attainment.
Menominee County |  | Unclassifiable/Attainment.
Milwaukee County |  | Unclassifiable/Attainment.
Monroe County |  | Unclassifiable/Attainment.
Oconto County |  | Unclassifiable/Attainment.
Oneida County |  | Unclassifiable/Attainment.
Outagamie County |  | Unclassifiable/Attainment.
Ozaukee County |  | Unclassifiable/Attainment.
Pepin County |  | Unclassifiable/Attainment.
Pierce County |  | Unclassifiable/Attainment.
Polk County |  | Unclassifiable/Attainment.
Portage County |  | Unclassifiable/Attainment.
Price County |  | Unclassifiable/Attainment.
Racine County |  | Unclassifiable/Attainment.
Richland County |  | Unclassifiable/Attainment.
Rock County |  | Unclassifiable/Attainment.
Rusk County |  | Unclassifiable/Attainment.
St. Croix County |  | Unclassifiable/Attainment.
Sauk County |  | Unclassifiable/Attainment.
Sawyer County |  | Unclassifiable/Attainment.
Shawano County |  | Unclassifiable/Attainment.
Sheboygan County |  | Unclassifiable/Attainment.
Taylor County |  | Unclassifiable/Attainment.
Trempealeau County |  | Unclassifiable/Attainment.
Vernon County |  | Unclassifiable/Attainment.
Vilas County |  | Unclassifiable/Attainment.
Walworth County |  | Unclassifiable/Attainment.
Washburn County |  | Unclassifiable/Attainment.
Washington County |  | Unclassifiable/Attainment.
Waukesha County |  | Unclassifiable/Attainment.
Waupaca County |  | Unclassifiable/Attainment.
Waushara County |  | Unclassifiable/Attainment.
Winnebago County |  | Unclassifiable/Attainment.
Wood County |  | Unclassifiable/Attainment.
ᵃ Includes Indian Country located in each county or area, except as otherwise specified.
¹ This date is 90 days after January 5, 2005, unless otherwise noted.

52. In § 81.351, the table entitled “Wyoming.—PM2.5” is added to the end of the section to read as follows:

§ 81.351 Wyoming.

* * * * *

Wyoming.—PM2.5
Designated area | Designation ᵃ: Date ¹ | Designation ᵃ: Type
Casper, WY:
Natrona County (part) |  | Unclassifiable/Attainment.
The portion within the City of Casper
Cheyenne, WY:
Laramie County (part) |  | Unclassifiable/Attainment.
The portion within the City of Cheyenne
Evanston, WY:
Uinta County (part) |  | Unclassifiable/Attainment.
The portion within the City of Evanston
Gillette, WY:
Campbell County (part) |  | Unclassifiable/Attainment.
The portion within the City of Gillette
Jackson, WY:
Teton County (part) |  | Unclassifiable/Attainment.
The portion within the City of Jackson
Lander, WY:
Fremont County (part) |  | Unclassifiable/Attainment.
The portion within the City of Lander
Laramie, WY:
Albany County (part) |  | Unclassifiable/Attainment.
The portion within the City of Laramie
Riverton, WY:
Fremont County (part) |  | Unclassifiable/Attainment.
The portion within the City of Riverton
Rock Springs, WY:
Sweetwater County (part) |  | Unclassifiable/Attainment.
The portion within the City of Rock Springs
Sheridan, WY:
Sheridan County (part) |  | Unclassifiable/Attainment.
The portion within the City of Sheridan
Rest of State:
Albany County (remainder) |  | Unclassifiable/Attainment.
Big Horn County |  | Unclassifiable/Attainment.
Campbell County |  | Unclassifiable/Attainment.
Carbon County |  | Unclassifiable/Attainment.
Converse County |  | Unclassifiable/Attainment.
Crook County |  | Unclassifiable/Attainment.
Fremont County (remainder) |  | Unclassifiable/Attainment.
Goshen County |  | Unclassifiable/Attainment.
Hot Springs County |  | Unclassifiable/Attainment.
Johnson County |  | Unclassifiable/Attainment.
Laramie County (remainder) |  | Unclassifiable/Attainment.
Lincoln County |  | Unclassifiable/Attainment.
Natrona County (remainder) |  | Unclassifiable/Attainment.
Niobrara County |  | Unclassifiable/Attainment.
Park County |  | Unclassifiable/Attainment.
Platte County |  | Unclassifiable/Attainment.
Sheridan County (remainder) |  | Unclassifiable/Attainment.
Sublette County |  | Unclassifiable/Attainment.
Sweetwater County |  | Unclassifiable/Attainment.
Teton County (remainder) |  | Unclassifiable/Attainment.
Uinta County (remainder) |  | Unclassifiable/Attainment.
Washakie County |  | Unclassifiable/Attainment.
Weston County |  | Unclassifiable/Attainment.
ᵃ Includes Indian Country located in each county or area, except as otherwise specified.
¹ This date is 90 days after January 5, 2005, unless otherwise noted.

In § 81.352, the table entitled “American Samoa.—PM2.5” is added to the end of the section to read as follows:

§ 81.352 American Samoa.

* * * * *

American Samoa.—PM2.5
Designated area | Designationᵃ: Date ¹ | Designationᵃ: Type
Statewide:
Eastern District |  | Unclassifiable/Attainment.
Manu'a District |  | Unclassifiable/Attainment.
Rose Island |  | Unclassifiable/Attainment.
Swains Island |  | Unclassifiable/Attainment.
Western District |  | Unclassifiable/Attainment.
ᵃ Includes Indian Country located in each county or area, except as otherwise specified.
¹ This date is 90 days after January 5, 2005, unless otherwise noted.

54. In § 81.353, the table entitled “Guam.—PM2.5” is added to the end of the section to read as follows:

§ 81.353 Guam.

* * * * *

Guam.—PM2.5
Designated area | Designation ᵃ: Date ¹ | Designation ᵃ: Type
Statewide:
Guam |  | Unclassifiable/Attainment.
ᵃ Includes Indian Country located in each county or area, except as otherwise specified.
¹ This date is 90 days after January 5, 2005, unless otherwise noted.

55. In § 81.354, the table entitled “Northern Mariana Islands.—PM2.5” is added to the end of the section to read as follows:

§ 81.354 Northern Mariana Islands.

* * * * *

Northern Mariana Islands.—PM2.5
Designated area | Designation ᵃ: Date ¹ | Designation ᵃ: Type
Statewide:
Northern Islands Municipality |  | Unclassifiable/Attainment.
Rota Municipality |  | Unclassifiable/Attainment.
Saipan Municipality |  | Unclassifiable/Attainment.
Tinian Municipality |  | Unclassifiable/Attainment.
ᵃ Includes Indian Country located in each county or area, except as otherwise specified.
¹ This date is 90 days after January 5, 2005, unless otherwise noted.

56. In § 81.355, the table entitled “Puerto Rico.—PM2.5” is added to the end of the section to read as follows:

§ 81.355 Puerto Rico.

* * * * *

Puerto Rico.—PM2.5
Designated area | Designation ᵃ: Date ¹ | Designation ᵃ: Type
Statewide:
Adjuntas Municipio |  | Unclassifiable/Attainment.
Aguada Municipio |  | Unclassifiable/Attainment.
Aguadilla Municipio |  | Unclassifiable/Attainment.
Aguas Buenas Municipio |  | Unclassifiable/Attainment.
Aibonito Municipio |  | Unclassifiable/Attainment.
Añasco Municipio |  | Unclassifiable/Attainment.
Arecibo Municipio |  | Unclassifiable/Attainment.
Arroyo Municipio |  | Unclassifiable/Attainment.
Barceloneta Municipio |  | Unclassifiable/Attainment.
Barranquitas Municipio |  | Unclassifiable/Attainment.
Bayamón County |  | Unclassifiable/Attainment.
Cabo Rojo Municipio |  | Unclassifiable/Attainment.
Caguas Municipio |  | Unclassifiable/Attainment.
Camuy Municipio |  | Unclassifiable/Attainment.
Canóvanas Municipio |  | Unclassifiable/Attainment.
Carolina Municipio |  | Unclassifiable/Attainment.
Cataño County |  | Unclassifiable/Attainment.
Cayey Municipio |  | Unclassifiable/Attainment.
Ceiba Municipio |  | Unclassifiable/Attainment.
Ciales Municipio |  | Unclassifiable/Attainment.
Cidra Municipio |  | Unclassifiable/Attainment.
Coamo Municipio |  | Unclassifiable/Attainment.
Comerío Municipio |  | Unclassifiable/Attainment.
Corozal Municipio |  | Unclassifiable/Attainment.
Culebra Municipio |  | Unclassifiable/Attainment.
Dorado Municipio |  | Unclassifiable/Attainment.
Fajardo Municipio |  | Unclassifiable/Attainment.
Florida Municipio |  | Unclassifiable/Attainment.
Guánica Municipio |  | Unclassifiable/Attainment.
Guayama Municipio |  | Unclassifiable/Attainment.
Guayanilla Municipio |  | Unclassifiable/Attainment.
Guaynabo County |  | Unclassifiable/Attainment.
Gurabo Municipio |  | Unclassifiable/Attainment.
Hatillo Municipio |  | Unclassifiable/Attainment.
Hormigueros Municipio |  | Unclassifiable/Attainment.
Humacao Municipio |  | Unclassifiable/Attainment.
Isabela Municipio |  | Unclassifiable/Attainment.
Jayuya Municipio |  | Unclassifiable/Attainment.
Juana Díaz Municipio |  | Unclassifiable/Attainment.
Juncos Municipio |  | Unclassifiable/Attainment.
Lajas Municipio |  | Unclassifiable/Attainment.
Lares Municipio |  | Unclassifiable/Attainment.
Las Marías Municipio |  | Unclassifiable/Attainment.
Las Piedras Municipio |  | Unclassifiable/Attainment.
Loíza Municipio |  | Unclassifiable/Attainment.
Luquillo Municipio |  | Unclassifiable/Attainment.
Manatí Municipio |  | Unclassifiable/Attainment.
Maricao Municipio |  | Unclassifiable/Attainment.
Maunabo Municipio |  | Unclassifiable/Attainment.
Mayagnez Municipio |  | Unclassifiable/Attainment.
Moca Municipio |  | Unclassifiable/Attainment.
Morovis Municipio |  | Unclassifiable/Attainment.
Naguabo Municipio |  | Unclassifiable/Attainment.
Naranjito Municipio |  | Unclassifiable/Attainment.
Orocovis Municipio |  | Unclassifiable/Attainment.
Patillas Municipio |  | Unclassifiable/Attainment.
Peñuelas Municipio |  | Unclassifiable/Attainment.
Ponce Municipio |  | Unclassifiable/Attainment.
Quebradillas Municipio |  | Unclassifiable/Attainment.
Rincón Municipio |  | Unclassifiable/Attainment.
Río Grande Municipio |  | Unclassifiable/Attainment.
Sabana Grande Municipio |  | Unclassifiable/Attainment.
Salinas Municipio |  | Unclassifiable/Attainment.
San Germán Municipio |  | Unclassifiable/Attainment.
San Juan Municipio |  | Unclassifiable/Attainment.
San Lorenzo Municipio |  | Unclassifiable/Attainment.
San Sebastián Municipio |  | Unclassifiable/Attainment.
Santa Isabel Municipio |  | Unclassifiable/Attainment.
Toa Alta Municipio |  | Unclassifiable/Attainment.
Toa Baja County |  | Unclassifiable/Attainment.
Trujillo Alto Municipio |  | Unclassifiable/Attainment.
Utuado Municipio |  | Unclassifiable/Attainment.
Vega Alta Municipio |  | Unclassifiable/Attainment.
Vega Baja Municipio |  | Unclassifiable/Attainment.
Vieques Municipio |  | Unclassifiable/Attainment.
Villalba Municipio |  | Unclassifiable/Attainment.
Yabucoa Municipio |  | Unclassifiable/Attainment.
Yauco Municipio |  | Unclassifiable/Attainment.
ᵃ Includes Indian Country located in each county or area, except as otherwise specified.
¹ This date is 90 days after January 5, 2005, unless otherwise noted.

57. In § 81.356, the table entitled “Virgin Islands.—PM2.5” is added to the end of the section to read as follows:

§ 81.356 Virgin Islands.

* * * * *

Virgin Islands.—PM2.5
Designated area | Designation ᵃ: Date ¹ | Designation ᵃ: Type
Statewide:
St. Croix |  | Unclassifiable/Attainment.
St. John |  | Unclassifiable/Attainment.
St. Thomas |  | Unclassifiable/Attainment.
ᵃ Includes Indian Country located in each county or area, except as otherwise specified.
¹ This date is 90 days after January 5, 2005, unless otherwise noted.

[FR Doc. 05-1 Filed 1-4-05; 8:45 am]

BILLING CODE 6560-50-P